DEPARTMENT OF THE INTERIOR

Fish and Wildlife Service

50 CFR Part 32

[Docket No. FWS-R9-NSR-2011-0038; 93270-1265-0000-4A]

RIN 1018-AX54

2011-2012 Refuge-Specific Hunting and Sport Fishing Regulations

AGENCY: Fish and Wildlife Service, Interior.

ACTION: Final rule.

SUMMARY: The Fish and Wildlife Service adds one refuge to the list of areas open for hunting and/or sport fishing and increases the activities available at nine other refuges, along with adopting pertinent refuge-specific regulations on other refuges that pertain to migratory game bird hunting, upland game hunting, big game hunting, and sport fishing for the 2011-2012 season.

DATES: This rule is effective September 9, 2011.

FOR FURTHER INFORMATION CONTACT: Leslie A. Marler, (703) 358-2397.

SUPPLEMENTARY INFORMATION: The National Wildlife Refuge System Administration Act of 1966 closes national wildlife refuges in all States except Alaska to all uses until opened. The Secretary of the Interior (Secretary) may open refuge areas to any use, including hunting and/or sport fishing, upon a determination that such uses are compatible with the purposes of the refuge and National Wildlife Refuge System (Refuge System or our/we) mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans. We also consider the role of facilitating hunting heritage in expanding hunting opportunities on national wildlife refuges consistent with the agency's mission.

We annually review refuge hunting and sport fishing programs to determine whether to include additional refuges or whether individual refuge regulations governing existing programs need modifications. Changing environmental conditions, State and Federal regulations, and other factors affecting fish and wildlife populations and habitat may warrant modifications to refuge-specific regulations to ensure the continued compatibility of hunting and sport fishing programs and to ensure that these programs will not materially interfere with or detract from the fulfillment of refuge purposes or the Refuge System's mission.

Provisions governing hunting and sport fishing on refuges are in title 50 of the Code of Federal Regulations in part 32 (50 CFR part 32). We regulate hunting and sport fishing on refuges to:

• Ensure compatibility with refuge purpose(s);

• Properly manage the fish and wildlife resource(s);

• Protect other refuge values;

• Ensure refuge visitor safety; and

• Provide opportunities for quality fish- and wildlife-dependent recreation.

On many refuges where we decide to allow hunting and sport fishing, our general policy of adopting regulations identical to State hunting and sport fishing regulations is adequate in meeting these objectives. On other refuges, we must supplement State regulations with more-restrictive Federal regulations to ensure that we meet our management responsibilities, as outlined in the Statutory Authority section. We issue refuge-specific hunting and sport fishing regulations when we open wildlife refuges to migratory game bird hunting, upland game hunting, big game hunting, or sport fishing. These regulations list the wildlife species that you may hunt or fish, seasons, bag or creel (container for carrying fish) limits, methods of hunting or sport fishing, descriptions of areas open to hunting or sport fishing, and other provisions as appropriate. You may find previously issued refuge-specific regulations for hunting and sport fishing in 50 CFR part 32. In this rulemaking, we are also proposing to standardize and clarify the language of existing regulations.

Statutory Authority

The National Wildlife Refuge System Administration Act of 1966 (16 U.S.C. 668dd-668ee, as amended by the National Wildlife Refuge System Improvement Act of 1997 [Improvement Act]) (Administration Act), and the Refuge Recreation Act of 1962 (16 U.S.C. 460k-460k-4) (Recreation Act) govern the administration and public use of refuges.

Amendments enacted by the Improvement Act, built upon the Administration Act in a manner that provides an “organic act” for the Refuge System, are similar to those that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are: hunting, fishing, wildlife observation and photography, and environmental education and interpretation.

The Recreation Act authorizes the Secretary to administer areas within the Refuge System for public recreation as an appropriate incidental or secondary use only to the extent that doing so is practicable and not inconsistent with the primary purpose(s) for which Congress and the Service established the areas. The Recreation Act requires that any recreational use of refuge lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop refuge-specific regulations to ensure the compatibility of the programs with the purpose(s) for which we established the refuge and the Refuge System mission. We ensure initial compliance with the Administration Act and the Recreation Act for hunting and sport fishing on newly acquired refuges through an interim determination of compatibility made at or near the time of acquisition. These regulations ensure that we make the determinations required by these acts prior to adding refuges to the lists of areas open to hunting and sport fishing in 50 CFR part 32. We ensure continued compliance by the development of comprehensive conservation plans, specific plans, and by annual review of hunting and sport fishing programs and regulations.

Response to Comments Received

In the July 5, 2011, Federal Register (76 FR 39186), we published a proposed rulemaking identifying changes pertaining to migratory game bird hunting, upland game bird hunting, big game hunting, and sport fishing to existing refuge-specific language on certain refuges for the 2011-2012 season. We received 251 comments on this proposed rule during a 30-day comment period; 226 of those comments were supportive of the rulemaking; 18 were opposed to the rulemaking; and the remainder expressed neither support nor opposition but had comments.

Comment 1: A commenter asked when we would notify the public of the opening of the various areas, when the applications would become available, and what fees we would require.

Response 1: With the publication of this final rule document, the changes become effective. We will be issuing press releases both locally in the affected areas and nationally from the Headquarters of the National Wildlife Refuge System and the U.S. Fish and Wildlife Service. Interested hunters should contact the particular refuge that they wish to visit for application and fee information. We maintain a list of all of the national wildlife refuges on our National Wildlife Refuge System homepage (link: http://www.fws.gov/refuges/). Look for the “Find Your Refuge” section on the first page and you can query the system by State, zip code, alphabetically by refuge or other means via the pull-down menu. Once you link to the refuge of interest, you will find their address, phone number, and a link to their individual Web sites.

Comment 2: We received six comments (from 4 different individuals) expressing concern regarding the Minnesota Valley National Wildlife Refuge's proposed prohibition on falconry. They state we offered no explanation for this prohibition, and they contend that falconry is a legal means of hunting/take in the State of Minnesota as it is in 49 of the 50 States. They object strongly to what appears to be prejudicial and a “denied equitable public opportunity” on the refuge and request that we remove such a bias from the regulations by allowing falconry. One commenter goes on to say that “clear regulatory or policy guidance to permit falconry on all refuge properties would assist refuge managers and personnel development refuge management plans.” This requestor also, “respectfully requests on all refuge properties where take is allowed by archery methods only, that falconry also be permitted.”

Response 2: Upon further examination of this condition, the refuge has decided to reverse their decision regarding falconry hunting as a means of take for migratory birds on Minnesota Valley National Wildlife Refuge and allow this opportunity. Due to the small number of hunters that practice falconry, the method used with this hunting technique, and the average success rate of this hunting method, we believe that this change will be insignificant in its direct, indirect, and cumulative impact. The factors considered in our analysis include the impact of this activity on overall migratory bird harvest, habitat conditions, interactions with other user groups, falconry hunter numbers, and economic gain or loss associated with this type of hunting.

As far as policy specific to falconry, Service policy 605 FW 2.7M Special Hunts stipulates, “We will address special types of hunts, such as falconry, in the hunt section of the visitor service plan (VSP).” In other words, each refuge manager when developing their step-down visitor service's plan (which would include a hunt plan, if appropriate) from their Comprehensive Conservation Plan, must first determine if hunting is compatible. Assuming it is found to be compatible, the refuge manager would next determine the conduct of the hunt which might include the use of falconry. A refuge manager has discretion to prohibit hunting, and specifically falconry, in certain cases such as if endangered or threatened species are present; thus it is decided individually on a refuge-by-refuge basis.

Comment 3: A commenter supports the proposed rule to open Crane Meadows National Wildlife Refuge to deer and turkey hunting and to expand hunting at nine other refuges across the country and agrees that the rule meets the intent of the National Wildlife Refuge System Improvement Act to provide opportunities for wildlife-dependent activities, including hunting, when these activities are compatible with refuge purposes and with the mission and purposes of the National Wildlife Refuge System. The commenter wonders why in the SUPPLEMENTARY INFORMATION section of the proposed rule that Executive Order 13443 is not included along with other mentioned Executive Orders (E.O.) and urges us to add this E.O. to the list of others with which we must comply and make this E.O. a standard part of any future proposed rule that opens or expands wildlife-dependent activities on national wildlife refuges.

Response 3: The very nature of this rule to open and expand hunting on national wildlife refuges is consistent with the purpose of Executive Order 13443 (Facilitation of Hunting Heritage and Wildlife Conservation). However, we are not including reference to the E.O. in the Required Determinations section of the rule because all of the E.O.s and Acts that are contained in that section of the rule require that a substantive determination be made as part of the regulatory process, whereas E.O. 13443 states that agencies should consider certain things in developing their policies but does not require that a specific determination be made in analyzing the substance of the E.O. as it might be impacted by the proposed regulation (emphasis added). We do consider the broad precepts of E.O. 13443 in developing the hunting regulations, but there is no affirmative obligation to assert that an agency has complied with that specific E.O.

As the commenter correctly observes, this proposed rule does meet the intent of the National Wildlife Refuge System Improvement Act to provide opportunities for wildlife-dependent activities, including hunting, when these activities are compatible with refuge purposes and with the mission and purposes of the National Wildlife Refuge System. They also correctly note that in the SUPPLEMENTARY INFORMATION section of the proposed rule we reference the Improvement Act and the fact that it established six wildlife-dependent recreation uses, including hunting, as priority general public uses.

We have added a sentence to the SUPPLEMENTARY INFORMATION section of this final rulemaking to indicate that we consider the role of facilitating hunting heritage in expanding hunting opportunities on national wildlife refuges consistent with the agency's mission.

Comment 4: Seventeen commenters expressed objection to the concept of allowing any more hunting on national wildlife refuges. Their statements ranged from “ * * * too many people, too few animals” to “I think the fact that it is a National Wildlife `Refuge' should mean just that.”

Response 4: The 1966 National Wildlife Refuge System Administration Act, which was amended by the 1997 National Wildlife Refuge System Improvement Act, stipulates that hunting (along with fishing, wildlife observation and photography, and environmental education and interpretation), if found to be compatible, is a legitimate and priority general public use of a refuge and should be facilitated. The Administration Act authorizes the Secretary to allow use of any refuge area for any purpose as long as those uses are compatible. In the case of each refuge opening/expansion in this rule, the refuge managers went through the compatibility process (which allows for public comment), in addition to complying with the National Environmental Policy Act (42 U.S.C. 4321 et seq.) (NEPA) (which also allows for public comment) to make the determination before opening the refuge to hunting or expanding the hunting opportunities on the refuge. We made no change to the regulations as a result of these comments.

Comment 5: A commenter expressed opposition to opening Arapaho National Wildlife Refuge in Colorado to elk hunting.

Response 5: Elk are found throughout the refuge and are the most numerous big game species on the refuge. The wintering elk population has continued to grow, from 200 to 300 elk in 1988 to approximately 1,500 to 1,800 elk on the refuge in recent years.

The primary objective of the elk hunt is to increase the dispersal of elk onto adjacent lands where they will be available to more hunters, and to harvest a small percentage of the population on the refuge thereby lessening the impacts to all native species, including migratory birds. The elk hunt will also provide a new, quality hunting opportunity for hunters with a focus on youth hunters and hunters with disabilities. Refuge managers determined that it is advisable to take management action before the elk population reaches the point where it does long-term damage to the environment and adversely affects other native flora and fauna species.

Without a reduction in elk numbers, sections of the Illinois River on the refuge will continue to be impacted by wintering elk. Elk can have a severe impact on establishment and long-term health of willow stands, making achievement of refuge habitat objectives unlikely. If the refuge elk population continues to grow, it will eventually exceed the carrying capacity of the available habitat. We will continue to monitor the population, coordinate with the Colorado Department of Wildlife, limit hunter participation, and establish bag limits to ensure the population will not be adversely affected by managed hunting.

We made no change to the regulations as a result of this comment.

Comment 6: A commenter from the State of Texas, although supportive of the rulemaking, felt it was important to require “* * * those utilizing these great resources to take appropriate hunter and bowhunter education courses. This will make sure that all hunters have been exposed to safety and ethical issues that will insure a safer hunting environment.”

Response 6: We concur with the commenter. As discussed in the introductory paragraph of each hunting and/or sport fishing category for nearly every refuge under each State in 50 CFR part 32, we stipulate that we allow hunting and/or sport fishing activities in accordance with State regulations subject, in many cases, to conditions that follow in the refuge-specific regulations. Regulations allowing hunting of wildlife within the Refuge System must be, to the extent practicable, consistent with State fish and wildlife laws, regulations, and management plans; therefore, we do not reiterate those regulations in our regulations (see Fish and Wildlife Service policy 605 FW 2.3B).

In the case of Texas, State regulations require that big game hunters have a bowhunting/hunter education certificate in their possession when hunting. Although we do not specifically restate this in our Texas refuge-specific regulations, our refuges do comply with this State law, which would include requiring this certificate for big game hunters. Further, at each refuge, there are brochures available to the hunter that go into detail about this State and refuge requirement. We made no changes to the rule as a result of this comment.

Comment 7: A commenter indicated they would like to see deer and hog hunting allowed by archery means only on Bayou Sauvage National Wildlife Refuge (NWR) in the State of Louisiana.

Response 7: This urban refuge (within the city limits) is closed to big game hunting (the category of hunting under which one would find large species such as deer and hog); therefore this comment is not germane to this rulemaking. We made no change to the regulation as a result of this comment.

Comment 8: A commenter asked why we do not allow feral pig hunting at Merritt Island NWR in Florida as “they have a terrible feral pig problem” there. Also the same commenter questioned the need for a waterfowl hunt as wintering waterfowl numbers have dropped from 120,000 to under 18,000 in the past 10 years.

Response 8: Merritt Island National Wildlife Refuge is an overlay of the Kennedy Space Center (KSC) and the Service manages NASA's lands through an agreement. Prior to NASA's purchase of the lands for KSC, much of the area was owned by several large hunt clubs and when the property was sold, the prominent hunt club members desired retaining hunting privileges. When NASA entered into the agreement with the Service to establish the refuge, it specified waterfowl hunting would continue. Since 1963, the year we established the refuge, we have allowed waterfowl hunting in selected locations outside the restricted area of KSC.

The refuge hunt program has evolved over the years in response to changing waterfowl populations, waterfowl use patterns, habitat conditions, and changes in the public use program. The length of the season, days of the week open to hunting, number and size of hunt areas, and ways and means for issuing permits have changed frequently over the past 48 years. Presently 36,000 acres of the 140,000-acre Merritt Island NWR are open to waterfowl hunting and are subdivided into four hunt areas (Hunt Areas 1 through 4). The refuge has a concurrent season with the State of Florida, except the refuge is open to hunting 3 days per week (Wednesday, Saturday, and Sunday) from legal shooting time until 1 p.m. We require a refuge hunt permit (signed brochure), a State-approved hunter safety training certificate, and a quota permit (State permit) for Hunt Areas 1 and 4 for the months of November and December.

Waterfowl populations have declined on the refuge for at least 10 years. The refuge staff is concerned about the decline, but it is unclear if the cause is fewer birds migrating to Florida, a shift in the Florida wintering population to other parts of the State (the decline seems to coincide with new habitat being created for Everglades restoration), or excessive hunting pressure on the refuge. In March of this year, following the 2010-2011 Waterfowl Season, refuge personnel met with the Florida Fish and Wildlife Commission and waterfowl hunter stakeholders (representatives from Ducks Unlimited and United Waterfowlers), to discuss solutions to improve waterfowl hunting and address the decline in the refuge waterfowl populations. As a result of this meeting, the consensus was to attempt to improve the quality of the habitat conditions on the refuge but not make any immediate changes to the hunt program. The refuge will continue to monitor the waterfowl population but, at least for now, does not propose any additional changes to the waterfowl regulations.

With respect to the issue of opening the refuge to feral hog hunting, the refuge has never been open to big game hunting. However in 2006, when they completed the Comprehensive Conservation Plan for the refuge, they made provisions to evaluate opening the northern quarter of the refuge to feral hog and deer hunting. The refuge currently uses hog trappers under permit to remove feral hogs, and those trappers remove between 2,500 to 3,000 animals annually through this program at no cost to the refuge. The feral hog removal program is fairly effective, and at this time we do not wish to introduce a public hunt into the mix. A public hunt may provide a short-term advantage of reducing the population quickly in the area of the hunt, but, in the long run, the constant pressure afforded by the hog trappers in all areas of the refuge may provide a more effective long-term control. However, the refuge plans to evaluate implementing a feral hog hunt when the feral hog permits expire. No changes were made to this final rule as a result of this comment.

Comment 9: A commenter asked how we would pay for supervision of hunting activity in these proposed areas given the budgetary constraints that currently exist and that are likely to become more stringent. Also, do we believe we can properly supervise the hunts under the circumstances?

Response 9: When developing the Comprehensive Conservation Plans and step-down hunting plans for each refuge, the refuge manager takes into account budgetary needs for increased hunting opportunities. Basically, the refuge would not be proposing the activity (or increased activity) if it did not anticipate that there was enough funding to ensure compatibility and to administer and to manage the hunts.

Typically, you can find this discussion under the “Staffing and Funds” section of each refuge's hunt plans, which were made publicly available when first issued, and remain available at each station's Web site. In some cases, an existing hunt program is in place and the refuge does not anticipate a drastic change in staffing or funding requirements. As refuge law enforcement can be a collateral duty for refuge staff, they may occasionally “borrow” law enforcement as needed from other refuges. For other refuges, non-law enforcement staff time does not increase greatly since generally all hunting seasons and permitting will be handled according to State regulations. Some refuges also see some budgetary relief in user fees which they believe are sufficient to cover increased opportunities. Some refuges state that there would be some costs associated with a hunting program in the form of brochures, instructional sign needs, and law enforcement. These refuges expect that the costs should be minimal relative to total refuge operations and maintenance costs and would not diminish resources dedicated to other refuge management programs.

However, the refuges do acknowledge there will be some additional staff workload in order to administer new hunting opportunities and this factors into the decision to allow those opportunities. Finally, as discussed earlier in this SUPPLEMENTARY INFORMATION section, with the passage of the National Wildlife Refuge Improvement Act of 1997, Congress mandated that hunting was one of the six priority general public uses that refuge managers were to facilitate when compatible, so to the extent possible and practicable, we adhere to that directive.

We made no change to the regulations as a result of this comment.

Comment 10: A commenter, although supportive of the additional hunting opportunity in Iowa, wondered why we impose additional requirements such as “steel shot only” on all our public hunting areas. The commenter points out that steel is costly and does not believe that it has been proven that the steel shot requirement has had a positive effect on migratory birds.

Response 10: Waterfowl and migratory birds can get lead poisoning by ingesting lead shot when they feed (see http://www.fws.gov/sacramento/ec/lead%20shot.htm). In the November 21, 1986, Federal Register (51 FR 42103) we began the conversion to nontoxic shot nationwide for waterfowl hunting on refuges, which we implemented in the 1991-1992 hunting season. At that time, refuges were implementing the nontoxic shot requirement on a refuge-by-refuge basis, and multiple rules were published (an example would be the June 19, 1991, Federal Register (56 FR 28133)). The Service oversees the approval process for alternative shot types in the United States. We specifically identify the shot allowed in areas of the Refuge System by reference to the shot identified in 50 CFR 20.21(j). We sometimes grant new shot types conditional approvals until we complete all necessary studies. These conditional approvals may change yearly, and we add new shot types to our approved list as they meet our criteria. You can link to the following Web sites concerning lead shot that contain more background information on this issue:

http://www.lab.fws.gov/shotpellets_leadshot.php; http://www.fws.gov/sacramento/ec/lead%20shot.htm;

http://www.fws.gov/contaminants/DisplayNews.cfm?NewsID=4DAA500C-3E21-4564-87AA714E9E301C9E.

You can find many other Web sites concerning lead shot by conducting an Internet search.

We made no change to the regulations as a result of this comment.

Comment 11: We received a comment regarding the proposed youth hunt at Bayou Sauvage National Wildlife Refuge in Louisiana. The commenter notes that the proposed hunt would allow hunting within 500 feet of Venetian Isle, a dense population of waterfront homes within the New Orleans city limits, and believes that not only should we prohibit hunting within the city limits but that the hunting boundaries should be at least 1 mile from homes. Further, the commenter doesn't want to be awakened by gunfire on weekend mornings.

Response 11: The National Wildlife Refuge System Improvement Act of 1997 identifies hunting as a priority public use, and providing opportunities for fish and wildlife public uses in an urban setting is an established purpose of the refuge. Given this supporting legislation and the significant public support for hunting on Bayou Sauvage NWR, it is important that these opportunities are available to the public.

Our goal is to ensure that hunting is balanced with the other priority public uses of environmental education, wildlife observation, interpretation, fishing, and photography. Thus, we have designated the interior units (57 percent of the refuge) as closed to hunting to allow ample opportunities for the other five priority uses. Additionally, we allow hunting only 4 days per week until 12 (noon), and these units will be open to fishing and other activities during nonhunting times.

The youth hunt we are proposing is for migratory bird hunting, unlike comment 7 whichi dealt with big game hunting. The ammunition used for these two types of hunting is different. Bird shot has a different trajectory and much less mass than a rifled slug or bullet and would not travel as far as those ammunitions used in big game hunting. Under these circumstances, we feel the prohibition of hunting within 500 feet (150 m) of residences adequately provides for public safety. On two other Louisiana refuges, Big Branch Marsh and Bogue Chitto, we allow hunting within 150 feet (45 m) of roads, trails, residences, and public facilities. In order to reduce potential noise associated with hunting activities near Venetian Isles, the areas located outside the hurricane protection levee, immediately west and south of Venetian Isles, between the former Bayou Sauvage channel and the railroad tracks will be posted closed to hunting. We made no changes to this regulation as a result of the comment.

Comment 12: A commenter questioned the “rigorous scientific research into the status of refuge wildlife populations” and whether we were using this information to guide refuge planning. The commenter went on to say that a determination must be made that “wildlife are surplus to a balanced conservation program on any wildlife area,” and that “unless the species is damaging or destroying federal property within a refuge, the species cannot be subject to live removal or lethal control, including through official animal control operations.” They believe that “refuges often fail to have refuge specific monitoring of harvest levels,” and discussed the concept of an “inviolate sanctuary.” Finally, the commenter believes that since “21 million people visit refuges for wildlife observation” and “only 1.4 million visit to hunt or trap” that nonconsumptive users should enjoy a higher priority when it comes to use of refuge lands.

Response 12: As discussed in the response to Comment 4, and as Comment 12 acknowledges, “the Refuge Improvement Act upgrades hunting and fishing to a priority use * * *”. Each refuge manager gives the decision to allow hunting on a particular refuge rigorous examination. A Comprehensive Conservation Plan (CCP), a 15-year plan for the refuge, is generally the first step a refuge manager takes. Our policy for managing units of the Refuge System is that we will manage all refuges in accordance with an approved CCP which, when implemented, will achieve refuge purposes; help fulfill the Refuge System mission; maintain and, where appropriate, restore the ecological integrity of each refuge and the Refuge System; help achieve the goals of the National Wilderness Preservation System; and meet other mandates. The CCP will guide management decisions and set forth goals, objectives, and strategies to accomplish these ends. The next step for refuge managers is step-down plans, of which hunting would be one step-down plan. Part of the process for opening a refuge to hunting after completing the step-down plan would be appropriate compliance with the National Environmental Policy Act (NEPA), typically an environmental assessment accompanied by the appropriate decision documentation (Record of Decision, Finding of No Significant Impact, or an Environmental Action Memorandum or Statement). The CCP, hunt plan, and NEPA all receive public comment as does the proposed rule, before the final rule is published in the Federal Register. After publication of the final rule, we allow hunting on a refuge.

In sum, this illustrates that the decision to allow hunting on a national wildlife refuge is not a quick or simple process. It is full of deliberation and discussion, including review of all available data to determine the relative health of a population before we allow it to be hunted. In the case of migratory game bird hunting, the Service annually prescribes frameworks for dates and times when migratory bird hunting may occur in the United States, and the number of birds that hunters may take and possess. We write these regulations after giving due regard to the zones of temperature and to the distribution, abundance, economic value, breeding habits, and times and lines of migratory flight of such birds, and we update the information annually. Under the Migratory Bird Treaty Act (16 U.S.C. 703-712), Congress authorized the Secretary of the Interior to determine when “hunting, taking, capture, killing, possession, sale, purchase, shipment, transportation, carriage, or export of any * * * bird, or any part, nest, or egg” of migratory game birds can take place, and to adopt regulations for this purpose. The Secretary of the Interior delegated this responsibility to the Service as the lead Federal agency for managing and conserving migratory birds in the United States.

Because the Service is required to take abundance of migratory birds and other factors into consideration, we undertake a number of surveys throughout the year in conjunction with the Canadian Wildlife Service, State and Provincial wildlife management agencies, and others. To determine the appropriate frameworks for each species, we consider factors such as population size and trend, geographical distribution, annual breeding effort, the condition of breeding and wintering habitat, the number of hunters, and the anticipated harvest. After we establish frameworks for season lengths, bag limits, and areas for migratory bird hunting, migratory game bird management becomes a cooperative effort of State and Federal Governments. After Service establishment of final frameworks for hunting seasons, the States may select season dates, bag limits, and other regulatory options for the hunting seasons.

As discussed in the Cumulative Impacts Report that we posted on http://www.regulations.gov under Docket No. FWS-R9-NSR-2011-0038, along with the proposed rule on the day of publication (July 5, 2011), we took a look at the cumulative impact that the 2011-2012 proposed rule would have on migratory birds, resident wildlife, nonhunted migratory and resident wildlife, threatened and endangered species, habitats and plant resources, other wildlife-dependent recreational uses, physical resources (air, water, soils), cultural resources, refuge facilities, solitude, and cumulative socioeconomic impacts.

This rule proposes to expand migratory bird hunting on five refuges. Collectively, we estimate that this proposed hunting action will result in the take of 2,450 ducks or .019 percent of the estimated national harvest and the take of 650 geese or .02 percent of the estimated national harvest. In short, we project that harvests of these species on the five refuges will constitute an extremely minor component of the national harvests.

We allow hunting of resident wildlife on national wildlife refuges only if such activity has been determined compatible with the established purpose(s) of the refuge and the mission of the Refuge System as required by the Administration Act. Hunting of resident wildlife on national wildlife refuges generally occurs consistent with State regulations, including seasons and bag limits. Refuge-specific hunting regulations can be more restrictive (but not more liberal) than State regulations and often are in order to help meet specific refuge objectives. These include resident wildlife population and habitat objectives, minimizing disturbance impacts to wildlife, maintaining high-quality opportunities for hunting and other wildlife-dependent recreation, eliminating or minimizing conflicts with other public uses and/or refuge management activities, and protecting public safety.

The proposed actions involving resident wildlife hunting include three refuges allowing this type of hunting for the first time and expanding this type of hunting on six refuges. Please consult the Cumulative Impacts Report at the site referenced above for more in-depth discussion, but in sum, none of the known, estimated or projected harvests of big game, small or upland game species resulting from the proposed hunting activities on refuges were determined or expected to have significant adverse direct, indirect or cumulative impacts to any big game, small, or upland wildlife population.

The Migratory Bird Conservation Act of 1929 (16 U.S.C. 715 et seq.) authorizes acquisition of refuges as “inviolate sanctuaries” where the birds could rest and reproduce in total security. In 1949, this “inviolate sanctuary” concept was modified by an amendment to the Migratory Bird Hunting and Conservation Stamp Act which permitted hunting on up to 25 percent of each inviolate refuge. Another amendment to the Migratory Bird Hunting and Conservation Stamp Act in 1958 increased the total area of an inviolate refuge that could be opened for hunting to up to 40 percent.

Whether an area is an inviolate sanctuary is a function of the mechanism of its creation. If a refuge was acquired as an inviolate sanctuary, only 40 percent of the refuge area may be opened at one time for hunting of migratory game birds. However, if the refuge was not acquired as an inviolate sanctuary, 100 percent of the refuge area may be opened for hunting.

The Fish and Wildlife Improvement Act of 1978 amended section 6 of the National Wildlife Refuge System Administration Act of 1966 (16 U.S.C. 668dd) to provide for the opening of all or any portion of an inviolate sanctuary to the taking of migratory birds if taking is determined to be beneficial to the species. Such opening of more than 40 percent of the inviolate sanctuary to hunting is determined by species. This amendment refers to inviolate sanctuaries created in the past or to be created in the future. It has no application to areas acquired for other management purposes.

Most refuge hunt programs have established refuge-specific regulations to improve the quality of the hunting experience as well as provide for quality wildlife-dependent experiences for other users. Refuge visitor use programs are adjusted, as needed to eliminate or minimize conflicts between users. Virtually all of the refuges open to hunting and other wildlife-dependent recreational uses use time and space zoning as an effective method to reduce conflicts between hunting and other uses. Eliminating or restricting overlap between hunt areas and popular areas from other wildlife-dependent recreation allows opportunity for other users to safely enjoy the refuge in nonhunted areas during hunting seasons. Restrictions on the number of hunters and the time in which they could hunt are also frequently used to minimize conflicts between user groups. Public outreach accompanying the opening of hunting seasons is frequently used to make other wildlife-dependent recreational users aware of the seasons and minimize conflicts. We made no changes to the regulations as a result of this comment.

Effective Date

This rule is effective upon publication in the Federal Register. We have determined that any further delay in implementing these refuge-specific hunting and sport fishing regulations would not be in the public interest, in that a delay would hinder the effective planning and administration of the hunting and fishing programs. We provided a 30-day public comment period for the July 5, 2011, proposed rule. An additional delay would jeopardize holding the hunting and/or fishing programs this year or shorten their duration and thereby lessen the management effectiveness of this regulation. This rule does not impact the public generally in terms of requiring lead time for compliance. Rather it relieves restrictions in that it allows activities on refuges that we would otherwise prohibit. Therefore, we find good cause under 5 U.S.C. 553(d)(3) to make this rule effective upon publication.

Amendments to Existing Regulations

This document codifies in the Code of Federal Regulations amendments to the Service's hunting and/or sport fishing regulations that are applicable at Refuge System units previously opened to hunting and/or sport fishing. We are doing this to better inform the general public of the regulations at each refuge, to increase understanding and compliance with these regulations, and to make enforcement of these regulations more efficient. In addition to now finding these regulations in 50 CFR part 32, visitors to our refuges will usually find them reiterated in literature distributed by each refuge or posted on signs.

We have cross-referenced a number of existing regulations in 50 CFR parts 26, 27, 28, and 32 to assist hunting and sport fishing visitors with understanding safety and other legal requirements on refuges. This redundancy is deliberate, with the intention of improving safety and compliance in our hunting and sport fishing programs.

Table 1—Changes for 2011-2012 Hunting/Fishing Season
National Wildlife Refuge | State | Migratory bird hunting | Upland game hunting | Big game hunting | Fishing
Arapaho | CO | Already open | Already open | D (elk) | Already open.
Bayou Sauvage | LA | B | Closed | Closed | Already open.
Coldwater River | MS | B | B | B | Already open.
Crane Meadows | MN | Closed | Closed | A (deer/turkey) | Closed.
Currituck | NC | Already open | Closed | B | Closed.
Minnesota Valley | MN | C | C | C | Already open.
Northern Tallgrass Prairie | MN/IA | C/D | C/D | C | Closed.
Ouray | UT | Already open | D (turkey) | D (elk) | Already open.
Sherburne | MN | C | Already open | D (turkey)/C | Already open.
Trinity River | TX | Already open | C | C | Already open.
A = New refuge opened.
B = New activity on a refuge previously opened to other activities.
C = Refuge already open to activity but added new land/waters which increased activity.
D = Refuge already open to activity but added new species to hunt.

We are making an administrative change that correctly reflects that Trempealeau National Wildlife Refuge in the State of Wisconsin is closed to Upland Game Hunting. The refuge has never been open to that activity, and we are correcting the record with this change.

We are also adding Tishomingo Wildlife Management Unit in the State of Oklahoma to the list of refuges open to hunting and or fishing in 50 CFR part 32. We now correctly reflect how Tishomingo National Wildlife Refuge's (an overlay refuge where the land is owned by the U.S. Army Corps of Engineers) hunting opportunities differ from those of the Tishomingo Wildlife Management Unit. The Tishomingo National Wildlife Refuge, managed by refuge staff, is open only to big game hunting and sport fishing. The Tishomingo Wildlife Management Unit, managed by the Oklahoma Wildlife Conservation Department under a 1957 agreement entered into between the U.S. Army Corps of Engineers and the Secretary of the Interior, is open to all three hunting opportunities (migratory game bird, upland game, and big game) and sport fishing.

The changes for the 2011-12 hunting/fishing season noted in the chart above are each based on a complete administrative record which, among other detailed documentation, also includes a hunt plan, a compatibility determination, and the appropriate National Environmental Policy Act (NEPA; 42 U.S.C. 4321 et seq.) analysis, all of which were the subject of a public review and comment process. These documents are available upon request.

Fish Advisory

For health reasons, anglers should review and follow State-issued consumption advisories before enjoying recreational sport fishing opportunities on Service-managed waters. You can find information about current fish consumption advisories on the Internet at: http://www.epa.gov/waterscience/fish/.

Plain Language Mandate

In this rule we made some of the revisions to the individual refuge units to comply with a Presidential mandate to use plain language in regulations; as such, these particular revisions do not modify the substance of the previous regulations. These types of changes include using “you” to refer to the reader and “we” to refer to the Refuge System, using the word “allow” instead of “permit” when we do not require the use of a permit for an activity, and using active voice (i.e., “We restrict entry into the refuge” vs. “Entry into the refuge is restricted”).

Regulatory Planning and Review

The Office of Management and Budget (OMB) has determined that this rule is not significant under Executive Order 12866 (E.O. 12866). OMB bases its determination on the following four criteria:

(a) Whether the rule will have an annual effect of $100 million or more on the economy or adversely affect an economic sector, productivity, jobs, the environment, or other units of the government.

(b) Whether the rule will create inconsistencies with other Federal agencies' actions.

(c) Whether the rule will materially affect entitlements, grants, use fees, loan programs, or the rights and obligations of their recipients.

(d) Whether the rule raises novel legal or policy issues.

Regulatory Flexibility Act

Under the Regulatory Flexibility Act (as amended by the Small Business Regulatory Enforcement Fairness Act [SBREFA] of 1996) (5 U.S.C. 601 et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule would not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule would not have a significant economic impact on a substantial number of small entities.

This rule adds one national wildlife refuge to the list of refuges open to hunting and increases hunting activities on nine national wildlife refuges. As a result, visitor use for wildlife-dependent recreation on these national wildlife refuges will change. If the refuges establishing new programs were a pure addition to the current supply of such activities, it would mean an estimated increase of 4,750 user days (one person per day participating in a recreational opportunity) (Table 2). Because the participation trend is flat in these activities since 1991, this increase in supply will most likely be offset by other sites losing participants. Therefore, this is likely to be a substitute site for the activity and not necessarily an increase in participation rates for the activity.

Table 2—Estimated Change in Recreation Opportunities in 2011/2012
Refuge | Additional user days | Additional expenditures
Arapaho | 40 | $4,337
Bayou Sauvage | 672 | 72,865
Coldwater River | 400 | 43,372
Crane Meadows | 55 | 5,964
Currituck | 400 | 43,372
Minnesota Valley | 2,818 | 305,555
Northern Tallgrass Prairie | 75 | 8,132
Ouray | 100 | 10,843
Sherburne | 50 | 5,421
Trinity River | 140 | 15,180
Total | 4,750 | 515,041

To the extent visitors spend time and money in the area of the refuge that they would not have spent there anyway, they contribute new income to the regional economy and benefit local businesses. Due to the unavailability of site-specific expenditure data, we use the national estimates from the 2006 National Survey of Fishing, Hunting, and Wildlife Associated Recreation to identify expenditures for food and lodging, transportation, and other incidental expenses. Using the average expenditures for these categories with the maximum expected additional participation of the Refuge System yields approximately $515,000 in recreation-related expenditures (Table 2). By having ripple effects throughout the economy, these direct expenditures are only part of the economic impact of these recreational activities. Using a national impact multiplier for hunting activities (2.67) derived from the report “Economic Importance of Hunting in America” yields a total economic impact of approximately $1.4 million (2010 dollars) (Southwick Associates, Inc., 2007). Using a local impact multiplier would yield more accurate and smaller results. However, we employed the national impact multiplier due to the difficulty in developing local multipliers for each specific region.

Since we know that most of the fishing and hunting occurs within 100 miles of a participant's residence, then it is unlikely that most of this spending would be “new” money coming into a local economy; therefore, this spending would be offset with a decrease in some other sector of the local economy. The net gain to the local economies would be no more than $1.4 million, and most likely considerably less. Since 80 percent of the participants travel less than 100 miles to engage in hunting and fishing activities, their spending patterns would not add new money into the local economy and, therefore, the real impact would be on the order of about $275,000 annually.

Small businesses within the retail trade industry (such as hotels, gas stations, taxidermy shops, bait and tackle shops, etc.) may be impacted from some increased or decreased refuge visitation. A large percentage of these retail trade establishments in the local communities around national wildlife refuges qualify as small businesses (Table 3). We expect that the incremental recreational changes will be scattered, and so we do not expect that the rule will have a significant economic effect on a substantial number of small entities in any region or nationally. As noted previously, we expect approximately $515,000 to be spent in total in the refuges' local economies. The maximum increase ($1.4 million if all spending were new money) at most would be less than 1 percent for local retail trade spending.

Table 3—Comparative Expenditures for Retail Trade Associated With Additional Refuge Visitation for 2011/2012
[Thousands, 2010 dollars]
Refuge/county(ies) | Retail trade in 2007 (2010 $ ) | Estimated maximum addition from new activities | Addition as % of total | Establishments in 2008 | Establ. with <10 emp in 2008
Arapaho
Jackson, CO | $23,099 | $4.3 | 0.019 | 13 | 10
Bayou Sauvage
Orleans Parish, LA | 3,241,340 | 72.9 | 0.002 | 1,201 | 983
Coldwater River
Tallahatchie, MS | 67,735 | 21.7 | 0.032 | 40 | 34
Quitman, MS | 29,478 | 21.7 | 0.074 | 21 | 18
Crane Meadows
Morrison, MN | 430,771 | 6.0 | 0.001 | 135 | 94
Currituck
Currituck, NC | 314,767 | 43.4 | 0.014 | 142 | 118
Minnesota Valley
Hennepin MN | 26,568,279 | 76.4 | 0 | 4,295 | 2,670
Carver MN | 962,544 | 76.4 | 0.008 | 223 | 143
Scott MN | 1,394,907 | 76.4 | 0.005 | 349 | 234
Dakota MN | 6,158,226 | 76.4 | 0.001 | 1,169 | 717
Northern Tallgrass Prairie
Jasper, IA | 326,707 | 1.2 | 0 | 120 | 79
Kossuth, IA | 233,531 | 1.2 | 0 | 99 | 78
Lincoln, MN | 63,331 | 1.2 | 0.002 | 37 | 27
Lyon, MN | 451,824 | 1.2 | 0 | 134 | 96
Otter Tail, MN | 840,187 | 1.2 | 0 | 277 | 204
Rock, MN | 130,128 | 1.2 | 0.001 | 47 | 33
Stevens, MN | 202,798 | 1.2 | 0.001 | 53 | 34
Ouray
Unitah, UT | 550,293 | 10.8 | 0.002 | 137 | 85
Sherburne
Sherburne, MN | 1,006,876 | 5.4 | 0.001 | 207 | 134
Trinity River
Liberty, TX | 778,776 | 15.2 | 0.002 | 200 | 143

With the small change in overall spending anticipated from this rule, it is unlikely that a substantial number of small entities will have more than a small impact from the spending change near the affected refuges. Therefore, we certify that this rule will not have a significant economic effect on a substantial number of small entities as defined under the Regulatory Flexibility Act (5 U.S.C. 601 et seq.). An initial/final Regulatory Flexibility Analysis is not required. Accordingly, a Small Entity Compliance Guide is not required.

Small Business Regulatory Enforcement Fairness Act

The rule is not a major rule under 5 U.S.C. 804(2), the Small Business Regulatory Enforcement Fairness Act. We anticipate no significant employment or small business effects. This rule:

a. Will not have an annual effect on the economy of $100 million or more. The minimal impact will be scattered across the country and will most likely not be significant in any local area.

b. Will not cause a major increase in costs or prices for consumers; individual industries; Federal, State, or local government agencies; or geographic regions. This rule will have only a slight effect on the costs of hunting opportunities for Americans. If the substitute sites are farther from the participants' residences, then an increase in travel costs will occur. The Service does not have information to quantify this change in travel cost but assumes that, since most people travel less than 100 miles to hunt, the increased travel cost will be small. We do not expect this rule to affect the supply or demand for hunting opportunities in the United States and, therefore, it should not affect prices for hunting equipment and supplies, or the retailers that sell equipment.

c. Will not have significant adverse effects on competition, employment, investment, productivity, innovation, or the ability of United States-based enterprises to compete with foreign-based enterprises. This rule represents only a small proportion of recreational spending at national wildlife refuges. Therefore, this rule will have no measurable economic effect on the wildlife-dependent industry, which has annual sales of equipment and travel expenditures of $72 billion nationwide.

Unfunded Mandates Reform Act

Since this rule applies to public use of federally owned and managed refuges, it will not impose an unfunded mandate on State, local, or Tribal governments or the private sector of more than $100 million per year. The rule will not have a significant or unique effect on State, local, or Tribal governments or the private sector. A statement containing the information required by the Unfunded Mandates Reform Act (2 U.S.C. 1531 et seq.) is not required.

Takings (E.O. 12630)

In accordance with E.O. 12630, this rule does not have significant takings implications. This regulation affects only visitors at national wildlife refuges and describes what they can do while they are on a refuge.

Federalism (E.O. 13132)

As discussed in the Regulatory Planning and Review and Unfunded Mandates Reform Act sections above, this rule does not have sufficient Federalism implications to warrant the preparation of a federalism summary impact statement under E.O. 13132. In preparing this rule, we worked with State governments.

Civil Justice Reform (E.O. 12988)

In accordance with E.O. 12988, the Office of the Solicitor has determined that the rule does not unduly burden the judicial system and that it meets the requirements of sections 3(a) and 3(b)(2) of the Order. The regulation clarifies established regulations and will result in better understanding of the regulations by refuge visitors.

Energy Supply, Distribution or Use (E.O. 13211)

On May 18, 2001, the President issued E.O. 13211 on regulations that significantly affect energy supply, distribution, and use. E.O. 13211 requires agencies to prepare Statements of Energy Effects when undertaking certain actions. Because this rule increases activities at nine refuges and opens one new refuge, it is not a significant regulatory action under E.O. 12866 and is not expected to significantly affect energy supplies, distribution, and use. Therefore, this action is a not a significant energy action and no Statement of Energy Effects is required.

Consultation and Coordination With Indian Tribal Governments (E.O. 13175)

In accordance with E.O. 13175, we have evaluated possible effects on federally recognized Indian tribes and have determined that there are no effects. We coordinate recreational use on national wildlife refuges with Tribal governments having adjoining or overlapping jurisdiction before we propose the regulations.

Paperwork Reduction Act

This regulation does not contain any information collection requirements other than those already approved by the Office of Management and Budget under the Paperwork Reduction Act (44 U.S.C. 3501 et seq.) (OMB Control Numbers are 1018-0102 and 1018-0140). See 50 CFR 25.23 for information concerning that approval. An agency may not conduct or sponsor and a person is not required to respond to a collection of information unless it displays a currently valid OMB control number.

Endangered Species Act Section 7 Consultation

We comply with section 7 of the Endangered Species Act of 1973, as amended (16 U.S.C. 1531 et seq.), when developing Comprehensive Conservation Plans (CCPs) and step-down management plans (which would include hunting and/or fishing plans) for public use of refuges, and prior to implementing any new or revised public recreation program on a refuge as identified in 50 CFR 26.32. We have completed section 7 consultation on each of the affected refuges.

National Environmental Policy Act

We analyzed this rule in accordance with the criteria of the National Environmental Policy Act of 1969 (NEPA) (42 U.S.C. 4332(C)), 43 CFR part 46, and 516 Departmental Manual (DM) 8.

A categorical exclusion from NEPA documentation applies to publication of proposed amendments to refuge-specific hunting and fishing regulations since they are technical and procedural in nature, and the environmental effects are too broad, speculative, or conjectural to lend themselves to meaningful analysis (43 CFR 46.210 and 516 DM 8). Concerning the actions that are the subject of this rulemaking, we have complied with NEPA at the project level when developing each proposal. This is consistent with the Department of the Interior instructions for compliance with NEPA where actions are covered sufficiently by an earlier environmental document (516 DM 3.2A).

Prior to the addition of a refuge to the list of areas open to hunting and fishing in 50 CFR part 32, we develop hunting and fishing plans for the affected refuges. We incorporate these proposed refuge hunting and fishing activities in the refuge CCPs and/or other step-down management plans, pursuant to our refuge planning guidance in 602 Fish and Wildlife Service Manual (FW) 1, 3, and 4. We prepare these CCPs and step-down plans in compliance with section 102(2)(C) of NEPA, and the Council on Environmental Quality's regulations for implementing NEPA in 40 CFR parts 1500-1508. We invite the affected public to participate in the review, development, and implementation of these plans. Copies of all plans and NEPA compliance are available from the refuges at the addresses provided below.

Available Information for Specific Refuges

Individual refuge headquarters have information about public use programs and conditions that apply to their specific programs and maps of their respective areas. To find out how to contact a specific refuge, contact the appropriate Regional office listed below:

Region 1—Hawaii, Idaho, Oregon, and Washington. Regional Chief, National Wildlife Refuge System, U.S. Fish and Wildlife Service, Eastside Federal Complex, Suite 1692, 911 NE. 11th Avenue, Portland, OR 97232-4181; Telephone (503) 231-6214.

Region 2—Arizona, New Mexico, Oklahoma, and Texas. Regional Chief, National Wildlife Refuge System, U.S. Fish and Wildlife Service, Box 1306, 500 Gold Avenue, Albuquerque, NM 87103; Telephone (505) 248-7419.

Region 3—Illinois, Indiana, Iowa, Michigan, Minnesota, Missouri, Ohio, and Wisconsin. Regional Chief, National Wildlife Refuge System, U.S. Fish and Wildlife Service, 5600 American Blvd. West, Suite 990, Bloomington, MN 55437; Telephone (612) 713-5401. Crane Meadows National Wildlife Refuge, 19502 Iris Road, Little Falls, MN 56345; Telephone (320) 632-1575.

Region 4—Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7166.

Region 5—Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8306.

Region 6—Colorado, Kansas, Montana, Nebraska, North Dakota, South Dakota, Utah, and Wyoming. Regional Chief, National Wildlife Refuge System, U.S. Fish and Wildlife Service, 134 Union Blvd., Lakewood, CO 80228; Telephone (303) 236-8145.

Region 7—Alaska. Regional Chief, National Wildlife Refuge System, U.S. Fish and Wildlife Service, 1011 E. Tudor Rd., Anchorage, AK 99503; Telephone (907) 786-3545.

Region 8—California and Nevada. Regional Chief, National Wildlife Refuge System, U.S. Fish and Wildlife Service, 2800 Cottage Way, Room W-2606, Sacramento, CA 95825; Telephone (916) 414-6464.

Primary Author

Leslie A. Marler, Management Analyst, Division of Conservation Planning and Policy, National Wildlife Refuge System is the primary author of this rulemaking document.

List of Subjects in 50 CFR Part 32

Fishing, Hunting, Reporting and recordkeeping requirements, Wildlife, Wildlife refuges.

For the reasons set forth in the preamble, we amend title 50, chapter I, subchapter C of the Code of Federal Regulations as follows:

PART 32—[AMENDED]

1. The authority citation for part 32 continues to read as follows:

Authority: 5 U.S.C. 301; 16 U.S.C. 460k, 664, 668dd-668ee, and 715i.

2. Amend § 32.7 “What refuge units are open to hunting and/or sport fishing?” by:

a. Adding, in alphabetical order, “Crane Meadows National Wildlife Refuge” in the State of Minnesota;

b. Removing the entry for “Coldwater National Wildlife Refuge” and adding in alphabetical order an entry for “Coldwater River National Wildlife Refuge” in the State of Mississippi;

c. Adding, in alphabetical order, “Tishomingo Wildlife Management Unit” in the State of Oklahoma; and

d. Removing the entry for “Pettaquamscutt Cove National Wildlife Refuge” and adding in alphabetical order an entry for “John H. Chafee National Wildlife Refuge” in the State of Rhode Island.

3. Amend § 32.20 Alabama by:

a. Revising paragraph B.8. under Choctaw National Wildlife Refuge; and

b. Revising the entry for Eufaula National Wildlife Refuge.

The revisions read as follows:

§ 32.20 Alabama.

* * * * *

Choctaw National Wildlife Refuge

* * * * *

B. Upland Game Hunting. * * *

* * * * *

8. A hunter may only possess approved nontoxic shot (see § 32.2(k)). We restrict hunting weapons to shotguns with shot size no larger than No. 6 or rifles no larger than .22 standard rimfire or legal archery equipment.

* * * * *

Eufaula National Wildlife Refuge

A. Migratory Game Bird Hunting. We allow hunting of mourning dove and Eurasian-collared dove, duck, and goose on designated areas of the refuge in accordance with State regulations subject to the following conditions:

1. You must possess and carry a signed refuge hunt permit (signed brochure) when hunting.

2. You may possess only approved nontoxic shotshells when hunting (see § 32.2(k)).

3. All youth hunters (age 15 and under) must remain within sight and normal voice contact of a properly licensed hunting adult age 21 or older. Youth hunters must possess and carry verification of passing a State-approved hunter education course. One adult may supervise no more than two youth hunters.

4. We allow duck and goose hunting in the Bradley and Kennedy units only by special permit (Waterfowl Lottery Application, FWS Form 3-2355) on/during selected days/times, during the State seasons. We close all other portions of the refuge to waterfowl hunting.

5. All waterfowl hunting opportunities are spaced-blind and assigned by lottery. Hunters wishing to participate in our waterfowl hunt must submit a Waterfowl Lottery Application (FWS Form 3-2355). Consult refuge brochure for details.

6. We limit the number of shotshells a hunter may possess to 25.

7. We prohibit damaging trees or other vegetation (see §§ 27.51 and 32.2(i) of this chapter).

8. Hunters must remove all stands/blinds at the end of each day's hunt (see § 27.93 of this chapter).

9. We allow access to the refuge for hunting from 1½; hours before legal sunrise to 1½; hours after legal sunset.

10. We prohibit hunting by aid of or distribution of any feed, salt, other mineral, or electronic device, including game cameras (see § 32.2(h) and § 27.93 of this chapter).

11. We prohibit participation in organized drives.

12. We prohibit the use of horses, mules, or other livestock.

13. We require tree stand users to use a safety belt.

14. We prohibit the use of motorized watercraft in all refuge waters not directly connected to Lake Eufaula.

15. We prohibit the use of all air-thrust boats, including aircraft.

B. Upland Game Hunting. We allow hunting of squirrel and rabbit on designated areas of the refuge in accordance with State regulations subject to the following conditions:

1. Conditions A1, A2, A3, and A6 through A15 apply.

2. We allow squirrel and rabbit hunting on selected areas and days during the State seasons.

3. We prohibit the use of dogs (see § 26.21(b) of this chapter).

4. We allow only shotguns.

5. We prohibit the mooring or storing of boats from 1½; hours after legal sunset to 1½; hours before legal sunrise (see § 27.93 of this chapter).

C. Big Game Hunting. We allow hunting of white-tailed deer and feral hog on designated areas of the refuge in accordance with State regulations subject to the following conditions:

1. Conditions A1, A6 through A15, and B5 apply.

2. We allow youth (ages 10 through 15) gun deer hunting in the Bradley Unit only by special permit (information obtained from Big/Upland Game Hunt Application, FWS Form 3-2356) during selected days/times.

3. All youth gun hunting opportunities are spaced-blind and assigned by lottery. Hunters wishing to participate in our youth gun hunt must submit a Big/Upland Game Hunt Application (FWS Form 3-2356). Consult the refuge brochure for details.

4. All youth hunters must remain within sight and normal voice contact of a properly hunting-licensed adult age 21 or older. Youth hunters must possess and carry verification of passing a State-approved hunter education course. One adult may supervise no more than one youth hunter.

5. We allow both archery deer and archery feral hog hunting on selected areas and days during the State archery deer season.

6. We close those portions of the refuge between Bustahatchee and Rood Creeks to archery hunting until November 1.

D. Sport Fishing. We allow fishing, including bowfishing, in designated areas of the refuge in accordance with State regulations subject to the following conditions:

1. Conditions A6, A15, and B5 apply.

2. We allow fishing on selected areas and days.

3. We allow shoreline access for fishing from ½ hour before legal sunrise to ½ hour after legal sunset.

4. We prohibit taking frog or turtle (see § 27.21 of this chapter) on all refuge lands and waters.

5. We adopt reciprocal license agreements between Alabama and Georgia for fishing in Lake Eufaula. Anglers fishing in waters not directly connected to Lake Eufaula must be properly licensed for the State in which they are fishing.

* * * * *

4. Amend § 32.22 Arizona by revising paragraph D.6.i. under Havasu National Wildlife Refuge to read as follows:

§ 32.22 Arizona.

* * * * *

Havasu National Wildlife Refuge

* * * * *

D. Sport Fishing. * * *

* * * * *

6. * * *

i. We prohibit entry of all motorized watercraft in all three bays as indicated by signs or regulatory buoys.

* * * * *

5. Amend § 32.23 Arkansas by:

a. Revising paragraph A.22., adding paragraph A.23., revising paragraph B.1., adding paragraph B.12., and revising paragraphs C.1. and D.1. under Bald Knob National Wildlife Refuge;

b. Revising paragraph B.15., adding paragraphs B.17. and B.18., and revising paragraph C.1., the introductory text of paragraph D., and D.1. under Big Lake National Wildlife Refuge;

c. Adding paragraphs A.22. and A.23., revising paragraph B.1., adding paragraph B.12., and revising paragraphs C.1. and D.1. under Cache River National Wildlife Refuge;

d. Revising paragraphs B.4., C.5., C.6., and C.13. under Felsenthal National Wildlife Refuge;

e. Revising paragraph B.4. under Overflow National Wildlife Refuge;

f. Revising paragraph B.4. under Pond Creek National Wildlife Refuge;

g. Removing paragraph A.3., redesignating paragraphs A.4. through A.11. as paragraphs A.3. through A.10., revising newly redesignated paragraph A.10., adding new paragraph A.11., revising paragraph B.1., adding paragraph B.9, and revising paragraphs C.1. and D.1. under Wapanocca National Wildlife Refuge; and

h. Revising paragraph B.2., C.5., C.12., and C.19. under White River National Wildlife Refuge.

The additions and revisions read as follows:

§ 32.23 Arkansas.

* * * * *

Bald Knob National Wildlife Refuge

A. Migratory Game Bird Hunting. * * *

* * * * *

22. We prohibit the possession or use of alcoholic beverages while hunting (see § 32.2(j)) and open alcohol containers on refuge roads, ATV trails, boat ramps, and parking areas.

23. We prohibit loaded hunting firearms or muzzleloaders in or on a vehicle, ATV, or boat while under power (see § 27.42(b) of this chapter). We define “loaded” as shells in the firearm or ignition device on the muzzleloader.

B. Upland Game Hunting. * * *

1. Conditions A1, A5, A10 through A12, and A16 through A23 apply.

* * * * *

12. We prohibit transportation, possession, or release of live hog on the refuge.

C. Big Game Hunting.* * *

1. Conditions A1, A5, A10 through A12, A16 through A23, and B8 through B12 apply.

* * * * *

D. Sport Fishing. * * *

1. Conditions A10, A18 through A23, B11, and C16 apply.

* * * * *

Big Lake National Wildlife Refuge

* * * * *

B. Upland Game Hunting. * * *

* * * * *

15. We prohibit the possession or use of alcoholic beverages while hunting (see § 32.2(j)) or open alcohol containers on refuge roads, ATV trails, boat ramps, parking areas, and fishing piers/observation decks.

* * * * *

17. We prohibit loaded hunting firearms or muzzleloaders in or on a vehicle, ATV, or boat while under power (see § 27.42(b) of this chapter). We define “loaded” as shells in the firearm or ignition device on the muzzleloader.

18. We prohibit transportation, possession, or release of live hog on the refuge.

C. Big Game Hunting.* * *

1. Conditions B1, B3 through B5, and B9 through B18 apply.

* * * * *

D. Sport Fishing. We allow fishing and frogging on designated areas of the refuge in accordance with State regulations subject to the following conditions:

1. Conditions B9 and B11 through B17 apply.

* * * * *

Cache River National Wildlife Refuge

A. Migratory Game Bird Hunting. * * *

* * * * *

22. We prohibit the possession or use of alcoholic beverages while hunting (see § 32.2(j)) or open alcohol containers on refuge roads, ATV trails, boat ramps, and parking areas.

23. We prohibit loaded hunting firearms or muzzleloaders in or on a vehicle, ATV, or boat while under power (see § 27.42(b) of this chapter). We define “loaded” as shells in the firearm or ignition device on the muzzleloader.

B. Upland Game Hunting. * * *

1. Conditions A1, A5, A9 through A11, and A15 through A23 apply.

* * * * *

12. We prohibit transportation, possession, or release of live hog on the refuge.

C. Big Game Hunting. * * *

1. Conditions A1, A5, A9 through A11, A15 through A23, B6 through B9, B11, and B12 apply.

* * * * *

D. Sport Fishing. * * *

1. Conditions A9, A17, A19, A21 through A23, and B11 apply.

* * * * *

Felsenthal National Wildlife Refuge

* * * * *

B. Upland Game Hunting. * * *

* * * * *

4. We prohibit possession of lead ammunition except that you may possess rimfire rifle lead ammunition no larger than .22 caliber for upland game hunting. We prohibit possession of shot larger than that legal for waterfowl hunting. During the deer and turkey hunts, hunters may possess lead ammunition legal for taking deer and turkey. We prohibit buckshot for gun deer hunting.

* * * * *

C. Big Game Hunting. * * *

* * * * *

5. We allow muzzleloader deer hunting during the October State Muzzleloader season for this deer management zone. The refuge will conduct one 4-day quota modern gun hunt for deer, typically in November. The refuge also may conduct one mobility-impaired hunt for deer typically in early November.

* * * * *

6. The quota muzzleloader and modern gun deer hunt bag limit is two deer, one doe and one buck, or two does on each hunt, one antlered and one antlerless as defined by State law. See refuge brochure for specific bag limit information.

* * * * *

13. The refuge will conduct no more than three quota permit spring turkey gun hunts and no more than two 3-day quota spring turkey hunts (typically in April). Specific hunt dates and application procedures will be available at the refuge office in January. We restrict hunt participants to those selected for a quota permit, except that one nonhunting adult age 21 or older possessing a valid hunting license must accompany the youth hunter age 15 and younger.

* * * * *

Overflow National Wildlife Refuge

* * * * *

B. Upland Game Hunting. * * *

* * * * *

4. When upland game hunting, we prohibit possession of lead ammunition except that you may possess rimfire rifle lead ammunition no larger than .22 caliber. We prohibit possession of shot larger than that legal for waterfowl hunting. During the deer and turkey hunts, we allow possession of lead ammunition legal for taking deer and turkey. We prohibit buckshot for gun deer hunting.

* * * * *

Pond Creek National Wildlife Refuge

* * * * *

B. Upland Game Hunting. * * *

* * * * *

4. We prohibit possession of lead ammunition when hunting except that you may possess rimfire rifle lead ammunition no larger than .22 caliber for upland game hunting. We prohibit possession of shot larger than that legal for waterfowl hunting. During the deer and turkey hunts, we allow possession of lead ammunition legal for taking deer and turkey. We prohibit buckshot for gun deer hunting.

* * * * *

Wapanocca National Wildlife Refuge

A. Migratory Game Bird Hunting. * * *

* * * * *

10. We prohibit the possession or use of alcoholic beverages while hunting (see § 32.2(j)) and open alcohol containers on refuge roads, ATV trails, boat ramps, parking areas, and fishing piers/observation decks.

11. We prohibit loaded hunting firearms or muzzleloaders in or on a vehicle, ATV, or boat while under power (see § 27.42(b) of this chapter). We define “loaded” as shells in the firearm or ignition device on the muzzleloader.

B. Upland Game Hunting. * * *

1. Conditions A1 through A11 apply.

* * * * *

9. We prohibit transportation, possession, or release of live hog on the refuge.

C. Big Game Hunting. * * *

1. Conditions A1 through A11, B4, and B6 through B9 apply.

* * * * *

D. Sport Fishing. * * *

1. Conditions A3, A5, A9 through A11, B6, and B7 apply. We allow fishing from March 1 through October 31 from ½ hour before legal sunrise to ½ hour after legal sunrise.

* * * * *

White River National Wildlife Refuge

* * * * *

B. Upland Game Hunting. * * *

* * * * *

2. We allow hunting of rabbit and squirrel on the North Unit from September 1 until February 28.

C. Big Game Hunting. * * *

* * * * *

5. The gun deer hunt will begin in November and will continue for a period of 3 days of quota hunting in the North and South Units, and 4 days of nonquota hunting in the North and/or South Units with annual season dates, bag limits, and areas provided in the annual refuge user brochure/permit.

* * * * *

12. We prohibit the placement or hunting with the aid of bait, salt, or ingestible attractant (see § 32.2(h)).

* * * * *

19. We prohibit firearms deer hunting on the Kansas Lake Area after October 30 and all other types of hunting after November 30.

* * * * *

6. Amend § 32.25 Colorado by revising the entry for Arapaho National Wildlife Refuge to read as follows:

§ 32.25 Colorado.

* * * * *

Arapaho National Wildlife Refuge

A. Migratory Game Bird Hunting. We allow hunting of migratory game birds on designated areas of the refuge in accordance with State regulations subject to the following conditions:

1. All migratory bird hunting closes annually on December 31.

2. We prohibit use of, or hunting over, bait (see § 32.2(h)).

3. We allow use of only portable stands and blinds that the hunter must remove following each day's hunt (see § 27.93 of this chapter).

4. Hunters must retrieve spent shotgun shells.

5. We prohibit hunting 200 feet (60 m) from any public use road, designated parking area, or designated public use facility located within the hunt area.

B. Upland Game Hunting. We allow hunting of upland game on designated areas of the refuge in accordance with State regulations subject to the following conditions:

1. All upland game hunting closes annually on December 31.

2. You may possess only approved nontoxic shot while hunting (see § 32.2(k)).

3. Conditions A2, A4, and A5 apply.

C. Big Game Hunting. We allow hunting of antelope and elk on designated areas of the refuge in accordance with State regulations subject to the following conditions:

1. Conditions A2, A3, and A5 apply.

2. Hunters must use only firearms and ammunition allowed by State law for legal hunting of elk or antelope.

3. Hunters must follow State law for use of hunter orange.

4. Elk hunters:

i. Must possess a refuge-specific license (State license) to hunt elk.

ii. Must attend a scheduled prehunt information meeting prior to hunting.

iii. Youth hunters must be age 12 by the hunt date but not yet age 18 at the time of the hunt application.

iv. Disabled hunters must meet Colorado State Department of Wildlife (CDOW) criteria for, and be on the State's list of, hunters with disabilities.

v. We will make selections via the CDOW hunt selection process. Hunters holding valid tags (controlled by the State) for the unit the refuge is located within may write requesting a special tag to hunt within the refuge.

D. Sport Fishing. We allow fishing on designated areas of the refuge on the Illinois River in accordance with State regulations subject to the following conditions:

1. We prohibit fishing between June 1 and July 31 each year.

2. We allow fishing only from legal sunrise to legal sunset.

3. We prohibit ice fishing on the refuge (there is no specific date, but when the river freezes over, fishing closes).

* * * * *

7. Amend § 32.28 Florida by:

a. Revising paragraphs A.1. and A.4. through A.17., adding paragraph A.18., and revising paragraph D.8. under Arthur R. Marshall Loxahatchee National Wildlife Refuge;

b. Revising paragraph A. and D.1., and adding paragraph D.17. under Merritt Island National Wildlife Refuge;

c. Adding paragraph A.4. and revising paragraphs B.4. and D.10. under St. Marks National Wildlife Refuge;

d. Revising paragraphs C.2. and C.8., removing paragraph C.9., redesignating paragraphs C.10. through C.22. as paragraphs C.9. through C.21., and revising newly redesignated paragraphs C.9. and C.15. under St. Vincent National Wildlife Refuge; and

e. Revising paragraphs A.2., A.3., A.5., A.6., A.9., A.10., A.11., A.13., adding paragraph A.14., revising paragraphs D.1., D.3., D.4., and adding paragraphs D.6. and D.7. under Ten Thousand Islands National Wildlife Refuge.

The additions and revisions read as follows:

§ 32.28 Florida.

* * * * *

Arthur R. Marshall Loxahatchee National Wildlife Refuge

A. Migratory Game Bird Hunting. * * *

1. You must possess and carry a signed refuge waterfowl hunt permit (signed brochure) while hunting. These brochures are available at the refuge visitor center and on the refuge's Web site (http://www.fws.gov/loxahatchee).

* * * * *

4. We prohibit the taking of any other wildlife (see § 27.21 of this chapter).

5. We do not open to hunting on Mondays, Tuesdays, and Christmas Day.

6. We allow hunting on the refuge from ½ hour before legal sunrise to 1 p.m. Hunters may enter the refuge no earlier than 4 a.m. and must be off the refuge by 3 p.m.

7. Hunters may only enter and leave the refuge at the Headquarters Area (Boynton Beach) and the Hillsboro Area (Boca Raton).

8. The possession and use of firearms shall be in accordance with all applicable Federal and State laws and regulations (see §§ 27.41 and 27.42 of this chapter).

9. We allow only temporary blinds of native vegetation. We prohibit the taking, removing, or destroying of refuge vegetation (see § 27.51 of this chapter).

10. Hunters must remove decoys and other personal property (see § 27.93 of this chapter) from the hunting area each day.

11. We encourage the use of dogs to retrieve dead or wounded waterfowl. Dogs must remain under the immediate control of the owner at all times (see § 26.21(b) of this chapter). We prohibit pets at all other times.

12. Hunters must complete a Migratory Bird Hunt Report (FWS Form 3-2361) and place it in an entrance fee canister each day prior to exiting the refuge.

13. All youth hunters age 15 and younger must remain within sight and normal voice contact of an adult age 21 or older, who possesses a valid hunting license. Youth hunters must have completed a hunter education course.

14. We allow only boats equipped with factory-manufactured-water-cooled outboard motors, electric motors, and nonmotorized boats. We prohibit boats with air-cooled engines, airboats, fan boats, hovercraft, and personal watercraft (Jet Skis, Jet Boats, Wave Runners, etc.).

15. There is a 35 mph speed limit in all waters of the refuge. A 500-foot (150-meter) Idle Speed Zone is at each of the refuge's three boat ramps.

16. We require all boats operating outside of the main perimeter canals (the L-40 Canal, L-39 Canal, L-7 Canal, and L-101 Canal) in interior areas of the refuge and within the hunt area, to fly a 12-inch by 12-inch (30-cm x 30-cm) orange flag 10 feet (3 m) above the vessel's waterline.

17. We prohibit motorized vehicles of any type on the levees and undesignated routes (see § 27.31 of this chapter).

18. For emergencies or to report violations, contact law enforcement personnel at 1-800-307-5789. Law enforcement officers may be monitoring VHF Channel 16.

* * * * *

D. Sport Fishing. * * *

* * * * *

8. Conditions A4, A8, A14 through A17, and A19 apply.

* * * * *

Merritt Island National Wildlife Refuge

A. Migratory Game Bird Hunting. We allow hunting of duck and coot on designated areas of the refuge in accordance with State regulations subject to the following conditions:

1. Persons possessing, transporting, or carrying firearms on national wildlife refuges must comply with all provisions of Federal, State, and local law. Persons may only use (discharge) firearms in accordance with refuge regulations (see § 27.42 of this chapter and part 32).

2. Hunters must possess and carry a current, signed Merritt Island National Wildlife Refuge hunt permit (signed brochure) at all times while hunting waterfowl on the refuge.

3. Hunters must possess and carry (or hunt within 30 yards [27 m] of a hunter who possesses) a valid refuge waterfowl hunting quota permit (State permit) while hunting in areas 1 or 4 from the beginning of the regular waterfowl season through December 31. No more than four hunters will hunt using a single valid refuge waterfowl hunting quota permit.

4. We allow hunting on Wednesdays, Saturdays, Sundays, and all Federal holidays, including Thanksgiving, Christmas, and New Year's Day, that fall within the State's waterfowl season.

5. We allow hunting in four designated areas of the refuge as delineated in the refuge hunting regulations map. We prohibit hunters to enter the normal or expanded restricted areas of the Kennedy Space Center.

6. We allow hunting of only waterfowl on refuge-established hunt days from the legal shooting time (½ hour before legal sunrise) until 1 p.m.

7. We allow entrance to the refuge no earlier than 4 a.m. for the purpose of waterfowl hunting.

8. We require all hunters to successfully complete a State-approved hunter education course.

9. We require an adult, age 21 or older, to supervise hunters age 15 and younger.

10. We prohibit accessing a hunt area from Black Point Wildlife Drive. We prohibit leaving vehicles parked on Black Point Wildlife Drive, Playalinda Beach Road, or Scrub Ridge Trail (see § 27.31 of this chapter).

11. We prohibit construction of permanent blinds (see § 27.92 of this chapter) or digging into dikes.

12. We prohibit hunting or shooting within 15 feet (4.5 m) or shooting from any portion of a dike, dirt road, or railroad grade.

13. We prohibit hunting or shooting within 150 yards (135 m) of SR 402, SR 406, any paved road right-of-way, or any road open to vehicle traffic. We prohibit shooting over any dike or roadway.

14. All hunters must stop at posted refuge waterfowl check stations and report statistical hunt information on the Migratory Bird Hunt Report (FWS Form 3-2361) to refuge personnel.

15. Hunters may not possess more than 25 shells in one hunt day.

* * * * *

D. Sport Fishing. * * *

1. Anglers must possess and carry a current, signed refuge fishing permit (signed brochure) at all times while fishing on the refuge.

* * * * *

17. Persons possessing, transporting, or carrying firearms on national wildlife refuges must comply with all provisions of Federal, State, and local law. Persons may only use (discharge) firearms in accordance with refuge regulations (see § 27.42 of this chapter and part 32).

* * * * *

St. Marks National Wildlife Refuge

A. Migratory Game Bird Hunting. * * *

* * * * *

4. Hunters may access the hunt area by boat.

B. Upland Game Hunting. * * *

* * * * *

4. You must unload all hunting firearms for transport in vehicles (uncap muzzleloaders).

* * * * *

D. Sport Fishing. * * *

* * * * *

10. The interior ponds and lakes on the Panacea Unit are open year-round for bank fishing. We open vehicle access to these areas from March 15 through May 15 each year. Ponds and lakes that anglers access from County Road 372 are open year-round for fishing and boating.

* * * * *

St. Vincent National Wildlife Refuge

* * * * *

C. Big Game Hunting. * * *

* * * * *

2. We restrict hunting to three periods: Sambar deer, raccoon, and feral hog (primitive weapons); white-tailed deer, raccoon, feral hog (archery); and white-tailed deer, raccoon, and feral hog (primitive weapons). Contact the refuge office for specific dates. Hunters may check-in and set up camp sites and stands on the day prior to the scheduled hunt as specified in the brochure. Hunters must leave the island and remove all equipment by the date and time specified in the brochure.

* * * * *

8. You may retrieve game from the closed areas only if accompanied by a refuge staff member or a refuge officer.

9. We limit hunting weapons to primitive weapons on the sambar deer hunt and the primitive weapons white-tailed deer hunt. We limit the archery hunt to bow and arrow. Weapons must meet all State regulations. We prohibit crossbows during refuge hunts except with State permit.

* * * * *

15. Hunting weapons must have the caps removed from muzzleloaders and arrows quivered before and after legal shooting hours.

* * * * *

Ten Thousand Islands National Wildlife Refuge

A. Migratory Game Bird Hunting. * * *

* * * * *

2. We allow hunting only on Wednesdays, Saturdays, Sundays, and Federal holidays that fall within the State's waterfowl season, including: Thanksgiving, Christmas, and New Year's Day.

3. Hunters must possess and carry a valid, signed refuge permit (signed brochure) at all times while hunting on the refuge.

* * * * *

5. Hunters may enter the refuge from the south side of U.S. 41. We allow hunting from ½ hour before legal sunrise until 12 p.m. Hunters may enter the refuge no earlier than 4 a.m. and must remove all decoys, guns, blinds, and other related equipment (see § 27.93 of this chapter) by 1 p.m. daily.

6. We prohibit hunting within 100 yards (90 m) of the south edge of U.S. 41 and the area posted around Marsh Trail extending south from U.S. 41.

* * * * *

9. Hunters may only take duck and coot with a shotgun (no larger than a 10 gauge). We prohibit target practice on the refuge (see § 27.42 of this chapter).

10. We prohibit air-thrust boats, hovercraft, personal watercraft (jet skis, jet boats, and wave runners), and off-road vehicles at all times. We limit vessels to a maximum of a 25 hp outboard motor.

11. We require all commercial guides to purchase, possess, and carry a refuge Special Use Permit (FWS Form 3-1383).

* * * * *

13. We allow youth hunt days in accordance with State regulations. Hunters age 15 or younger may hunt only with a nonhunting adult age 18 or older. Youth hunters must remain within sight and sound of the nonhunting adult. Youth hunters must have completed a hunter education course.

14. Persons possessing, transporting, or carrying firearms on national wildlife refuges must comply with all provisions of Federal, State, and local law. Persons may only use (discharge) firearms in accordance with refuge regulations (see § 27.42 of this chapter and part 32).

* * * * *

D. Sport Fishing.* * *

1. We prohibit air-thrust boats, hovercraft, personal watercraft (jet skis, jet boats, and wave runners), and off-road vehicles in the freshwater and brackish marsh area south of U.S. 41. We limit vessels to a maximum of 25 hp outboard motor.

* * * * *

3. We only allow crabbing for recreational use in the freshwater and brackish marsh area of the refuge. You may use a dip or landing net, drop net, or hook and line.

4. We prohibit commercial fishing and the taking of snake, turtle, frog, and other wildlife (see § 27.21 of this chapter) in the freshwater and brackish marsh area of the refuge.

* * * * *

6. Anglers and crabbers must attend their lines at all times.

7. We require all commercial guides operating in the freshwater and brackish marsh area of the refuge to purchase, possess, and carry a refuge Special Use Permit (FWS Form 3-1383).

* * * * *

8. Amend § 32.29 Georgia by:

a. Revising paragraphs C.1., C.9., C.11., and C.13., and adding paragraph C.20. under Blackbeard Island National Wildlife Refuge:

b. Revising paragraphs C.3., C.9., C.11., and C.12., and adding paragraph C.20. under Harris Neck National Wildlife Refuge;

c. Revising paragraphs C.5., C.7., C.10., C.11., and adding paragraph C.12. under Savannah National Wildlife Refuge; and

d. Revising paragraphs C.1., C.5., C.6., C.8., and C.9., and adding paragraph C.21. under Wassaw National Wildlife Refuge.

The additions and revisions read as follows:

§ 32.29 Georgia.

* * * * *

Blackbeard Island National Wildlife Refuge

* * * * *

C. Big Game Hunting.* * *

1. Hunters must possess and carry a signed refuge hunting regulations brochure on their person at all times. They may obtain hunt information and refuge hunting brochures at the Savannah Coastal Refuges Complex headquarters.

* * * * *

9. For hunting, we allow only bows in accordance with State regulations.

* * * * *

11. You may take five deer (no more than two antlered), and we will issue State bonus tags for two of these. There is no bag limit on feral hog.

* * * * *

13. Hunters must be on their stands from ½ hour before legal sunrise until 9 a.m. and from 2 hours before legal sunset until ½ hour after legal sunset.

* * * * *

20. We prohibit the use of trail or game cameras.

* * * * *

Harris Neck National Wildlife Refuge

* * * * *

C. Big Game Hunting.* * *

* * * * *

3. Hunters must be on their stands from ½ hour before legal sunrise until 9 a.m. and from 2 hours before legal sunset until ½ hour after legal sunset.

* * * * *

9. During the archery hunt, we allow only bows in accordance with State regulations.

* * * * *

11. Hunters may take five deer (no more than two antlered), and we will issue State bonus tags for two of these. There is no bag limit for feral hog.

12. During the gun hunt, we allow only shotguns (20 gauge or larger; slugs only) and bows in accordance with State regulations.

* * * * *

20. We prohibit the use of trail or game cameras.

* * * * *

Savannah National Wildlife Refuge

* * * * *

C. Big Game Hunting. * * *

* * * * *

5. We allow only shotguns (20 gauge or larger; slugs only), center-fire rifles (.22 caliber or larger), muzzleloaders, and bows for deer and hog hunting throughout the designated hunt area during the November gun hunt and the March hog hunt.

* * * * *

7. Hunters may take five deer (no more than two antlered). There is no bag limit on feral hog.

* * * * *

10. We allow turkey hunting during a special 3-week turkey hunt in April. Turkey hunters may harvest only three gobblers.

11. We allow shotguns with only #2 shot or smaller and bows, in accordance with State regulations, for turkey hunting. We prohibit the use of slugs or buckshot during turkey hunts.

12. We prohibit the use of trail or game cameras.

* * * * *

Wassaw National Wildlife Refuge

* * * * *

C. Big Game Hunting. * * *

1. Hunters must possess and carry a signed refuge hunting regulations brochure on their person at all times. They may obtain hunt information and refuge hunting brochures at the Savannah Coastal Refuges Complex headquarters.

* * * * *

5. Hunters may take five deer (no more than two antlered), and we will issue State bonus tags for two of these. There is no bag limit on feral hog.

6. Hunters must be on their stands from ½ hour before legal sunrise until 9 a.m. and from 2 hours before legal sunset until ½ hour after legal sunset.

* * * * *

8. We allow only bows and muzzleloading rifles, in accordance with State regulations, during primitive weapons hunt.

9. When hunting, we allow only shotguns (20 gauge or larger; slug only), center-fire rifles (.22 caliber or larger), bows, and primitive weapons, in accordance with State regulations, during the gun hunt.

* * * * *

21. We prohibit the use of trail or game cameras.

* * * * *

9. Amend § 32.32 Illinois by:

a. Revising the entry for Crab Orchard National Wildlife Refuge; and

b. Revising paragraphs B.3. and D.3. under Port Louisa National Wildlife Refuge.

The revisions read as follows:

§ 32.32 Illinois.

* * * * *

Crab Orchard National Wildlife Refuge

A. Migratory Game Bird Hunting. We allow hunting of waterfowl on designated areas of the refuge in accordance with State regulations subject to the following conditions:

1. We require a refuge hunt brochure permit that is available at the refuge office and in brochure dispensers at multiple locations throughout the refuge. You must carry this signed permit when hunting on the refuge.

2. We prohibit hunting in the restricted use area of Crab Orchard Lake and areas posted closed to hunting as described in the hunting brochure.

3. We prohibit hunting within 50 yards (45 m) of all designated public use facilities, including but not limited to: parking areas, picnic areas, campgrounds, marinas, boat ramps, public roads, and established hiking trails listed in the refuge trails brochure.

4. Hunters must remove all boats, decoys, blinds, blind materials, stands, platforms, and other personal equipment (see §§ 27.93 and 27.94 of this chapter) brought onto the refuge at the end of each day's hunt.

5. We prohibit the construction or use of permanent blinds, stands, platforms, or scaffolds (see § 27.92 of this chapter).

6. Waterfowl hunting blinds must be a minimum of 200 yards (180 m) apart. Hunters must anchor boat blinds on the shore or anchor them a minimum of 200 yards (180 m) away from any shoreline.

7. An adult age 21 or older must supervise youth hunters under age 16, and youth hunters must remain in sight of and normal voice contact with the adult.

8. We prohibit the use of paint, flagging, reflectors, tacks, or other manmade materials to mark trails or hunting locations (see § 27.93 of this chapter).

9. We allow the use of hunting dogs during the hunting season, provided the dogs are under the immediate control of the hunter at all times.

10. We allow waterfowl hunting on the eastern shoreline in Grassy Bay.

11. Waterfowl hunters may hunt in the “controlled waterfowl hunting area” up to 3 days prior to Canada goose season.

12. We allow waterfowl hunting in the “controlled waterfowl hunting area” (as displayed in the refuge hunting brochure) during the Canada goose season subject to the following conditions:

i. Waterfowl hunters must attend a special drawing on the day of the hunt.

ii. We allow hunting ½ hour before legal sunrise to posted closing times.

iii. Hunters must hunt from assigned refuge blinds or markers. We allow water blind hunters to hunt from a boat immediately adjacent to their blind/marker.

iv. All hunters must report their harvest at the end of the day's hunt using the Waterfowl Harvest Report (FWS Form 3-2361).

B. Upland Game Hunting. We allow hunting of squirrel, rabbit, bobwhite quail, raccoon, opossum, red fox, grey fox, and coyote on designated areas of the refuge in accordance with State regulations subject to the following conditions:

1. Conditions A1 through A5 and A7 through A9 apply.

2. We prohibit upland game hunting in the “controlled waterfowl hunting area” during the Canada goose hunting season, except we allow furbearer hunting from legal sunset to legal sunrise.

3. We prohibit hunters using rifles or handguns with ammunition larger than .22 caliber rimfire, except they may use black powder firearms up to and including .40 caliber.

4. We allow the use of .22 and .17 caliber rimfire lead ammunition for the taking of small game and furbearers during open season.

5. We prohibit target practice or any nonhunting discharge of firearms (see § 27.42 of this chapter).

C. Big Game Hunting. We allow hunting of white-tailed deer and turkey on designated areas of the refuge in accordance with State regulations subject to the following conditions:

1. Conditions A1 through A5 and A7, A8, and B4 apply.

2. We require all deer and turkey hunters using the “restricted use area” (as described in the hunting brochure) to check-in at the refuge visitor center prior to hunting.

3. We allow the use of legal-sized lead ammunition (see current Illinois hunting digest) for the taking of deer and turkey.

4. We prohibit the use of handguns for the taking of deer in the restricted use area.

5. We prohibit the use of “deer drives” for the taking or attempting to take deer. We define a “deer drive” as a hunter(s) moving through an area with the intent of displacing one or more deer in the direction of another hunter(s).

6. We allow deer hunting with archery equipment only in the following areas:

i. In the “controlled waterfowl hunting area”;

ii. On all refuge lands north of Illinois State Route 13; and

iii. In the area north of the Crab Orchard Lake emergency spillway and west of Crab Orchard Lake.

D. Sport Fishing. We allow sport fishing on designated areas of the refuge in accordance with State regulations subject to the following conditions:

1. On Crab Orchard Lake west of Wolf Creek Road:

i. Anglers may fish from boats all year.

ii. Anglers must remove all trotlines/jugs from legal sunrise until legal sunset from the Friday immediately prior to Memorial Day through Labor Day.

2. On Crab Orchard Lake east of Wolf Creek Road:

i. Anglers may fish from boats March 15 through September 30.

ii. Anglers may fish all year at the Wolf Creek and Route 148 causeways.

3. Anglers must check and remove fish from all jugs and trotlines daily.

4. We prohibit using stakes to anchor any trotlines and anchoring trotlines from any object on the shoreline.

5. Anglers must tag all jugs and trotlines with their name and address.

6. We prohibit anglers using jugs or trotlines with any flotation device that has previously contained any petroleum-based material or toxic substances.

7. Anglers must attach a buoyed device that is visible on the water's surface to all trotlines.

8. Anglers may use all legal noncommercial fishing methods, except they may not use any underwater breathing apparatus.

9. On A-41, Bluegill, Managers, Honkers, and Vistors Ponds:

i. Anglers may fish only from legal sunrise to legal sunset March 15 through September 30.

ii. We prohibit anglers from using boats or flotation devices.

10. Anglers may not submerge any pots or similar object to take or locate any fish.

11. Organizers of all fishing events must possess a Special Use Permit (FWS Form 3-1383G or 3-1383C).

12. We prohibit anglers from fishing within 250 yards (225 m) of an occupied waterfowl hunting blind.

13. We restrict motorboats on all refuge waters to slow speeds leaving “no wake” within 150 feet (45 m) of any shoreline, swimming area, marina entrance, boat ramp, causeway tunnel, and any areas indicated on the lake zoning map in the refuge fishing brochure.

14. We prohibit the use of boat motors of more than “10 horse power” on Devils Kitchen and Little Grassy Lakes.

15. We prohibit the use of gas-powered motors in the southeastern section of Devils Kitchen Lake (consult lake zoning map in the refuge fishing brochure).

16. We prohibit the use of trotlines/jugs on all refuge waters outside of Crab Orchard Lake.

17. Specific creel and size limits apply on various refuge waters as listed in the Crab Orchard Fishing Brochure and the annual Illinois fishing digest.

* * * * *

Port Louisa National Wildlife Refuge

* * * * *

B. Upland Game Hunting. * * *

* * * * *

3. We allow hunting in designated areas on the Horseshoe Bend Division from September 1 until September 15 and December 1 until February 28. We allow spring turkey hunting.

* * * * *

D. Sport Fishing. * * *

* * * * *

3. We close the following Divisions to all public access: Louisa Division—September 15 until January 1; Horseshoe Bend Division—September 15 until December 1; Keithsburg Division—September 15 until January 1.

* * * * *

10. Amend § 32.33 Indiana by revising paragraphs B.2. and B.4., adding paragraphs B.6. and B.7., revising paragraphs C.2. and C.8., and adding paragraphs C.9. and D.5. under Muscatatuck National Wildlife Refuge, to read as follows:

§ 32.33 Indiana.

* * * * *

Muscatatuck National Wildlife Refuge

* * * * *

B. Upland Game Hunting. * * *

* * * * *

2. We allow the use of hunting dogs only for hunting rabbit, quail, and squirrel provided the dogs are under the immediate control of the hunter at all times (see § 26.21(b) of this chapter).

* * * * *

4. Hunters must use nontoxic shot in shotguns.

* * * * *

6. We require all hunters except turkey hunters to wear hunter orange.

7. We require all hunters to display a game harvest report (FWS Form 3-2359), with name and date filled in, on their vehicle dashboard while hunting. Hunters may pick up reports at registration boxes, complete the reports, and leave them there before departing the refuge.

C. Big Game Hunting. * * *

* * * * *

2. You must possess and carry a State-issued refuge hunting permit to hunt deer during the State early archery season in October, the muzzleloader season, and the youth hunting weekend.

* * * * *

8. We allow only spring turkey hunting on the refuge, and hunters must possess a State-issued hunting permit during the first 2 weeks of the season.

9. We allow archery deer hunting in November except during youth hunting weekend.

D. Sport Fishing. * * *

* * * * *

5. We prohibit lead sinkers. We allow sinkers made of nontoxic materials.

* * * * *

11. Amend § 32.34 Iowa by:

a. Revising paragraph C.6., adding paragraph C.12, revising the introductory text of paragraph D., and revising paragraphs D.1., D.2., and D.5. under DeSoto National Wildlife Refuge; and

b. Revising the entry for Northern Tallgrass Prairie National Wildlife Refuge.

The additions and revisions read as follows:

§ 32.34 Iowa.

* * * * *

DeSoto National Wildlife Refuge

* * * * *

C. Big Game Hunting. * * *

* * * * *

6. We prohibit the use of a crossbow as archery equipment unless the hunter has obtained a State-issued disability crossbow permit.

* * * * *

12. We prohibit participation in organized deer drives.

D. Sport Fishing. We allow sport fishing in DeSoto National Wildlife Refuge in accordance with the States of Iowa and Nebraska regulations subject to the following conditions:

1. We allow ice fishing in DeSoto Lake from January 2 through the end of February.

2. We allow the use of pole and line or rod and reel fishing in DeSoto Lake from April 15 through October 14.

* * * * *

5. We allow the use of portable ice fishing shelters on a daily basis from January 2 through the end of February.

* * * * *

Northern Tallgrass Prairie National Wildlife Refuge

A. Migratory Game Bird Hunting. Except for those units adjacent to Neal Smith National Wildlife Refuge, we allow hunting of duck, goose, merganser, coot, rail (Virginia and sora only), woodcock, and snipe on designated areas in accordance with State regulations subject to the following conditions:

1. Hunters may possess only approved nontoxic shot while in the field (see § 32.2(k)).

2. Hunters may construct temporary blinds using manmade materials only. We prohibit bringing plants or their parts onto the refuge.

3. We prohibit the construction or use of permanent blinds, stands, or scaffolds (see § 27.93 of this chapter).

4. We prohibit leaving boats, decoys, or other personal property unattended at any time.

5. Hunters must remove boats, decoys, portable or temporary blinds, materials brought onto the refuge, and other personal property at the end of each day's hunt (see §§ 27.93 and 27.94 of this chapter).

6. We allow the use of hunting dogs, provided that the dogs remain under the immediate control of the hunter at all times during the State-approved hunting season (see § 26.21(b) of this chapter).

7. We prohibit the use of motorized watercraft.

8. We prohibit camping.

B. Upland Game Hunting. Except for those units adjacent to Neal Smith National Wildlife Refuge, we allow the hunting of ring-necked pheasant, bobwhite quail, gray partridge, rabbit (cottontail and jack), squirrel (fox and gray), groundhog, raccoon, opossum, fox (red and gray), coyote, badger, striped skunk, and crow on designated areas of the refuge in accordance with State regulations subject to the following conditions:

1. Shotgun hunters may possess only approved nontoxic shot while in the field (see § 32.2(k)).

2. We allow the use of dogs for upland game bird hunting only, provided the dogs remain under the immediate control of the hunter at all times during the State-approved hunting season (see § 26.21(b) of this chapter).

3. We prohibit the use of dogs for hunting furbearers.

4. Conditions A7 and A8 apply.

C. Big Game Hunting. Except for those units adjacent to Neal Smith National Wildlife Refuge, we allow the hunting of deer and turkey on designated areas of the refuge in accordance with State regulations subject to the following conditions:

1. We allow the use of temporary stands, blinds, platforms, or ladders. Hunters may construct blinds using manmade materials only. We prohibit bringing plants or their parts onto the refuge.

2. We prohibit the construction or use of permanent blinds, stands, scaffolds, or ladders (see § 27.93 of this chapter).

3. Conditions A5, A7, and A8 apply.

D. Sport Fishing. [Reserved]

* * * * *

12. Amend § 32.36 Kentucky by revising paragraphs A.11. and B.6. under Clarks River National Wildlife Refuge to read as follows:

§ 32.36 Kentucky.

* * * * *

Clarks River National Wildlife Refuge

A. Migratory Game Bird Hunting. * * *

* * * * *

11. We prohibit the use of any electronic call or other electronic device used for producing or projecting vocal sounds of any wildlife species with the exception of electronic calls used during the refuge coyote hunt starting at legal sunrise on the first Monday following the end of deer archery season and closing at legal sunset on the Friday 2 weeks prior to the beginning of youth turkey season.

* * * * *

B. Upland Game Hunting. * * *

* * * * *

6. You may hunt coyote under Statewide regulations starting at legal sunrise on the first Monday following the end of deer archery season and closing at legal sunset on the Friday 2 weeks prior to the beginning of youth turkey season. Hunters may also take coyote during any daytime refuge hunt for other wildlife species with weapons, ammunition, and equipment legal for that species only.

* * * * *

13. Amend § 32.37 Louisiana by:

a. Revising paragraphs A.1., C.2., and C.12. under Bayou Cocodrie National Wildlife Refuge;

b. Revising paragraphs A., D.2., and D.6. through D.8., and removing paragraph D.10. under Bayou Sauvage National Wildlife Refuge;

c. Revising the introductory text of paragraph A., revising paragraphs A.2., A.3., A.7., C.2., and C.3. under Bayou Teche National Wildlife Refuge;

d. Revising the introductory text of paragraph A., revising paragraphs A.7., B.1., B.4., and D.6. under Big Branch Marsh National Wildlife Refuge;

e. Revising paragraphs A.6. through A.8. and A10. through A.15., adding paragraphs A.16. and A.17., revising paragraphs B., C.1., C.3., C.8., and D.2. under Bogue Chitto National Wildlife Refuge;

f. Revising paragraphs A.12., and C.2. through C.4., adding paragraphs C.5. and C.6. under Cameron Prairie National Wildlife Refuge;

g. Revising paragraph A.11. under Delta National Wildlife Refuge;

h. Revising paragraphs A.4. and B.2. under Grand Cote National Wildlife Refuge;

i. Revising paragraphs A.14. and C.2. through C.8., adding paragraph C.9., revising paragraphs D.1. and D.10. through D.14., and adding paragraphs D.15. through D.18. under Lacassine National Wildlife Refuge;

j. Revising paragraphs A.2. under Lake Ophelia National Wildlife Refuge;

k. Revising the introductory text of paragraph A., revising paragraphs A.3., A.4., and A.6., adding paragraphs A.8. through A.12., revising paragraphs C.1. and C.4. through C.6., adding paragraphs C.7. and C.8., and revising paragraph D.5. under Mandalay National Wildlife Refuge;

l. Revising paragraph A.10. under Red River National Wildlife Refuge; and

m. Revising paragraph A.16. under Sabine National Wildlife Refuge.

The additions and revisions read as follows:

§ 32.37 Louisiana.

* * * * *

Bayou Cocodrie National Wildlife Refuge

A. Migratory Game Bird Hunting. * * *

1. We require a $15 annual Public Use Permit (signature required) for all hunters and anglers age 16 and older. We waive the fee for individuals age 60 and older. The user must sign and carry the permit.

* * * * *

C. Big Game Hunting. * * *

* * * * *

2. The bag limit is one antlered or one antlerless deer per day. Hunters must check out each deer harvested according to the instructions posted at a designated check station prior to leaving the refuge. The State season limit and tagging regulations apply.

* * * * *

12. There is a $5 application fee per person for the lottery gun hunt application.

* * * * *

Bayou Sauvage National Wildlife Refuge

A. Migratory Game Bird Hunting. We allow hunting of migratory game birds (duck and goose) on designated areas of the refuge in accordance with State regulations subject to the following conditions:

1. We consider all waterfowl and coot hunting to be youth hunts. Youths, age 15 or younger, must accompany an adult age 21 or older. The youth must be capable of and must actively participate in such hunt by the possession and/or firing of a legal weapon during such hunt for the express purpose of harvesting game.

2. Each adult may supervise no more than two youths, and no more than one adult may supervise each youth during the course of any hunt. Youth must remain within normal voice contact of the adult who is supervising them. Adults accompanying youth on refuge hunts may participate by hunting but may not harvest more than their own daily bag limit. Youth must harvest their own bag limits.

3. We allow waterfowl (ducks, geese) and coot hunting until 12 p.m. (noon) on Thursday, Friday, Saturday, and Sunday, including early teal season, youth waterfowl hunt season, or other such special seasons which may be promulgated by law or statute. We shall close the refuge to waterfowl and coot hunting during any segment of goose season that extends beyond the regular duck season.

4. Hunters may not enter the refuge prior to 4 a.m. on the day of the hunt and must exit the refuge with all equipment and materials (see § 27.93 of this chapter) no later than 1 p.m.

5. We only allow hunting on those portions of the refuge that lie outside of the confines of the hurricane protection levee system.

6. Specific State regulations apply during the State Youth Waterfowl Hunting Days (i.e., adults may not hunt), except adults must be age 21 or older.

7. Hunters must possess and carry a valid refuge hunt permit (signed brochure).

8. We allow dogs only to locate, point, and retrieve while hunting.

9. We allow only nontoxic shot while hunting (see § 32.2(k)).

10. We prohibit hunting within 500 feet (150 m) of any residence or structure adjacent to the refuge; and we prohibit hunting within 200 feet (60 m) of any road, railroad, levee, water control structure, designated public use trail, designated parking area, and other designated public use facilities.

11. We require hunters to comply with State regulations regarding the completion of a Hunter Safety Course.

12. Persons possessing, transporting, or carrying firearms on national wildlife refuges must comply with all provisions of State and local law. Persons may only use (discharge) firearms in accordance with refuge regulations (see § 27.42 of this chapter and specific refuge regulations in part 32).

13. We prohibit air-thrust boats, aircraft, mud boats, and air-cooled propulsion engines on the refuge.

14. We prohibit motorized vehicles on all levees.

15. We prohibit any person or group to act as a hunting/angling guide, outfitter, or in any other capacity that any other individual(s) pays or promises to pay directly or indirectly for services rendered to any other person or persons hunting/angling on the refuge, regardless of whether such payment is for guiding, outfitting, lodging, or club membership.

16. We prohibit the use of open fires.

17. We prohibit camping.

18. We prohibit target shooting on the refuge.

19. We prohibit the use of any type of material used as flagging or trail markers, except bright eyes.

* * * * *

D. Sport Fishing. * * *

* * * * *

2. We allow sport fishing and shell fishing year-round on designated areas of the refuge and only after 12 p.m. in the waterfowl hunting areas during the State waterfowl hunting season. We close the remainder of the refuge from November 1 through January 31.

* * * * *

6. We prohibit feeding of any wildlife within the refuge.

7. We prohibit all commercial finfishing and shell fishing.

8. Conditions A12 through A19 apply.

* * * * *

Bayou Teche National Wildlife Refuge

A. Migratory Game Bird Hunting. We allow hunting of migratory game birds and waterfowl on designated areas of the refuge in accordance with State regulations subject to the following conditions:

* * * * *

2. We prohibit hunting in and/or shooting into or across any agricultural field, roadway, or canal.

3. An adult at least age 21 must supervise youth hunters age 15 and younger during all hunts. One adult may supervise two youths during small game hunts and migratory bird hunts but may supervise only one youth during big game hunts. Youth must remain within normal voice contact of the adult who is supervising them. Parents or adult guardians are responsible for ensuring that hunters under age 16 do not engage in conduct that would constitute a violation of refuge regulations.

* * * * *

7. We prohibit parking, walking, or hunting within 150 feet (45 m) of any active oil well site, production facility, or equipment. We also prohibit hunting within 150 feet (45 m) of any public road, refuge road, building, residence, or designated public facility.

* * * * *

C. Big Game Hunting. * * *

* * * * *

2. We allow archery deer hunting from the start of the State archery season until January 31. Hunters may take deer of either sex in accordance with State-approved archery equipment and regulations. The State season limits apply. The following units are open to archery deer hunting: Centerville, Bayou Sale, North Bend East, North Bend West, and Garden City. We close refuge archery hunting on those days that the refuge deer gun hunts occur.

3. We allow hunting only in the Centerville, Garden City, Bayou Sale, North Bend East, and North Bend West Units. We do not open the Bayou Sale Unit for all big game firearm hunts.

* * * * *

Big Branch Marsh National Wildlife Refuge

A. Migratory Game Bird Hunting. We allow hunting of duck, coot, goose, snipe, rail, gallinule, and woodcock on designated areas of the refuge during the State season for those species in accordance with State regulations subject to the following conditions:

* * * * *

7. An adult age 21 or older must supervise youth hunters age 15 or younger during all hunts. One adult may supervise two youths during small game and migratory bird hunts but may supervise only one youth during big game hunts. Youth must remain within normal voice contact of the adult who is supervising them. Parents or adult guardians are responsible for ensuring that hunters under age 16 do not engage in conduct that would constitute a violation of refuge regulations.

* * * * *

B. Upland Game Hunting. * * *

1. We allow upland game hunting during the open State season using only approved nontoxic shot (see § 32.2(k)) size 4 or smaller or .17 or .22 caliber rimfire rifles.

* * * * *

4. Conditions A5 through A10 and A12 through A17 apply.

* * * * *

D. Sport Fishing. * * *

* * * * *

6. Conditions A6, A8, A9, and A13 (angling guides) through A17 apply.

* * * * *

Bogue Chitto National Wildlife Refuge

A. Migratory Game Bird Hunting. * * *

* * * * *

6. An adult at least age 21 must supervise youth hunters age 15 or younger during all hunts. One adult may supervise two youths during small game hunts and migratory bird hunts but may supervise only one youth during big game hunts. Youth must remain within normal voice contact of the adult who is supervising them. Parents or adult guardians are responsible for ensuring that hunters under age 16 do not engage in conduct that would constitute a violation of refuge regulations.

7. We prohibit hunting within 150 feet (45 m) from the centerline of any public road, refuge road, designated or maintained trail, building, residence, designated public facility, or from or across aboveground oil or gas or electric facilities. We prohibit hunting in refuge-designated closed areas, which we post on the refuge and identify in the refuge hunt permits (see § 27.31 of this chapter).

8. For the purpose of hunting, we prohibit possession of slugs, buckshot, rifle, or pistol ammunition unless otherwise specified.

* * * * *

10. We prohibit any person or group to act as a hunting guide, outfitter, or in any other capacity that any other individual(s) pays or promises to pay directly to indirectly for services rendered to any other person or persons hunting on the refuge, regardless of whether such payment is for guiding, outfitting, lodging, or club membership.

11. We prohibit horses, trail cameras, and ATVs.

12. You may possess only approved nontoxic shot while hunting on the refuge (see § 32.2(k)).

13. We prohibit the use of any type of material used as flagging or trail markers, except bright eyes.

14. We prohibit the use or possession of alcohol while hunting (see § 32.2(j)).

15. We prohibit possession or distribution of bait while in the field and hunting with the aid of bait, including any grain, salt, minerals, or any nonnaturally occurring food attractant, on the refuge (see § 32.2(h)).

16. We prohibit target shooting on the refuge.

17. Persons possessing, transporting, or carrying firearms on national wildlife refuges must comply with all provisions of State and local law. Persons may only use (discharge) firearms in accordance with refuge regulations (see § 27.42 of this chapter and specific refuge regulations in part 32).

B. Upland Game Hunting. We allow hunting of squirrel, rabbit, raccoon, and opossum on designated areas of the refuge in accordance with State regulations subject to the following conditions:

1. We allow use of dogs for rabbit, squirrel, raccoon, and opossum on specific dates listed in the refuge hunt brochure.

2. We will close the refuge to hunting (except waterfowl) and camping when the Pearl River reaches 15.5 feet (4.65 m) on the Pearl River Gauge at Pearl River, Louisiana.

3. We prohibit the take of feral hog during any upland game hunts.

4. All hunters (including archery hunters and small game hunters) except waterfowl hunters must wear and display 400 square inches (2,600 cm²) of unbroken hunter orange as the outermost layer of clothing on the chest and back and a hunter-orange cap during deer gun, primitive firearm, and special temporary hog gun seasons. We require hunters participating in dog season for squirrels and rabbits to wear a hunter-orange cap. All other hunters, including archers (while on the ground), except waterfowl hunters also must wear a hunter-orange cap during the dog season for squirrels and rabbits. Deer hunters hunting from concealed ground blinds must display a minimum of 400 square inches (2,600 cm²) of hunter orange above or around their blinds which is visible from 360 degrees.

5. Conditions A5 through A17 apply, except you may use .17- and .22-caliber rifles, and the nontoxic shot in your possession while hunting must be size 4 or smaller.

C. Big Game Hunting. * * *

1. Conditions A5 through A11, A13 through A17, B2, B4, and B5 (except A12) apply.

* * * * *

3. We allow archery deer and hog hunting during the open State deer archery season. You may take deer of either sex in accordance with State-approved archery equipment and regulations. The State season limits apply.

* * * * *

8. You may take hog as incidental game while participating in the refuge archery, primitive weapon, and general gun deer hunts except where specified otherwise. We list specific dates for the special hog hunts in January, February, and March in the refuge hunt brochure. During the special hog hunts in February you must use trained hog-hunting dogs to aid in the take of hog. During the special hog hunts you may take hog from ½ hour before legal sunrise until ½ hour after legal sunset, and you must use pistol or rifle ammunition not larger than .22 caliber rimfire or shotgun with nontoxic shot to take the hog after it has been caught by dogs. During the special temporary experimental hog hunt in March, you may use any legal firearm. A8 applies during special hog hunts in February.

* * * * *

D. Sport Fishing. * * *

* * * * *

2. Conditions A9 and A11 apply.

* * * * *

Cameron Prairie National Wildlife Refuge

A. Migratory Game Bird Hunting. * * *

* * * * *

12. An adult at least age 21 must supervise youth hunters age 15 or younger during all hunts. One adult may supervise two youths during migratory bird hunts but may supervise only one youth during big game hunts. Youth must remain within normal voice contact of the adult who is supervising them. Parents or adult guardians are responsible for ensuring that hunters under age 16 do not engage in conduct that would constitute a violation of refuge regulations.

* * * * *

C. Big Game Hunting. * * *

* * * * *

2. We allow only portable deer stands. Hunters may place deer stands on the refuge 1 day before the white-tail deer archery season and must remove them from the refuge within 1 day after the season closes. Hunters may place only one deer stand on the refuge, and deer stands must have the owner's name, address, and phone number clearly printed on the stand. Hunters must place stands in a nonhunting position at ground level when not in use.

3. Conditions A3, A5 through A7, and A9 through A12 apply.

4. Each hunter must complete and turn in a Big Game Harvest Report (FWS Form 3-2359) available from a self-clearing check station after each hunt.

5. We prohibit entrance to the hunting area earlier than 4 a.m. Hunters must leave no later than 1 hour after legal sunset.

6. We prohibit possession or distribution of bait or hunting with the aid of bait, including any grail, salt, minerals, or other feed or any nonnaturally occurring attractant on the refuge (see § 32.2(h)).

* * * * *

Delta National Wildlife Refuge

A. Migratory Game Bird Hunting. * * *

* * * * *

11. An adult at least age 21 must supervise youth hunters age 15 or younger during all hunts. One adult may supervise two youths during small game and migratory game bird hunts but may supervise only one youth during big game hunts. Youth must remain within normal voice contact of the adult who is supervising them. Parents or adult guardians are responsible for ensuring that hunters under age 16 do not engage in conduct that would constitute a violation of refuge regulations.

* * * * *

Grand Cote National Wildlife Refuge

A. Migratory Game Bird Hunting. * * *

* * * * *

4. Hunters may use shotguns and possess only approved nontoxic shot for hunting migratory game birds.

* * * * *

B. Upland Game Hunting. * * *

* * * * *

2. We allow the use of only shotguns and rifles that are .22 magnum caliber rimfire or less for upland game hunting. You may possess only approved nontoxic shot in shotguns while hunting (see § 32.2(k)).

* * * * *

Lacassine National Wildlife Refuge

A. Migratory Game Bird Hunting. * * *

* * * * *

14. An adult at least age 21 must supervise youth hunters age 15 or younger during all hunts. One adult may supervise two youths during migratory game bird hunts but may supervise only one youth during big game hunts. Youth must remain within normal voice contact of the adult who is supervising them. Parents or adult guardians are responsible for ensuring that hunters under age 16 do not engage in conduct that would constitute a violation of refuge regulations.

* * * * *

C. Big Game Hunting. * * *

* * * * *

2. We allow only portable deer stands. Hunters may place deer stands on the refuge 1 day before the deer archery season and must remove them from the refuge within 1 day after the season closes. Hunters may place only one deer stand on the refuge, and deer stands must have the owner's name, address, and phone number clearly printed on the stand. Hunters must place stands in a nonhunting position at ground level when not in use.

3. Conditions A2 and A5 through A14 apply.

4. We prohibit entrance to the hunting area earlier than 4 a.m. Hunters must leave no later than 1 hour after legal sunset.

5. We prohibit hunting in the headquarters area along Nature Road and along the Lacassine Pool Wildlife Drive (see refuge map).

6. We allow boats of all motor types with 40 hp or less in Lacassine Pool.

7. We prohibit boats in Lacassine Pool and Unit D from October 16 through March 14. We prohibit boats in Units A and C.

8. We prohibit possession or distribution of bait or hunting with the aid of bait, including any grain, salt minerals, or other feed or any nonnaturally occurring attractant on the refuge (see § 32.2(h)).

9. Each hunter must complete and turn in a Big Game Harvest Report (FWS Form 3-2359) available from a self-clearing check station, after each hunt.

D. Sport Fishing. * * *

1. Conditions A6, A7, A10, A13 (fishing guide), C6, and C7 apply.

* * * * *

10. We prohibit boat and bank fishing in Lacassine Pool, Unit D, Streeter's Area, and refuge waters from October 16 through March 14.

11. We prohibit all boat motors, excluding trolling motors, in refuge marshes outside Lacassine Pool. We prohibit air-thrust boats, ATVs, and UTVs (utility vehicle) on the refuge (see § 27.31(f) of this chapter) unless otherwise allowed.

12. We prohibit all mechanized equipment, including motorized boats, within the designated wilderness area.

13. We allow fishing only with rod and reel or pole and line in refuge waters. We prohibit possession of any other type of fishing gear, including limb lines, gill nets, jug lines, yo-yos, or trotlines.

14. We allow only recreational crabbing with cotton hand lines or drop nets up to 24 inches (60 cm) outside diameter. We prohibit using floats on crab lines.

15. The daily limit of crabs is 5 dozen (60) per boat or vehicle, regardless of the number of people thereon.

16. Anglers must attend all lines, nets, and bait and remove same from the refuge when through fishing (see § 27.93 of this chapter).

17. Anglers can travel the refuge by boat from 1 hour before legal sunrise until 1 hour after legal sunset in order to access fishing areas. We prohibit fishing activities before legal sunrise and after legal sunset.

18. We prohibit the taking of turtle (see § 27.21 of this chapter).

* * * * *

Lake Ophelia National Wildlife Refuge

A. Migratory Game Bird Hunting. * * *

* * * * *

2. Hunters may use shotguns and possess only approved nontoxic shot for hunting migratory game birds.

* * * * *

Mandalay National Wildlife Refuge

A. Migratory Game Bird Hunting. We allow hunting of duck, goose, moorhen, gallinule, and coot in designated areas of the refuge in accordance with State regulations subject to the following conditions:

* * * * *

3. An adult at least age 21 must supervise youth hunters age 15 or under during all hunts. One adult may supervise two youths during small game and migratory game bird hunts. An adult may supervise only one youth during big game hunts. Youth must remain within normal voice contact of the adult who is supervising them. Parents or adult guardians are responsible for ensuring that hunters under age 16 do not engage in conduct that would constitute a violation of refuge regulations.

4. All hunters must possess and carry a signed hunt brochure (on the front cover) while hunting on refuge. The brochure is free and available on at the refuge office or online at http://www.fws.gov/boguechitto/. All hunters must check-in and check out at a refuge self-clearing check station. Each hunter must list their name on the self-clearing check station form (Migratory Bird Hunt Report, FWS Form 3-2361) and deposit the form at a refuge self-clearing check station prior to hunting. Hunters must report all game taken on the refuge when checking out by using the self-clearing check station form.

* * * * *

6. Persons possessing, transporting, or carrying firearms on national wildlife refuges must comply with all provisions of State and local law. Persons may only use (discharge) firearms in accordance with refuge regulations (see § 26.42 of this chapter and specific refuge regulations in part 32). Hunters may only possess approved nontoxic shot while hunting on the refuge (see § 32.2(k)).

* * * * *

8. We prohibit possession or distribution of bait while in the field and hunting with the aid of bait, including any grain, salt minerals, or any nonnaturally occurring food attractant on the refuge (see § 32.2(h)).

9. We prohibit target shooting on the refuge.

10. We prohibit any person or group to act as a hunting guide, outfitter, or in any other capacity that any other individual(s) pays or promises to pay directly or indirectly for services rendered to any other person or persons hunting on the refuge, regardless of whether such payment is for guiding, outfitting, lodging, or club membership.

11. We prohibit horses and ATVs.

12. We prohibit the use of any type of material used as flagging or trail markers except bright eyes (see § 27.94 of this chapter).

* * * * *

C. Big Game Hunting. * * *

1. We open the refuge to hunting of deer and hog only during the State archery season, except prior to 12 p.m. (noon) on Wednesdays and Saturdays during State waterfowl seasons when we close areas north of the Intracoastal Waterway to hunting of big game.

* * * * *

4. We prohibit trail cameras.

5. We prohibit the use of deer decoys.

6. We only allow portable stands. Hunters may erect temporary deer stands 1 day prior to the start of deer archery season. Hunters must remove all deer stands within 1 day after the archery deer season closes. Hunters may place only one deer stand on a refuge. Deer stands must have the owner's name, address, and phone number clearly printed on the stand. Hunters must place stands in a nonhunting position when not in use (see § 27.93 and 27.94 of this chapter).

7. We prohibit dogs and driving deer.

8. Conditions A3, A4, and A6 through A12 apply.

D. Sport Fishing. * * *

* * * * *

5. Conditions A6, A7, and A9 apply.

* * * * *

Red River National Wildlife Refuge

A. Migratory Game Bird Hunting. * * *

* * * * *

10. Hunters may possess only approved nontoxic shotgun ammunition for hunting on the refuge (see § 32.2(k)).

* * * * *

Sabine National Wildlife Refuge

A. Migratory Game Bird Hunting. * * *

* * * * *

16. An adult at least age 21 must supervise youth hunters under age 16 during all hunts. One adult may supervise two youths during migratory game bird hunts but may supervise two youths during migratory game bird hunts. Youth must remain within normal voice contact of the adult who is supervising them. Parents or adult guardians are responsible for ensuring that hunters under age 16 do not engage in conduct that would constitute a violation of refuge regulations.

* * * * *

14. Amend § 32.38 Maine by revising paragraphs A.1., A.2., and C.3. under Moosehorn National Wildlife Refuge to read as follows:

§ 32.38 Maine.

* * * * *

Moosehorn National Wildlife Refuge

A. Migratory Game Bird Hunting. * * *

1. We require every hunter to possess and carry a personally signed Migratory Bird Hunt Application (FWS Form 3-2357). Permits and regulations are available from the refuge in person during normal business hours (8 a.m. to 4:30 p.m. Monday through Friday; closed on holidays) or by contacting the Project Leader at (207) 454-7161 or by mail (Moosehorn National Wildlife Refuge, 103 Headquarters Road, Baring, Maine 04694).

2. You must annually complete a Migratory Bird Hunt Report (FWS Form 3-2361) and submit it by mail or in person at the refuge headquarters no later than 2 weeks after the close of the hunting season in March. If you do not comply with this requirement, we may suspend your future hunting privileges on Moosehorn National Wildlife Refuge.

* * * * *

C. Big Game Hunting. * * *

* * * * *

3. We allow bear hunting during the State Prescribed Season.

* * * * *

15. Amend § 32.39 Maryland by revising paragraphs A.1., A.9., A.9.iii., A.9.v., A.10.i., and A.11. through A.13., removing paragraph A.14., revising paragraphs B.1. and B.3. through B.9., adding paragraph B.10., revising paragraphs C.1., C.6., and C.9. through C.15., adding paragraph C.16., revising paragraphs D.1. through D.6., D.9., removing paragraph D.12., redesignating paragraphs D.13. through D.19. as paragraphs D.12. through D.18., and revising newly redesignated paragraph D.17.iii. under Patuxent Research Refuge, to read as follows:

§ 32.39 Maryland.

* * * * *

Patuxent Research Refuge

A. Migratory Game Bird Hunting. * * *

1. We require a Refuge Hunt Application (PRR Hunt Form #1). We issue permits through our Cooperating Association, Meade Natural Heritage Association (MNHA), at the refuge Hunting Control Station (HCS). MNHA charges a fee for each permit. Contact refuge headquarters for more information.

* * * * *

9. We prohibit hunting on or across any road (paved, gravel, dirt, opened and/or closed) within 50 yards (45 m) of a road (paved, gravel, dirt, opened and/or closed), within 150 yards (135 m) of any building or shed, and within 25 yards (22.5 m) from any designated “No Hunting” and “Safety Zone” areas, except:

* * * * *

iii. You may hunt waterfowl (goose/duck) from any refuge permanent photo/hunt blind.

* * * * *

v. You may hunt from the roadside for waterfowl in the designated posted portion of Wildlife Loop at Bailey Marsh.

* * * * *

10. * * *

i. You must wear a solid-colored-fluorescent-hunter orange that must be visible 360° while carrying-in and carrying-out equipment (e.g., portable blinds).

* * * * *

11. We allow the taking of only Canada goose during the Canada goose early resident season and late Canada goose migratory Atlantic population seasons.

12. We prohibit hunting of goose, duck, and dove during the early deer muzzleloader seasons that occur in October and all deer firearms seasons including the Youth Firearms Deer Hunts.

13. We require waterfowl hunters to use retrieving dogs while hunting duck and goose within 50 yards (45 m) of the following impounded waters: Blue Heron Pond, Lake Allen, New Marsh, and Wood Duck Pond.

i. We require dogs to be under the immediate control of their owner at all times (see § 26.21(b) of this chapter).

ii. Law enforcement officers may seize or dispatch dogs running loose or unattended (see § 28.43 of this chapter).

B. Upland Game Hunting. * * *

1. Conditions A1 through A10i apply.

* * * * *

3. We prohibit hunting of upland game during the deer muzzleloader and firearms seasons, including the Youth Firearms Deer Hunts.

4. We prohibit the use of dogs to hunt upland game.

5. Spring turkey hunters are exempt from wearing the hunter orange.

6. We allow the use of a bow and arrow for turkey hunting.

7. We require turkey hunters to use #4, #5, or #6 nontoxic shot or vertical bows.

8. We select turkey hunters by a computerized lottery for youth, disabled, mobility impaired, and general public hunts. We require documentation for disabled and mobility-impaired hunters.

9. We require turkey hunters to show proof they have attended a turkey clinic sponsored by the National Wild Turkey Federation.

10. We require turkey hunters to pattern their weapons prior to hunting. Contact refuge headquarters for more information.

C. Big Game Hunting. * * *

1. Conditions A1 through A10i apply.

* * * * *

6. We require bow hunters to wear a minimum of 250 square inches (1,625 cm²) of fluorescent orange when moving to and from the deer stand or their hunting spot and while tracking or dragging out their deer. We do not require bow hunters to wear solid-colored-fluorescent hunter orange when positioned to hunt except during the North Tract Youth Firearms Deer Hunts, the muzzleloader seasons, and the firearms seasons, when they must wear it at all times.

* * * * *

9. You must use portable tree stands that are at least 10 feet (3 m) off the ground and equipped with a full-body safety harness while hunting at Schafer Farm, Central Tract, and South Tract. You must wear the full-body safety harness while in the tree stand. We will make limited accommodations for disabled hunters for Central Tract lottery hunts.

10. We allow the use of ground blinds on North Tract only.

11. We prohibit the use of dogs to hunt or track wounded bear.

12. If you wish to track wounded deer beyond 1½ hours after legal sunset, you must gain consent from a refuge law enforcement officer. We prohibit tracking 2½ hours after legal sunset. You must make a reasonable effort to retrieve the wounded deer. This may include next-day tracking except Sundays and Federal holidays.

13. We prohibit deer drives or anyone taking part in any deer drive. We define a “deer drive” as an organized or planned effort to pursue, drive chase, or otherwise frighten or cause deer to move in the direction of any person or persons who are part of the organized or planned hunt and known to be waiting for the deer. We also prohibit organized deer drives without a standing hunter.

14. North Tract: We allow shotgun, muzzleloader, and bow hunting in accordance with the following: Conditions C1 through C13 apply.

15. Central Tract: Headquarters/MR Lottery Hunt: We only allow shotgun and bow hunting in accordance with the following: Conditions C1 through C13 apply (except C3i).

16. South Tract: We allow shotgun, muzzleloader, and bow hunting in accordance with the following:

i. Conditions C1 through C13 apply.

ii. You must access South Tract hunting areas A, B, and C off Springfield Road through the Old Beltsville Airport; and South Tract hunting area D from MD Rt. 197 through Gate #4. You must park in designated parking areas.

iii. We prohibit driving or parking along the entrance and exit roads to and from the National Wildlife Visitor Center, and parking in the visitor center parking lot when checked in to hunt any area.

D. Sport Fishing. * * *

1. We require all anglers, age 16 and older, to present their current Maryland State fishing license and complete the Fishing/Shrimping/Crabbing Application (FWS Form 3-2358). Anglers age 18 and older will receive a free Patuxent Research Refuge Fishing Vehicle Parking Pass. Organized groups must complete the Fishing/Shrimping/Crabbing Application (FWS Form 3-2358), and the group leader must stay with the group at all times while fishing.

2. We publish the Refuge Fishing Regulations, which includes the daily and yearly creel limits and fishing dates, in early January. We provide a copy of the regulations with your free Fishing Vehicle Parking Pass, and we require you to know the specific fishing regulations.

3. Anglers must carry a copy of their Maryland State fishing license in the field.

4. Anglers must display a copy of the Fishing Vehicle Parking Pass in the vehicle windshield.

5. We require anglers, age 17 or younger, to have a parent or guardian cosign the Fishing/Shrimping/Crabbing Application (FWS Form 3-2358). We will not issue a Fishing Vehicle Parking Pass to anglers age 17 or younger.

6. An adult age 21 or older possessing a Fishing Vehicle Parking Pass must accompany anglers age 17 or younger, and they must maintain visual contact with each other within a 50-yard (45 m) distance.

* * * * *

9. Anglers may take three youths, age 15 or younger, to fish under their Fishing Vehicle Parking Pass and in their presence and control.

* * * * *

17. * * *

* * * * *

iii. Anglers age 18 and older must complete an Emergency Contact Information/warning/waiver form (North Tract Warning PRR Hunt Form #2) prior to receiving a free North Tract Vehicle Access Pass. Anglers must display the North Tract Vehicle Access Pass in the vehicle windshield at all times and return the Pass to the North Tract Visitor Contact Station at the end of each visit.

* * * * *

16. Amend § 32.40 Massachusetts by:

a. Revising paragraphs A.2., A.4., A.8., and A9., adding paragraphs A.12. and A.13., revising paragraph B., redesignating paragraphs C.4. through C.10. as paragraphs C.5. through C.11., adding a new paragraph C.4., revising newly redesignated paragraphs C.5. and C.10., removing newly redesignated paragraph C.11., revising paragraphs D.6. and D.7., and removing paragraph D.9. under Assabet River National Wildlife Refuge;

b. Revising paragraphs A.1., A.4., A.5., A.9., and A.10., adding paragraph A.13., and revising paragraphs C.3., C.4. and C.9. under Great Meadows National Wildlife Refuge; and

c. Revising paragraphs A.3., A.6., A.10., and A.11., adding paragraph A.14., revising paragraphs B.2., B.4., C.4., C.5., and C.10., removing paragraph C.11., and revising the introductory text of paragraph D. under Oxbow National Wildlife Refuge.

The additions and revisions read as follows:

§ 32.40 Massachusetts.

* * * * *

Assabet River National Wildlife Refuge

A. Migratory Game Bird Hunting. * * *

* * * * *

2. We require a Migratory Bird Hunt Application (FWS Form 3-2357). We limit the number of migratory game bird hunters allowed to hunt on the refuge. If the number of applications received is greater than the number of permits available, we will issue permits by random selection.

* * * * *

4. We prohibit use of motorized vehicles on the refuge. The refuge will provide designated parking areas for hunters. Hunters must display issued hunter parking permits (generated from the Migratory Bird Hunt Application, FWS Form 3-2357) on their dashboards when parked in designated refuge parking areas.

* * * * *

8. We prohibit marking any tree or other refuge feature with flagging, paint, or any other substance. Hunters may use reflective tacks, which we require hunters to remove by the end of their permitted season.

9. You may begin scouting hunting areas on Sundays only beginning 1 month prior to the opening day of your permitted season. We require possession of refuge permits (Migratory Bird Hunt Application, FWS Form 3-2357) while scouting.

* * * * *

12. One nonhunting companion may accompany each permitted hunter. We prohibit nonhunting companions from hunting, but they may assist in other means. All companions must carry identification and stay close enough to the hunter to speak to them without raising their voice.

13. We prohibit construction or use of any permanent structure while hunting on the refuge. Hunters must remove all temporary blinds each day (see §§ 27.93 and 27.94 of this chapter).

B. Upland Game Hunting. We allow hunting of upland game on designated areas of the refuge in accordance with State regulations subject to the following conditions:

1. We allow shotgun hunting for ruffed grouse, cottontail rabbit, and gray squirrel within those portions of the refuge located north of Hudson Road, except those areas north of Hudson Road designated as “archery only” hunting on the current refuge hunting map. These archery only hunting areas north of Hudson Road are those portions of the refuge that are external to Patrol Road from its southern intersection with White Pond Road, northwest and then east, to its intersection with Old Marlborough Road.

2. We require a Big/Upland Game Hunt Application (FWS Form 3-2356). We limit the number of upland game hunters allowed to hunt on the refuge. If the number of applications received is greater than the number of permits available, we will issue permits by random selection.

3. Conditions A3, A4, A6 through A13 apply.

4. You may possess only approved nontoxic shot while in the field (see § 32.2(k)).

5. During seasons when it is legal to hunt deer with a shotgun or muzzleloader, we require all hunters, including archers and small game hunters, to wear a minimum of 500 square inches (3,250 cm²) of solid-orange clothing or material in a conspicuous manner on their chest, back, and head. During all other times, if you are hunting ruffed grouse, squirrel, or cottontail rabbit on the refuge, you must wear a minimum of a solid-orange hat.

C. Big Game Hunting. * * *

* * * * *

4. We require a Big/Upland Game Hunt Application (FWS Form 3-2356). We limit the number of big game hunters allowed to hunt on the refuge. If the number of applications received is greater than the number of permits available, we will issue permits by random selection.

5. Conditions A3, A4, A6 through A10, and A12 apply.

* * * * *

10. You may use temporary tree stands and/or ground blinds while engaged in hunting deer during the applicable archery, shotgun, or muzzleloader deer seasons or while hunting turkey. We allow hunters to keep one tree stand or ground blind on each refuge during the permitted season. Hunters must mark ground blinds with the hunter's permit number. Hunters must mark tree stands with the hunter's permit number in such a fashion that all numbers are visible from the ground. Hunters must remove all temporary tree stands and ground blinds by the 15th day after the end of the hunter's permitted season.

D. Sport Fishing. * * *

* * * * *

6. We allow fishing on Puffer Pond from legal sunrise to legal sunset.

7. We prohibit ice fishing on the refuge.

* * * * *

Great Meadows National Wildlife Refuge

A. Migratory Game Bird Hunting. * * *

1. We require refuge permits (information taken from OMB-approved form). We limit the number of waterfowl hunters allowed to hunt on the refuge. If the number of applications received to hunt waterfowl is greater than the number of permits available, we will issue permits by random selection.

* * * * *

4. We prohibit construction or use of any permanent structure while hunting on the refuge. You must remove all temporary blinds each day (see §§ 27.93 and 27.94 of this chapter).

5. We prohibit use of motorized vehicles on the refuge. The refuge will provide designated parking areas for hunters. Hunters must display parking permits (information taken from OMB-approved forms) on the dashboard when parked in designated refuge parking areas.

* * * * *

9. We prohibit marking any tree or other refuge feature with flagging, paint, or any other substance. Hunters may use reflective tacks which they must remove by the end of the hunter's permitted season (see § 27.93 of this chapter).

10. You may begin scouting hunting areas on Sundays only beginning 1 month prior to the opening day of your permitted season. We require possession of refuge permits (information taken from OMB-approved forms) while scouting. We prohibit the use of dogs during scouting.

* * * * *

13. We allow one nonhunting companion to accompany each permitted hunter. We prohibit nonhunting companions from hunting, but they can assist in other means. All companions must carry identification and stay close enough to the hunter to speak to them without raising their voice.

* * * * *

C. Big Game Hunting. * * *

* * * * *

3. We require refuge permits (information taken from OMB-approved forms). We limit the number of deer hunters allowed to hunt on the refuge. If the number of applications received to hunt deer on the refuge is greater than the number of permits available, we will issue permits by random selection.

4. Conditions A3, A5, A7 through A11, and A13 apply.

* * * * *

9. You may use temporary tree stands and/or ground blinds while engaged in hunting deer during the applicable archery season. We allow hunters to keep one tree stand or ground blind on each refuge during the permitted season. Hunters must mark ground blinds with their permit number. Hunters must mark tree stands with their permit number in such a fashion that all numbers are visible from the ground. Hunters must remove all temporary tree stands and ground blinds by the 15th day after the end of the permitted deer season (see § 27.93 of this chapter).

* * * * *

Oxbow National Wildlife Refuge

A. Migratory Game Bird Hunting. * * *

* * * * *

3. We require refuge permits (information taken from OMB-approved forms). We limit the number of waterfowl hunters allowed to hunt on the refuge. If the number of applications received to hunt waterfowl is greater than the number of permits available, we will issue permits by random selection.

* * * * *

6. We prohibit use of motorized vehicles on the refuge. The refuge will provide designated parking areas for hunters. Hunters must display issued hunter parking permits (information taken from OMB-approved forms) on the dashboard when parked in designated refuge parking areas.

* * * * *

10. We prohibit marking any tree or other refuge feature with flagging, paint, or any other substance. Hunters may use reflective tacks and must remove them by the end of the hunter's permitted season (see § 27.93 of this chapter).

11. You may begin scouting hunting areas on Sundays only beginning 1 month prior to the opening day of your permitted season. We require possession of refuge permits while scouting. We prohibit the use of dogs during scouting.

* * * * *

14. One nonhunting companion may accompany each permitted hunter. We prohibit nonhunting companions from hunting, but they can assist in other means. All companions must carry identification and stay close enough to the hunter to speak to them without raising their voice.

B. Upland Game Hunting. * * *

* * * * *

2. We require a Big/Upland Game Hunt Application (FWS Form 3-2356). We limit the number of upland game hunters allowed to hunt on the refuge. If the number of applications received to hunt upland game is greater than the number of permits available, we will issue permits by random selection.

* * * * *

4. Conditions A4 through A6 and A8 through A14 apply.

* * * * *

C. Big Game Hunting. * * *

* * * * *

4. We require refuge permits (information taken from OMB-approved form). We limit the number of deer and turkey hunters allowed to hunt on the refuge. If the number of applications received to hunt those species is greater than the number of permits available, we will issue permits by random selection.

5. Conditions A4, A6, A8 through A12, and A14 apply.

* * * * *

10. You may use temporary tree stands and/or ground blinds while engaged in hunting deer during the applicable archery, shotgun, or muzzleloader deer seasons or while hunting turkey. We allow hunters to keep one tree stand or ground blind on each refuge during the permitted season. Hunters must mark ground blinds with their permit number. Hunters must mark tree stands with their permit number in such a fashion that all numbers are visible from the ground. Hunters must remove all temporary tree stands and ground blinds by the 15th day after the end of the permitted season.

D. Sport Fishing. We allow sport fishing along the Nashua River in accordance with State regulations.

* * * * *

17. Amend § 32.42 Minnesota by:

a. Adding an entry for Crane Meadows National Wildlife Refuge;

b. Revising introductory paragraphs A., B., and C. under Litchfield Wetland Management District;

c. Adding paragraphs B.5. and D.4. under Minnesota Valley National Wildlife Refuge;

d. Revising the introductory text of paragraphs A. and B., revising paragraph B.4., and removing paragraphs B.5., B.6., and C.3. under Northern Tallgrass Prairie National Wildlife Refuge; and

e. Revising paragraph A.5., revising the introductory text of paragraph C., revising paragraphs C.1. through C.6., and adding paragraph C.7. under Sherburne National Wildlife Refuge.

The additions and revisions read as follows:

§ 32.42 Minnesota.

* * * * *

Crane Meadows National Wildlife Refuge

A. Migratory Game Bird Hunting. [Reserved]

B. Upland Game Hunting. [Reserved]

C. Big Game Hunting. We allow hunting of white-tailed deer and turkey on designated areas of the refuge in accordance with State regulations subject to the following conditions:

1. We allow archery deer hunting for youth hunters and firearms deer hunting for persons with disabilities.

2. We allow turkey hunting for youth hunters and persons with disabilities during the State spring turkey season.

3. We prohibit the construction or use of permanent blinds, platforms, or ladders (see § 27.93 of this chapter).

4. Hunters must remove all stands from the refuge at the end of each day's hunt.

5. Hunters must dismantle hunting blinds, platforms, and ladders made from natural vegetation at the end of each day.

6. We prohibit the possession of hunting firearms or archery equipment on areas closed to white-tailed deer or turkey hunting.

7. We prohibit deer pushes or deer drives in the areas closed to deer hunting.

8. We prohibit entry to hunting areas earlier than 2 hours before legal shooting hours (½ hour before legal sunrise).

9. We prohibit camping.

10. Turkey hunters may possess only approved nontoxic shot while in the field.

11. Hunters must unload, case, and break down hunting weapons when transporting them on refuge roads.

D. Sport Fishing. [Reserved]

* * * * *

Litchfield Wetland Management District

A. Migratory Game Bird Hunting. We allow hunting of migratory game birds throughout the district except we prohibit hunting on that part of the Phare Lake Waterfowl Production Area in Renville County that lies within the Phare Lake State Game Refuge. All hunting is in accordance with State regulations subject to the following conditions:

* * * * *

B. Upland Game Hunting. We allow upland game hunting throughout the district except we prohibit hunting on that part of the Phare Lake Waterfowl Production Area in Renville County that lies within the Phare Lake State Game Refuge. All hunting is in accordance with State regulations subject to the following condition: Conditions A4 and A5 apply.

C. Big Game Hunting. We allow big game hunting throughout the district except we prohibit hunting on that part of the Phare Lake Waterfowl Production Area in Renville County that lies within the Phare Lake State Game Refuge. All hunting is in accordance with State regulations subject to the following conditions:

* * * * *

Minnesota Valley National Wildlife Refuge

* * * * *

B. Upland Game Hunting. * * *

* * * * *

5. Condition A7 applies.

* * * * *

D. Sport Fishing * * *

* * * * *

4. We prohibit taking of any turtle species by any method.

* * * * *

Northern Tallgrass Prairie National Wildlife Refuge

A. Migratory Game Bird Hunting. We allow hunting of duck, goose, merganser, moorhen, coot, rail (Virginia and sora only), woodcock, common snipe, and mourning dove in accordance with State regulations subject to the following conditions:

* * * * *

B. Upland Game Hunting. We allow hunting of ring-necked pheasant, Hungarian partridge, rabbit (cottontail and jack), snowshoe hare, squirrel (fox and gray), raccoon, opossum, fox (red and gray), badger, coyote, striped skunk, and crow on designated areas of the refuge in accordance with State regulations subject to the following conditions:

* * * * *

4. Conditions A7 and A8 apply.

* * * * *

Sherburne National Wildlife Refuge

A. Migratory Game Bird Hunting. * * *

* * * * *

5. We prohibit hunting during the State Special Goose Hunt.

* * * * *

C. Big Game Hunting. We allow hunting of white-tailed deer and turkey on designated areas of the refuge in accordance with State regulations subject to the following conditions:

1. We allow turkey hunting for youth hunters and persons with disabilities during the State spring turkey season.

2. We prohibit the construction or use of permanent blinds, platforms, or ladders.

3. Hunters must remove all stands from the refuge at the end of each day's hunt (see § 27.93 of this chapter).

4. Hunters must dismantle hunting blinds, platforms, and ladders made from natural vegetation at the end of each day.

5. We prohibit the possession of hunting firearms or archery equipment on areas closed to white-tailed deer and turkey hunting.

6. We prohibit deer pushes or deer drives in the areas closed to deer hunting.

7. Conditions A4 and A7 apply.

* * * * *

18. Amend § 32.43 Mississippi by:

a. Revising the Coldwater National Wildlife Refuge heading and paragraphs A., B., and C. under it; and

b. Revising paragraph D.9. under Noxubee National Wildlife Refuge.

The revisions read as follows:

§ 32.43 Mississippi.

* * * * *

Coldwater River National Wildlife Refuge

A. Migratory Game Bird Hunting. We allow hunting of migratory waterfowl and coot on designated areas of the refuge in accordance with State regulations subject to the following conditions:

1. Youth hunters age 15 and younger must possess and carry a hunter safety course card or certificate. Each youth hunter must remain within sight and normal voice contact of an adult age 21 or older. Hunters born after January 1, 1972, also must carry a Hunter Education Safety course card or certificate. All hunters age 16 and older must possess and carry a valid, signed refuge hunting permit (name and address), certifying that he or she understands and will comply with all regulations. Hunters may obtain permits at the North Mississippi Refuges Complex Headquarters, 2776 Sunset Drive, Grenada, MS 38901 or by mail from the above address.

2. We restrict all public use to 2 hours before legal sunrise to 2 hours after legal sunset. We prohibit entering or remaining on the refuge before or after hours.

3. We allow hunting of migratory game birds only on Wednesdays, Fridays, Saturdays, and Sundays from ½ hour before legal sunrise and ending at 12 p.m. (noon). Hunters must remove all decoys, blind material (see § 27.93 of this chapter), litter (see § 27.94 of this chapter), and harvested waterfowl from the area no later than 1 p.m. each day. After duck, merganser, and coot season closes, we allow hunting of goose in accordance with the Light Goose Conservation Order daily beginning ½ hour before legal sunrise and ending at legal sunset.

4. Each hunter must obtain a Migratory Bird Harvest Report Card (FWS Form 3-2361) available at each refuge information station and follow the printed instructions on the form. You must display the form in plain view on the dashboard of your vehicle so that the personal information is readable. Prior to leaving the refuge, you must complete the reverse side of the form and deposit it at one of the refuge information stations. Include all game harvested, and if you harvest no game, report “0.”

5. We may close certain areas of the refuge for sanctuary or administrative purposes. We will mark such areas with “No Hunting” or “Area Closed” signs.

6. Waterfowl hunters may leave boats meeting all State registration requirements on refuge water bodies throughout the waterfowl season. You must remove boats (see § 27.93 of this chapter) within 72 hours after the season closes.

7. We restrict motor vehicle use to roads designated as vehicle access roads on the refuge map (see § 27.31 of this chapter). We prohibit blocking access to any road or trail entering the refuge (see § 27.31(h) of this chapter).

8. All hunters or persons on the refuge for any reason while in the field during any open refuge hunting season must wear a minimum of 500 square inches (3,250 cm ²) of visible, unbroken, fluorescent-orange-colored material above the waistline. The only exception to this is waterfowl hunters who may remove the fluorescent-orange material once positioned to hunt. Waterfowl hunters must comply while walking/boating to and from the actual hunting area.

9. We allow dogs on the refuge only when specifically authorized for hunting. We encourage the use of dogs to retrieve dead or wounded waterfowl. Dogs must remain in the immediate control of their handlers at all times (see § 26.21(b) of this chapter).

10. We prohibit cutting or removing trees and other vegetation (see § 27.51 of this chapter). We prohibit the use of flagging, paint, blazes, tacks, or other types of markers.

11. We prohibit ATVs (see § 27.31(f) of this chapter), horses, and mules on the refuge.

B. Upland Game Hunting. We allow hunting of squirrel, rabbit, nutria, and raccoon on designated areas of the refuge in accordance with State regulations subject to the following conditions:

1. Conditions A1, A4 (substitute Upland/Small Game/Furbearer Report [FWS Form 3-2362] for Migratory Bird Hunt Report), A5, A7, A10, and A11 apply.

2. We restrict all public use to 2 hours before legal sunrise and to 2 hours after legal sunset. We prohibit entering or remaining on the refuge before or after hours. We may make exceptions for raccoon hunters possessing a Special Use Permit (FWS Form 3-1383). Contact the refuge office for details.

3. When hunting, we allow only shotguns with approved nontoxic shot (see § 32.2(k)), .17 or .22-caliber rimfire rifles, or archery equipment without broadheads.

4. All hunters or persons on the refuge for any reason during any open-refuge hunting season must wear a minimum of 500 square inches (3,250 cm ²) of visible, unbroken, fluorescent-orange-colored material above the waistline.

5. We allow dogs on the refuge only when specifically authorized for hunting. Dogs must remain in the immediate control of their handlers at all times (see § 26.21(b) of this chapter). Consult the refuge hunting brochure for specific seasons.

C. Big Game Hunting. We allow hunting of white-tailed deer and feral hog on designated areas of the refuge in accordance with State regulations subject to the following conditions:

1. Conditions A1, A2, A4 (substitute Big Game Harvest Report [FWS Form 3-2359] for Migratory Bird Hunt Report), A5, A7, A11, and B4 apply.

2. We prohibit dogs while hunting deer. Hunters may only use dogs to hunt hog during designated hog seasons.

3. We prohibit use or possession of any drug or device for employing such drug for hunting (see § 32.2(g)).

4. We prohibit drives for deer.

5. We prohibit hunting or shooting across any open, fallow, or planted field from ground level or on or across any public road, public highway, railroad, or their rights-of-way during all general gun and primitive weapon hunts.

6. Hunters may erect portable deer stands 2 weeks prior to the opening of archery season on the refuge and must remove them (see § 27.93 of this chapter) by January 31. We prohibit the use of flagging, paint, blazes, tacks, or other types of markers.

* * * * *

Noxubee National Wildlife Refuge

* * * * *

D. Sport Fishing. * * *

* * * * *

9. We require anglers to possess and carry a signed, no-cost, refuge hunting, fishing, and public use permit (signed brochure) when fishing on the refuge.

* * * * *

19. Amend § 32.44 Missouri by:

a. Revising paragraphs B. and C. under Big Muddy National Wildlife Refuge; and

b. Revising paragraphs A., C., and D. under Swan Lake National Wildlife Refuge.

The revisions read as follows:

§ 32.44 Missouri.

* * * * *

Big Muddy National Wildlife Refuge

* * * * *

B. Upland Game Hunting. We allow upland game hunting on designated areas of the refuge in accordance with State regulations subject to the following conditions:

1. You may possess only approved nontoxic shot (see § 32.2(k)).

2. We allow upland game hunting on the 131-acre mainland unit of Boone's Crossing with archery methods only. On Johnson Island, we allow hunting of game animals during Statewide seasons using archery methods or shotguns using shot no larger than BB.

3. We allow upland game hunting on the Cora Island Unit only to shotguns with shot no larger than BB.

C. Big Game Hunting. We allow hunting of deer and turkey on designated areas of the refuge in accordance with State regulations subject to the following conditions:

1. We prohibit the construction or use of permanent blinds, platforms, or ladders at any time.

2. We prohibit hunting over or placing on the refuge any salt or other mineral blocks (see § 32.2(h)).

3. We allow only portable tree stands from September 1 through January 31. Hunters must place their full name and address on their stands.

4. We restrict deer hunters on the Boone's Crossing Unit, including Johnson Island, to archery methods only.

5. The Cora Island Unit is open to deer hunting for archery methods only.

6. We prohibit trapping on all areas of the refuge.

7. You may possess only approved nontoxic shot while hunting on the refuge; this includes turkey hunting (see § 32.2(k)).

* * * * *

Swan Lake National Wildlife Refuge

A. Migratory Game Bird Hunting. We allow hunting of goose on designated areas of the refuge in accordance with State regulations subject to the following conditions:

1. We require Missouri Department of Conservation “Green Card” permits while hunting on the refuge in addition to all other required Federal and State license, stamps, and permits.

2. Hunters must check-in and out at the Refuge Hunter Check Station (use Missouri Department of Conservation form) before and after hunting.

3. Goose hunting is open only on Wednesdays, Fridays, Saturdays, Sundays, and all Federal holidays during the late goose season. We close to goose hunting during the refuge-managed deer hunts.

4. Hunting hours end at 1 p.m. on Units S1, S2, S3, T1, T3, V1, W1, and W2. Hunters using these units must have all equipment removed and be out of the units by 1 p.m. (see § 27.93 of this chapter).

5. We allow snow goose hunting in all units every day of the week during the designated Spring Conservation Order Season. Hunters may not check-in before 4 a.m. during the Conservation Order Season and must be off of the refuge by closing hours.

6. Hunters may hunt only in the designated areas they are assigned at the check station. We restrict hunters in Units A7, R1, and R4 to hunting from the permanent blinds. Hunters may hunt anywhere in all other units inside the designated unit by the use of temporary blinds or layout boats.

7. We allow game retrieval outside of designated hunting areas. We prohibit possession of hunting firearms while outside of the designated area except for going to and from parking areas.

8. We require that hunters leash or kennel hunting dogs when outside the hunting unit.

9. We restrict hunting units to parties no larger than four.

10. We prohibit driving vehicles into units. We allow hand-pulled carts. Hunters must park vehicles in designated parking areas for the unit to which they are assigned for hunting.

11. We prohibit cutting of woody vegetation (see § 27.51 of this chapter) on the refuge for blinds.

* * * * *

C. Big Game Hunting. We allow hunting of deer on designated areas of the refuge in accordance with State regulations subject to the following conditions:

1. We require a Missouri Department of Conservation Permit, along with Missouri Department of Conservation hunter identification tags and parking permits to hunt during the managed deer hunt.

2. We require hunters to participate in a prehunt orientation for managed deer hunts.

3. You must check-in each morning and out each evening of the hunt at the Refuge Hunter Check Station (use Missouri Department of Conservation form).

4. You may not access the refuge across the boundary from neighboring private or public lands, and you must hunt in your designated area only.

5. We allow entry onto the refuge 1 hour prior to shooting hours (defined by State regulations) during managed deer hunts. You must be off the refuge 1 hour after shooting hours.

6. We prohibit shooting from or across refuge roads open to public vehicle use.

7. We allow use of portable tree stands and blinds during managed deer hunts. We require all stands and blinds to have the hunter's name, address, and phone number attached. Hunters must mark enclosed hunting blinds and stands with hunter orange visible from all sides.

8. We prohibit hunting over or placing on the refuge any salt or other mineral blocks (see § 32.2(h)).

D. Sport Fishing. We allow sport fishing on all designated areas of the refuge in accordance with State regulations subject to the following conditions:

1. We allow fishing on the refuge only during refuge open hours.

2. The Taylor Point area of Elk Creek is open to fishing year-round during daylight hours. Anglers may access this area by a refuge road (FHWA Route 100) off of State Highway E. The area open to fishing year-round is 300 feet (90 m) upstream and 300 feet downstream of the parking lot along the banks of Elk Creek. In addition, Elk Creek is open to fishing year-round 300 feet downstream and upstream from the bridge on State Highway E. We close all fishing during the refuge-managed deer hunts.

3. We allow only nonmotorized boats on refuge waters with the exception of the Silver Lake impoundment. Anglers may use motor boats on the Silver Lake impoundment. No wake applies to all waters on the refuge.

4. Anglers must remove all boats from the refuge at the end of each day (see § 27.93 of this chapter).

* * * * *

20. Amend § 32.46 Nebraska by revising paragraph A.1., the introductory text of paragraph C., and paragraphs D.2. through D.5., and adding paragraphs D.6. and D.7. under Boyer Chute to read as follows:

§ 32.46 Nebraska.

* * * * *

Boyer Chute National Wildlife Refuge

A. Migratory Game Bird Hunting. * * *

1. Hunters may access the refuge from 1½ hours before legal sunrise until 1 hour after legal sunset along the immediate shoreline and including the high bank of the Missouri River. You may access the hunting area by water or, if by land, only within the public use area of the Island Unit.

* * * * *

C. Big Game Hunting. We allow hunting of white-tailed deer in accordance with State regulations subject to the following condition: You must possess and carry a refuge access permit (signed brochure) at all times while in the hunting area. Hunters may enter the hunting areas only within the dates listed on the refuge access permit.

D. Sport Fishing. * * *

* * * * *

2. We allow boating at no-wake speeds, not to exceed 5 mph (8 km), on side or back channels. We prohibit all watercraft in the Boyer Chute waterway or other areas as posted.

3. We prohibit the use of trotlines, float lines, bank lines, or setlines.

4. We prohibit ice fishing.

5. We prohibit digging or seining for bait.

6. We prohibit the take or possession of turtles or frogs.

7. Anglers may use no more than two lines and two hooks per line.

* * * * *

21. Amend § 32.47 Nevada by revising paragraphs A.2. and D.1. under Sheldon National Wildlife Refuge to read as follows:

§ 32.47 Nevada.

* * * * *

Sheldon National Wildlife Refuge

A. Migratory Game Bird Hunting. * * *

* * * * *

2. We only allow nonmotorized boats or boats with electric motors.

* * * * *

D. Sport Fishing. * * *

1. We only allow nonmotorized boats or boats with electric motors.

* * * * *

22. Amend § 32.50 New Mexico by revising paragraphs C.5., C.8., C.9., C.10., C.14., and C.15. under Bosque del Apache National Wildlife Refuge to read as follows:

§ 32.50 New Mexico.

* * * * *

Bosque del Apache National Wildlife Refuge

* * * * *

C. Big Game Hunting. * * *

* * * * *

5. We prohibit hunting from a vehicle.

* * * * *

8. We allow bearded Rio Grande turkey hunting for youth in two areas of the refuge: The north hunting area and the south hunting area. We provide maps with the refuge permit (Big/Upland Game Hunt Application, FWS Form 3-2356), which each hunter must carry, that show these areas in detail.

9. Drawn hunters must possess and carry their selection letter/permit (Big/Upland Game Hunt Application, FWS Form 3-2356) for hunting of bearded Rio Grande turkey. The permit is available only to youth hunters and is available through a lottery drawing. You must postmark applications by March 1 of each year. A $6 nonrefundable application fee must accompany each hunt application.

10. We allow hunting of bearded Rio Grande turkey for youth hunters only on dates determined by refuge staff. Drawn hunters must report to refuge headquarters by 4:45 a.m. each hunt day. Legal hunting hours run from ½ hour before legal sunrise to ½ hour after legal sunset.

* * * * *

14. We allow the use of temporary ground blinds only for turkey hunts, and hunters must remove them from the refuge daily (see § 27.93 of this chapter). It is unlawful to mark any tree or other refuge structure with paint, flagging tape, ribbon, cat-eyes, or any similar marking device.

15. We allow youth hunters only one legally harvested bearded Rio Grande turkey per hunt.

* * * * *

23. Amend § 32.52 North Carolina by:

a. Adding paragraphs A.6. and A.7. under Cedar Island National Wildlife Refuge;

b. Removing paragraph A.5. and redesignating paragraph A.6. as A.5., and revising paragraph C. under Currituck National Wildlife Refuge;

c. Revising paragraphs C.1. and D.1. under Mackay Island National Wildlife Refuge;

d. Revising paragraph A.1., removing paragraph A.10., redesignating paragraphs A.11. and A.12. as paragraphs A.10. and A.11. and revising newly redesignated paragraphs A.10. and A.11., revising paragraphs C.1., C.4., and C.8., adding paragraphs C.11. through C.13., revising the introductory text of paragraph D.1., and revising paragraphs D.3., D.6.i., and D.6.iii. under Mattamuskeet National Wildlife Refuge;

e. Redesignating paragraphs D.1. through D.4. as paragraphs D.2. through D.5. and adding a new paragraph D.1. under Pee Dee National Wildlife Refuge;

f. Revising paragraphs A.1. through A.6., A.12., B.4., C., and D.1. under Pocosin National Wildlife Refuge; and

g. Revising paragraph A.6. and adding paragraphs A.7. and A.8. under Swanquarter National Wildlife Refuge.

The additions and revisions read as follows:

§ 32.52 North Carolina.

* * * * *

Cedar Island National Wildlife Refuge

A. Migratory Game Bird Hunting. * * *

* * * * *

6. Each youth hunter must remain within sight and normal voice contact of an adult age 21 or older. An adult may directly supervise up to two youth hunters age 15 or younger who must have successfully completed a State-approved hunter safety course and possess and carry proof of certification.

7. We open the refuge to daylight use only, except that we allow hunters to enter and remain in open hunting areas from 1 hour before legal shooting time until 1 hour after legal shooting time.

* * * * *

Currituck National Wildlife Refuge

* * * * *

C. Big Game Hunting. We allow hunting of deer and feral hog on limited dates in designated areas of the refuge in accordance with State regulations subject to the following conditions:

1. We require a refuge hunting permit (signed brochure) that hunters must sign and carry while hunting on the refuge.

2. Each hunter must pay an annual $12.50 hunt permit fee.

3. We allow the use of shotguns, muzzleloading rifles/shotguns, pistols, and bows in designated units. We prohibit the use of all other rifles and crossbows.

4. Hunters may take two deer per day; there is no daily limit on feral hog.

5. Hunters must wear a minimum of 500 square inches (3,250 cm²) of hunter-orange material above the waist that is visible from all directions.

6. We prohibit the marking of trees and vegetation (see § 27.51 of this chapter) with blazes, flagging, or other marking devices.

7. We allow hunters on the refuge from 1 hour before legal sunrise to 1 hour after legal sunset.

8. We allow the use of portable tree stands, but hunters must remove them daily (see § 27.93 of this chapter).

9. Hunters may access the refuge by foot, boat, and/or vehicle, but we prohibit hunting from a boat or vehicle.

10. An adult at least age 21 may supervise only one youth under age 16. The youth must be within sight and normal voice contact of the adult.

* * * * *

Mackay Island National Wildlife Refuge

* * * * *

C. Big Game Hunting. * * *

1. We require a Refuge Deer Hunting Permit (signed brochure) that hunters must sign and carry while hunting on the refuge.

* * * * *

D. Sport Fishing. * * *

1. We allow fishing only from legal sunrise to legal sunset from March 15 through October 15 with the exception that we allow fishing along the Marsh Causeway year-round. The 0.3 Mile Loop Trail and the terminus of the canal immediately adjacent to the Visitor Center are open year-round, but we close them during the Refuge Permit Deer Hunts.

* * * * *

Mattamuskeet National Wildlife Refuge

A. Migratory Game Bird Hunting. * * *

1. We require refuge-issued permits (name and address) that you must validate at the refuge headquarters, sign, possess, and carry while hunting.

* * * * *

10. We allow the taking of only Canada goose during the State September Canada goose season subject to the following conditions:

i. We allow hunting Monday through Saturday during the State season.

ii. The hunter must possess and carry a validated refuge permit (name and address) while hunting.

iii. We close the following areas to hunting of Canada goose: Impoundments MI-4, MI-5, and MI-6; in Rose Bay Canal, Outfall Canal, Lake Landing Canal, and Waupoppin Canal; 150 feet (45 m) from the mouth of the canals where they enter Lake Mattamuskeet; and 150 yards (135 m) from State Route 94.

iv. We allow portable blinds, but hunters must remove them daily (see § 27.93 of this chapter).

11. Each youth hunter age 15 or younger must remain within sight and normal voice contact of an adult age 21 or older. Youth hunters must have completed a State-certified hunter safety course and possess and carry the form or certificate. An adult may directly supervise up to two youth hunters age 15 or younger.

* * * * *

C. Big Game Hunting. * * *

1. The hunter must possess and carry a signed, validated refuge permit (name and address) while hunting.

* * * * *

4. Hunters may take deer with shotgun, bow and arrow, crossbow, or muzzleloading rifle/shotgun.

* * * * *

8. We allow the use of only portable blinds and deer stands. Hunters with a valid permit (name and address) may erect one portable blind or stand the day before the start of their hunt and must remove it at the end of the second day of that 2-day hunt (see § 27.93 of this chapter). Any stands or blinds left overnight on the refuge must have a tag with the hunter's name, address, and telephone number.

* * * * *

11. We prohibit the use of all-terrain vehicles (ATVs) or off-highway vehicles (OHVs) (see § 27.31(f) of this chapter).

12. We require consent from refuge personnel to enter and retrieve legally taken game animals from closed areas including “No Hunting Zones.”

13. We allow the use of only biodegradable-type flagging. We prohibit affixing plastic flagging, dots, glow tacks, reflectors, or other materials to refuge vegetation (see § 27.51 of this chapter).

D. Sport Fishing. * * *

1. We are open to sport fishing, bow fishing, and crabbing from March 1 through October 31 from ½ hour before legal sunrise to ½ hour after legal sunset, except we allow bank fishing and crabbing year-round from:

* * * * *

3. We allow motorized and nonmotorized fishing boats, canoes, and kayaks March 1 through October 31. We prohibit airboats, sailboats, Jet Skis, and windboards.

* * * * *

6. * * *

i. We allow only five handlines and hand-activated traps per person. Owners must be in attendance, and anglers must remove all handlines and traps daily.

* * * * *

iii. Anglers may only take or possess 12 crabs per person per day.

* * * * *

Pee Dee National Wildlife Refuge

* * * * *

D. Sport Fishing. * * *

1. We require all anglers to possess and carry a signed refuge Sport Fishing Permit (signed brochure) and government-issued picture ID while fishing in refuge waters.

* * * * *

Pocosin Lakes National Wildlife Refuge

A. Migratory Game Bird Hunting. * * *

1. We prohibit hunting on the Davenport and Deaver tracts (which include the area surrounding the Headquarters/Visitor Center and the Scuppernong River Interpretive Boardwalk), the Pungo Shop area, New Lake, refuge lands between Lake Phelps and Shore Drive, that portion of the Pinner Tract east of SR 1105, the portion of Western Road between the intersection with Seagoing Road and the gate to the south, and the unnamed road at the southern boundary of the refuge land located west of Pettigrew State Park's Cypress Point Access Area. During November, December, January, and February, we prohibit all public entry on the Pungo and New Lakes, Duck Pen Road (except that portion that forms the Duck Pen Wildlife Trail and Pungo Lake Observation point when the trail and observation point are open), and the Pungo Lake, Riders Creek, and Dunbar Road banding sites.

2. We require consent from refuge personnel to enter and retrieve legally taken game animals from closed areas including “No Hunting Zones.”

3. We require all hunters to possess and carry a signed, self-service refuge general hunting permit (signed brochure) while hunting on the refuge.

4. We open the refuge for daylight use only (legal sunrise to legal sunset), except that we allow hunters to enter and remain in open hunting areas from 1½ hours before legal shooting time until 1½ hours after legal shooting time except on the Pungo Unit (see condition C6).

5. We allow the use of all-terrain vehicles (ATVs) only on designated ATV roads (see § 27.31 of this chapter) and only to transport hunters and their equipment to hunt and scout. We allow ATV use only on the ATV roads at the following times:

i. When we open the ATV road and surrounding area to hunting;

ii. One week prior to the ATV road and surrounding area opening to hunting; and

iii. On Sundays, when we open the ATV road and surrounding area for hunting the following Monday.

6. Persons may only use (discharge) firearms in accordance with refuge regulations (50 CFR 27.42 and specific regulations in part 32). We prohibit hunting, taking, and attempting to take any wildlife from a vehicle while the passenger area is occupied or when the engine is running except that we allow hunting from ATVs and other similarly classed vehicles (where they are authorized) and boats as long as they are stationary and the engine is turned off.

* * * * *

12. While hunting, we require youth hunters under age 16 to possess and carry proof that they successfully passed a State-approved hunter education course. Youth hunters may only hunt under the direct supervision of a licensed hunter over age 21. One licensed hunter over age 21 may supervise up to two migratory game bird youth hunters at a time.

B. Upland Game Hunting. * * *

* * * * *

4. We prohibit the hunting of raccoon and opossum during, 5 days before, and 5 days after the State bear seasons. Outside of these periods, we allow the hunting of raccoon and opossum at night but only while possessing a Big/Upland Game Hunt Application (FWS Form 3-2356).

* * * * *

C. Big Game Hunting. We allow hunting of deer, turkey, and feral hog on designated areas of the refuge in accordance with State regulations subject to the following conditions:

1. Conditions A1 through A7 apply.

2. You may hunt spring turkey only if you possess and carry a valid permit (Big/Upland Game Hunt Application (FWS Form 3-2356)). The permits are valid only for the dates and areas shown on the permit. We require an application and a fee for these permits and hold a drawing, when necessary, to select the permittees.

3. We allow the use of only shotguns, muzzleloaders, and bow and arrow for deer and feral hog hunting. We allow hunters to take feral hog in any area that is open to hunting deer using only those weapons that we authorize for taking deer except that hunters may take feral hog with bow and arrow, muzzleloader, and shotgun on the Frying Pan Unit whenever the area is open to hunting any game species with firearms.

4. You may possess only approved nontoxic shot (see § 32.2(k)) while hunting turkeys on the Pungo Unit.

5. We allow deer hunting only with shotgun and muzzleloader on the Pungo Unit while possessing a valid permit from the North Carolina Wildlife Resources Commission for the Pocosin Lakes National Wildlife Refuge—Pungo Unit—either sex deer special hunts that we hold in late September and October. We require a fee that validates the State permit to participate in these special hunts.

6. During the special hunts described in C5, we allow only permitted hunters on the Pungo Unit from 1½ hours before legal sunrise until 1½ hours after legal sunset.

7. Prior to December 1, we allow deer hunting with bow and arrow on the Pungo Unit during all State deer seasons, except during the muzzleloading season and except during the special hunts described in C5.

8. Hunters must wear 500 square inches (3,250 cm²) of fluorescent-orange material above the waist that is visible from all sides while hunting deer and feral hog in any area open to hunting these species with firearms.

9. We allow the use of only portable deer stands (tree climbers, ladders, tripods, etc.). Hunters may use ground blinds, chairs, buckets, and other such items for hunting, but we require that you remove all of these items at the end of each day (see § 27.93 of this chapter), except that hunters with a valid permit for the special hunts described in condition C5 may install one deer stand on the Pungo Unit the day before the start of their hunt and leave it until the end of their hunt. Hunters must tag any stands left overnight on the refuge with their name, address, and telephone number.

10. While hunting, we require youth hunters under age 16 to possess and carry proof that they successfully passed a State-approved hunter education course. Youth hunters may only hunt under the direct supervision of a licensed hunter age 21 or older. A licensed hunter age 21 or older may only supervise one big game youth hunter at a time.

11. We prohibit the use of dogs to track, chase, or in any way assist with the take of big game.

D. Sport Fishing. * * *

1. We allow fishing in Pungo Lake and New Lake only from March 1 through October 31, except that we close Pungo Lake and the entire Pungo Unit to fishing during the special hunts described in condition C5.

* * * * *

Swanquarter National Wildlife Refuge

A. Migratory Game Bird Hunting. * * *

* * * * *

6. We allow hunting only during the State waterfowl season occurring in November, December, and January.

7. Each youth hunter must remain within sight and normal voice contact of an adult age 21 or older. An adult may directly supervise up to two youth hunters age 15 or younger who must have successfully completed a State-approved hunter safety course and possess and carry proof of certification.

8. We open the refuge to daylight use only (legal sunrise to legal sunset), except that we allow hunters to enter and remain in open hunting areas from 1 hour before legal shooting time until 1 hour after legal shooting time.

* * * * *

24. Amend § 32.53 North Dakota by revising paragraph B.10. under Upper Souris National Wildlife Refuge to read as follows:

§ 32.53 North Dakota.

* * * * *

Upper Souris National Wildlife Refuge

* * * * *

B. Upland Game Hunting. * * *

* * * * *

10. Hunters may possess only approved nontoxic shot for all upland game hunting as identified in § 20.21(j) of this chapter.

* * * * *

25. Amend § 32.55 Oklahoma by:

a. Revising paragraph B.2. under Deep Fork National Wildlife Refuge;

b. Revising paragraphs A.1., A.5., A.11., and A.12. under Sequoyah National Wildlife Refuge;

c. Revising the entry for Tishomingo National Wildlife Refuge; and

d. Adding an entry for Tishomingo Wildlife Management Unit.

The additions and revisions read as follows:

§ 32.55 Oklahoma.

* * * * *

Deep Fork National Wildlife Refuge

* * * * *

B. Upland Game Hunting. * * *

* * * * *

2. We allow shotguns, .22 and .17 caliber rimfire rifles, and pistols for rabbit and squirrel hunting. Hunters must possess nontoxic shot when using a shotgun (see § 32.2(k)).

* * * * *

Sequoyah National Wildlife Refuge

A. Migratory Game Bird Hunting. * * *

1. We require an annual refuge permit (Special Use Permit; FWS Form 3-1383) for all hunting. The hunter must possess and carry the signed permit while hunting. We require hunters to abide by all terms and conditions listed on the permit.

* * * * *

5. Hunters must use only legal shotguns and possess only approved nontoxic shot for migratory bird hunting. Persons possessing, transporting, or carrying firearms on national wildlife refuges must comply with all provisions of State and local law. Persons may only use (discharge) firearms in accordance with refuge regulations (50 CFR 27.42 and specific refuge regulations in part 32).

* * * * *

11. We prohibit hunters entering the Sandtown Bottom Unit prior to 5 a.m. during the hunting season. Until 7 a.m., the entrance is through the headquarters gate only, at which time hunters may enter the Sandtown Bottom Unit through any other access point on the refuge. Hunters must leave the Sandtown Bottom Unit by 1 hour after legal sunset.

12. We prohibit alcoholic beverages on all refuge lands.

* * * * *

Tishomingo National Wildlife Refuge

A. Migratory Game Bird Hunting. [Reserved]

B. Upland Game Hunting. [Reserved]

C. Big Game Hunting. We allow hunting of white-tailed deer on designated areas of the refuge in accordance with State regulations subject to the following conditions:

1. Refuge bonus deer gun hunts are by special permit (issued by the Oklahoma State Department of Wildlife Conservation) only; we prohibit prehunt scouting or use of camera-monitoring devices.

2. We prohibit baiting (see § 32.2(h)).

3. We allow camping in compliance with conditions set out by the refuge.

D. Sport Fishing. We allow sport fishing on designated areas of the refuge in accordance with State regulations subject to the following conditions:

1. Anglers may bank and wade fish with pole and line or rod and reel year-round in areas open for public fishing access.

2. Anglers may use boats from March 1 through September 30 in designated waters (see refuge map).

3. Anglers may “no-wake” boat fish during the boating season with line and pole or rod and reel, except in areas designated as Sanctuary Zones.

4. Anglers may use trotlines and other set tackle only in the Cumberland Pool (designated areas), Rock Creek, and between the natural banks of the Washita River. Anglers may only use set tackle with anchored floats.

5. We prohibit use of limblines, throwlines, juglines, and yo-yos.

6. We prohibit use of any containers (jugs, bottles) as floats.

7. Anglers may night fish from a boat (during boating season) in the Cumberland Pool, except in the Sanctuary Zones. Anglers may night fish at the Headquarters area, Sandy Creek Bridge, Murray 23, and Nida Point.

9. Anglers may take bait only for personal use while fishing on the refuge in accordance with State law. We prohibit bait removal from the refuge for commercial sales. We also prohibit release of bait back into the water.

9. We prohibit bow fishing.

10. We prohibit take of fish by use of hands (noodling).

11. We prohibit take of frog, turtle, or mussel.

12. We prohibit swimming, water sports, personal watercraft, and airboats.

13. Condition C3 applies.

Tishomingo Wildlife Management Unit

A. Migratory Game Bird Hunting. We allow hunting of mourning dove and waterfowl on the Tishomingo Wildlife Management Unit of Tishomingo National Wildlife Refuge in accordance with State regulations.

B. Upland Game Hunting. We allow hunting of quail, squirrel, turkey, and rabbit on the Tishomingo Wildlife Management Unit of Tishomingo National Wildlife Refuge in accordance with State regulations.

C. Big Game Hunting. We allow hunting of white-tailed deer on the Tishomingo Wildlife Management Unit of Tishomingo National Wildlife Refuge in accordance with State regulations.

D. Sport Fishing. We allow sport fishing on the Tishomingo Wildlife Management Unit of Tishomingo National Wildlife Refuge in accordance with State regulations.

* * * * *

26. Amend § 32.56 Oregon by:

a. Adding paragraph A.4. under Bandon Marsh National Wildlife Refuge;

b. Revising the entry for Cold Springs National Wildlife Refuge;

c. Revising paragraph A. under Lewis and Clark National Wildlife Refuge;

d. Revising the entry for McKay Creek National Wildlife Refuge;

e. Revising the entry for Umatilla National Wildlife Refuge; and

f. Revising paragraphs C. and D. under William L. Finley National Wildlife Refuge.

The additions and revisions read as follows:

§ 32.56 Oregon.

* * * * *

Bandon Marsh National Wildlife Refuge

A. Migratory Game Bird Hunting. * * *

* * * * *

4. Persons possessing, transporting, or carrying firearms on national wildlife refuges must comply with all provisions of State and local law. Persons may only use (discharge) firearms in accordance with refuge regulations (see § 27.42 of this chapter and specific regulations in part 32).

* * * * *

Cold Springs National Wildlife Refuge

A. Migratory Game Bird Hunting. We allow hunting of goose, duck, coot, dove, and snipe on designated areas of the refuge in accordance with State regulations subject to the following conditions:

1. We prohibit overnight camping and/or parking.

2. You may possess only approved nontoxic shot for hunting (see § 32.2(k)).

3. We prohibit discharge of any firearm within ¼ mile (396 m) of any maintained building or Federal facility, such as, but not limited to, a structure designed for storage, human occupancy, or shelter for animals.

4. We allow only portable blinds and temporary blinds constructed of nonliving natural materials. Hunters must remove all decoys and other equipment (see § 27.93 of this chapter) at the end of each day.

5. We allow hunting only on Tuesdays, Thursdays, Saturdays, Sundays, Thanksgiving Day, Christmas Day, and New Year's Day.

6. We reserve parking lot F solely for Memorial Marsh Unit waterfowl hunters.

7. We require waterfowl hunting parties to space themselves a minimum of 200 yards (180 m) apart in the free roam area along the reservoir shoreline.

8. We allow only nonmotorized boats or boats with electric motors within that portion of the reservoir open to hunting.

9. On the Memorial Marsh Unit, we allow hunting only from numbered field blind sites, and hunters must park their vehicles only at the numbered post corresponding to the numbered field blind site they are using (see § 27.31 of this chapter). Selection of parking sites/numbered posts is on a first-come, first-served basis at parking lot F. We prohibit free-roam hunting or jump shooting, and you must remain within 100 feet (30 m) of the numbered field blind post unless retrieving birds or setting decoys. We allow a maximum of four persons per blind site.

B. Upland Game Hunting. We allow hunting of upland game birds on designated areas of the refuge in accordance with State regulations subject to the following conditions:

1. Conditions A1, A2, and A3 apply.

2. We allow hunting from 12 p.m. (noon) to legal sunset on Tuesdays, Thursdays, Saturdays, Sundays, Thanksgiving Day, and Christmas Day.

C. Big Game Hunting. [Reserved]

D. Sport Fishing. We allow fishing on designated areas of the refuge in accordance with State regulations subject to the following conditions:

1. Condition A1 applies.

2. In the Cold Springs Reservoir, we allow fishing only from March 1 through September 30.

3. We allow use of only nonmotorized boats and boats with electric motors.

* * * * *

Lewis and Clark National Wildlife Refuge

A. Migratory Game Bird Hunting. We allow hunting of goose, duck, coot, and snipe on the designated areas of the refuge in accordance with State regulations subject to the following conditions:

1. You may possess only approved nontoxic shot for hunting (see § 32.2(k)).

2. We prohibit hunting on all exposed lands on Miller Sands Island and its partially enclosed lagoon, as posted. We prohibit hunting inside the diked portion of Karlson Island, as posted.

3. We prohibit permanent blinds. You must remove all personal property, including decoys and boats, by 1 hour after legal sunset (see §§ 27.93 and 27.94 of this chapter).

* * * * *

McKay Creek National Wildlife Refuge

A. Migratory Game Bird Hunting. We allow hunting of goose, duck, coot, and snipe on designated areas of the refuge in accordance with State regulations subject to the following conditions:

1. We prohibit overnight camping and/or parking.

2. We prohibit possession of toxic shot for hunting (see § 32.2(k)).

3. We prohibit discharge of any firearm within ¼ mile (396 m) of any maintained building or Federal facility, such as, but not limited to, a structure designed for storage, human occupancy, or shelter for animals.

4. We only allow portable blinds and temporary blinds constructed of nonliving natural materials. Hunters must remove all decoys and other equipment (see § 27.93 of this chapter) at the end of each day.

5. We require waterfowl hunting parties to space themselves a minimum of 200 yards (180 m) apart.

6. We prohibit the use of boats.

B. Upland Game Hunting. We allow hunting of upland game birds on designated areas of the refuge in accordance with State regulations subject to the following conditions:

1. Conditions A1, A2, and A3 apply.

2. On the opening weekend of the hunting season, we require all hunters to possess and carry a special refuge permit (name/address/phone number).

C. Big Game Hunting. [Reserved]

D. Sport Fishing. We allow fishing on designated areas of the refuge in accordance with State regulations subject to the following conditions:

1. Condition A1 applies.

2. We allow fishing from March 1 through September 30.

* * * * *

Umatilla National Wildlife Refuge

A. Migratory Game Bird Hunting. We allow hunting of goose, duck, coot, and snipe on designated areas of the refuge in accordance with State regulations subject to the following conditions:

1. We prohibit overnight camping and/or parking.

2. We prohibit possession of toxic shot for hunting (see § 32.2(k)).

3. We prohibit discharge of any firearm within ¼ mile (396 m) of any maintained building or Federal facility, such as, but not limited to, a structure designed for storage, human occupancy, or shelter for animals.

4. We allow only portable blinds and temporary blinds constructed of nonliving natural materials. Hunters must remove all decoys and other equipment (see § 27.93 of this chapter) at the end of each day.

5. On the McCormack Unit, we allow hunting subject to the following conditions:

i. The McCormack Unit is a fee-hunt area only open to hunting on Wednesdays, Saturdays, Sundays, Thanksgiving Day, and New Year's Day during State waterfowl seasons.

ii. We require hunters to stop at the check station to obtain a special refuge permit (name/address/phone number) that you must possess and carry, to pay a recreation user fee, and to obtain a blind assignment before hunting.

iii. We allow hunting only from assigned blind sites and require hunters to remain within 100 feet (30 m) of marked blind sites unless retrieving birds.

iv. Hunters may only possess up to 25 shot shells per hunt day.

6. On the Boardman Unit, we require waterfowl hunting parties to space themselves a minimum of 200 yards (180 m) apart.

7. We close all islands within the Columbia River to all access.

B. Upland Game Hunting. We allow hunting of upland game birds on designated areas of the refuge in accordance with State regulations subject to the following conditions:

1. Conditions A1, A2, A3, and A7 apply.

2. We allow hunting of upland game from 12 p.m. (noon) to legal sunset of each hunt day.

3. On the McCormack Fee Hunt Unit, we allow hunting only on Wednesdays, Saturdays, Sundays, Thanksgiving Day, and New Year's Day.

4. On the McCormack Unit, we require all hunters to possess and carry a special refuge permit (name/address/phone number).

C. Big Game Hunting. We allow hunting of deer on designated areas of the refuge in accordance with State regulations subject to the following conditions:

1. Conditions A1, A2, A3, and A7 apply.

2. We allow hunting by special permit only (issued by the State).

D. Sport Fishing. We allow fishing on designated areas of the refuge in accordance with State regulations subject to the following conditions:

1. Conditions A1 and A7 apply.

2. We allow fishing on refuge impoundments and ponds from February 1 through September 30.

* * * * *

William L. Finley National Wildlife Refuge

* * * * *

C. Big Game Hunting. We allow hunting of deer on designated areas of the refuge in accordance with State regulations subject to the following conditions:

1. We allow shotgun and archery hunting on designated dates from ½ hour before legal sunrise until ½ hour after legal sunset.

2. We allow shotguns using only buckshot or slugs.

3. We prohibit overnight camping and after-hours parking on the refuge.

4. We prohibit hunting from refuge structures, observation blinds, or boardwalks.

5. All vehicles must remain parked in designated areas.

6. Hunters may use portable or climbing deer stands and must remove stands daily (see § 27.93 of this chapter). We prohibit driving or screwing nails, spikes, or other objects into trees or hunting from any tree into which such an object has been driven (see § 32.2(i)). We prohibit limbing of trees.

7. All hunters must complete a Big Game Harvest Report (FWS Form 3-2359) available at the designated self-service hunt kiosks located on the refuge.

8. Persons possessing, transporting, or carrying firearms on national wildlife refuges must comply with all provisions of State and local law. Persons may only use (discharge) firearms in accordance with refuge regulations (see § 27.42 of this chapter and specific refuge regulations in part 32).

D. Sport Fishing. We allow fishing on designated areas of the refuge in accordance with State regulations subject to the following conditions:

1. We allow fishing on Muddy Creek from the beginning of the State trout season in April through October 31.

2. We prohibit the use of boats.

27. Amend § 32.57 Pennsylvania by revising paragraphs A.2. through A.4., B.2., and C. under Erie National Wildlife Refuge to read as follows:

§ 32.57 Pennsylvania.

* * * * *

Erie National Wildlife Refuge

A. Migratory Game Bird Hunting. * * *

* * * * *

2. We require all hunters to possess and carry on their person a signed refuge hunt permit (signed brochure).

3. We only allow nonmotorized boats for waterfowl hunting in permitted areas.

4. We require that hunters remove all boats, blinds, cameras, and decoys from the refuge within 1 hour after legal sunset (see §§ 27.93 and 27.94 of this chapter).

* * * * *

B. Upland Game Hunting. * * *

* * * * *

2. Conditions A1, A2, A4, and A5 apply.

* * * * *

C. Big Game Hunting. We allow hunting of deer, bear, and turkey on designated areas of the refuge in accordance with State regulations subject to the following conditions:

1. Condition A1 applies. We also allow spring turkey hunting in accordance with State regulations.

2. Conditions A2 through A5 apply.

3. We prohibit organized deer drives in hunt area B of the Sugar Lake Division. We define a “drive” as three or more persons involved in the act of chasing, pursuing, disturbing, or otherwise directing deer so as to make the animal more susceptible to harvest.

4. We require any person hunting bear off-refuge to obtain a refuge Special Use Permit (FWS Form 3-1383) to track a wounded bear that may have entered the refuge.

* * * * *

28. Amend § 32.60 South Carolina by:

a. Revising paragraphs C.9. and C.13. and adding paragraph C.17. under Pinckney Island National Wildlife Refuge; and

b. Revising paragraphs A.2., A.3., A.4., and B.2., adding paragraph B.4., revising paragraphs C.1., C.7., and C.13., and removing paragraphs C.19. through C.24. under Waccamaw National Wildlife Refuge.

The additions and revisions read as follows:

§ 32.60 South Carolina.

* * * * *

Pinckney Island National Wildlife Refuge

* * * * *

C. Big Game Hunting. * * *

* * * * *

9. Hunters must be on their stands from ½ hour before legal sunrise until 9 a.m. and from 2 hours before legal sunset until ½ hour after legal sunset.

* * * * *

13. You may take five deer (no more than two antlered).

* * * * *

17. We prohibit the use of trail or game cameras.

* * * * *

Waccamaw National Wildlife Refuge

A. Migratory Game Bird Hunting. * * *

* * * * *

2. Each youth hunter age 15 and younger must remain within sight, within normal voice contact, and under supervision of an adult age 21 or older. The adult must comply with all State and Federal hunting license requirements and possess a signed refuge hunting permit (signed brochure).

3. We allow waterfowl hunting only until 12 p.m. (noon) each Saturday and Wednesday during the State waterfowl season. Hunters may enter the refuge no earlier than 5 a.m. on hunt days and must be off the refuge by 2 p.m.

4. We allow scouting Monday through Friday during the waterfowl season. Hunters must be off the refuge by 2 p.m.

* * * * *

B. Upland Game Hunting. * * *

* * * * *

2. We allow hunting only in designated areas and only on days designated annually by the refuge within the State season.

* * * * *

4. We prohibit shooting any game from a boat except waterfowl.

C. Big Game Hunting. * * *

1. Conditions A1, A2, A9, A10, B2, and B4 apply.

* * * * *

7. We allow scouting all year during daylight hours except during the State waterfowl season. During the waterfowl season, the same regulations that apply to scouting for waterfowl (A4) apply to scouting for big game species. We prohibit the use of trail cameras and other scouting devices.

* * * * *

13. You must hunt deer and feral hog from an elevated hunting stand.

* * * * *

29. Amend § 32.62 Tennessee by:

a. Revising paragraph C.4. under Lower Hatchie National Wildlife Refuge; and

b. Revising paragraphs B.1. and C.4. under Reelfoot National Wildlife Refuge.

The revisions read as follows:

§ 32.62 Tennessee.

* * * * *

Lower Hatchie National Wildlife Refuge

* * * * *

C. Big Game Hunting. * * *

* * * * *

4. Hunters may possess lead shot while deer hunting on the refuge (see § 32.2(k)).

* * * * *

Reelfoot National Wildlife Refuge

* * * * *

B. Upland Game Hunting. * * *

1. The refuge is a day-use area only (legal sunrise to legal sunset), with the exception of legal hunting activities.

* * * * *

C. Big Game Hunting. * * *

* * * * *

4. Hunters may possess lead shot while deer hunting on the refuge (see § 32.2 (k)).

* * * * *

30. Amend § 32.63 Texas by:

a. Adding paragraph C.10. under Balcones Canyonlands National Wildlife Refuge;

b. Adding paragraph A.5. under Big Boggy National Wildlife Refuge;

c. Adding paragraph A.7., revising paragraphs D.1. and D.2., and adding D.7. under Brazoria National Wildlife Refuge;

d. Revising paragraphs C.1., C.2., C.3., C.6., C.7., C.8., C.15., C.16., and C.17. under Laguna Atascosa National Wildlife Refuge;

e. Revising paragraph A.3., adding paragraph A.6., revising paragraph D.2., and adding paragraph D.3. under San Bernard National Wildlife Refuge; and

f. Revising paragraphs B.1., B.2., and B.4. through B.8., adding paragraph B.9., and revising paragraph C.1., redesignating paragraphs C.2. and C.3. as paragraphs C.3. and C.4., adding a new paragraph C.2., and removing paragraphs C.5. and C.6. under Trinity River National Wildlife Refuge.

The additions and revisions read as follows:

§ 32.63 Texas.

* * * * *

Balcones Canyonlands National Wildlife Refuge

* * * * *

C. Big Game Hunting. * * *

* * * * *

10. Hunters must exit the refuge no later than 1½ hours after legal sunset.

* * * * *

Big Boggy National Wildlife Refuge

A. Migratory Game Bird Hunting. * * *

* * * * *

5. Persons possessing, transporting, or carrying firearms on national wildlife refuges must comply with all provisions of State and local law. Persons may only use (discharge) firearms in accordance with refuge regulations (see § 27.42 of this chapter and specific refuge regulations in part 32).

* * * * *

Brazoria National Wildlife Refuge

A. Migratory Game Bird Hunting. * * *

* * * * *

7. Persons possessing, transporting, or carrying firearms on national wildlife refuges must comply with all provisions of State and local law. Persons may only use (discharge) firearms in accordance with refuge regulations (see § 27.42 of this chapter and specific refuge regulations in part 32).

* * * * *

D. Sport Fishing. * * *

1. We allow fishing only on Nick's Lake, Salt Lake, and Lost Lake.

2. We allow access for shore fishing at Bastrop Bayou, Clay Banks, and Salt Lake Public Fishing Areas; we prohibit the use or possession of alcoholic beverages in all Public Fishing Areas.

* * * * *

7. Persons possessing, transporting, or carrying firearms on national wildlife refuges must comply with all provisions of State and local law. Persons may only use (discharge) firearms in accordance with refuge regulations (see § 27.42 of this chapter and specific refuge regulations in part 32).

* * * * *

Laguna Atascosa National Wildlife Refuge

* * * * *

C. Big Game Hunting. * * *

1. We require hunters to pay a fee and obtain a refuge hunt permit (name and address only). We issue replacement permits for an additional nominal fee. All hunt fees are nonrefundable. We require the hunter to possess and carry a signed and dated refuge hunt permit.

2. We allow archery and firearm hunting on designated units of the refuge. Units 1, 2, 3, 5, 6, and 8 are open to archery hunting during designated dates. Units 2, 3, 5, and 8 are open to firearm hunting during designated dates. We close the following areas to hunting: Adolph Thomae, Jr. County Park in Unit 3, posted “No Hunting Zones” within all hunt units, La Selva Verde Tract (Armstrong), Waller Tract, Tocayo (COHYCO, Inc.) Tract, Frieze Tract, Escondido Tract, Sendero del Gato, Resaca de la Gringa, Bahia Grande Unit, South Padre Island Unit, and the Boswell Tract.

3. We offer hunting during specific portions of the State hunting season. We determine specific deer hunt dates annually, and they usually fall within October, November, December, and January. We may provide special feral hog and nilgai antelope hunts to reduce populations at any time during the year.

* * * * *

6. An adult age 17 or older must accompany and remain within sight and normal voice contact of each youth hunter, ages 9 through 16. Hunters must be at least age 9.

7. We allow the use of only longbows, compound bows, and recurved bows during the archery hunt. We allow the use of only shoulder-fired muzzleloaders, rifles, and crossbows during the firearm hunt. Persons possessing, transporting, or carrying firearms on national wildlife refuges must comply with all provisions of State and local law. Persons may only use (discharge) firearms in accordance with refuge regulations (see § 27.42 of this chapter and specific refuge regulations in part 32). Muzzleloader firearms must be .40 caliber or larger, and modern rifles must be centerfired and .22 caliber or larger. We prohibit loaded authorized hunting firearms (see § 27.42 of this chapter) in the passenger compartment of a motor vehicle. We define “loaded” as having rounds in the chamber or magazine or a firing cap on a muzzleloading firearm. We prohibit target practice or “sighting-in” on the refuge.

8. We allow a scouting period prior to the commencement of the refuge deer hunting season. A permitted hunter and a limit of two nonpermitted individuals may enter the hunt units during the scouting period. We allow access to the units during the scouting period from legal sunrise to legal sunset. You must clearly display the refuge-issued Hunter Vehicle Validation Tags/Scouting Permits (name, address, and phone number; available from the refuge office) face up on the vehicle dashboard when hunting and scouting.

* * * * *

15. We prohibit killing or wounding an animal covered in this section and intentionally or knowingly failing to make a reasonable effort to retrieve and include it in the hunter's bag limit.

16. We prohibit use of or hunting from any type of watercraft or floating device.

17. Hunters must receive authorization from a refuge employee to enter closed refuge areas to retrieve harvested game.

* * * * *

San Bernard National Wildlife Refuge

A. Migratory Game Bird Hunting. * * *

* * * * *

3. We require hunters to use the Waterfowl Lottery Application (FWS Form 3-2355) and payment of fees for the Sergent Permit Waterfowl Hunt Area. Hunters must abide by all terms and conditions set by the permits.

* * * * *

6. Persons possessing, transporting, or carrying firearms on national wildlife refuges must comply with all provisions of State and local law. Persons may only use (discharge) firearms in accordance with refuge regulations (see § 27.42 of this chapter and specific refuge regulations in part 32).

* * * * *

D. Sport Fishing. * * *

* * * * *

2. We allow access for shore fishing at Cedar Lake Creek Public Fishing Area; we prohibit the use or possession of alcoholic beverages in all Public Fishing Areas.

3. Persons possessing, transporting, or carrying firearms on national wildlife refuges must comply with all provisions of State and local law. Persons may only use (discharge) firearms in accordance with refuge regulations (see § 27.42 of this chapter and specific refuge regulations in part 32).

* * * * *

Trinity River National Wildlife Refuge

* * * * *

B. Upland Game Hunting. * * *

1. We require hunters to possess a refuge permit (signed brochure) and pay a fee for the hunt application. For information concerning the hunts, contact the refuge office. The hunter must carry the nontransferable permit at all times while hunting.

2. We will offer a limited season upland game squirrel and rabbit hunt. We require refuge permits and hunters must turn in the Upland/Small Game/Furbearer Report (FWS Form 3-2362) by the date specified on the permit. Failure to submit the report will render the hunter ineligible for the next year's limited upland game hunt. Drawings will be either by lottery or on a first-come-first-served basis. We will describe hunt units in maps and written directions.

* * * * *

4. All units are walk-in only. We prohibit hunters using dogs, feeders, baiting, campsites, fires, horses, bicycles, and all-terrain vehicles (except on designated units which allow ATV use for hunters with disabilities). We provide access for hunters with disabilities. Please contact the refuge office for additional information.

5. Persons possessing, transporting, or carrying firearms on national wildlife refuges must comply with all provisions of State and local law. Persons may only use (discharge) firearms in accordance with refuge regulations (see § 27.42 of this chapter and specific refuge regulations in part 32). Units will have a hunting type of weapon restriction (long gun, shotgun, or archery) due to safety concerns.

6. Youth hunters age 12 through 17 must hunt with a permitted adult age 18 or older and be within sight and normal voice contact of the adult.

7. For safety we require a minimum distance between hunt parties of 200 yards (180 m). Hunters must visibly wear 400 square inches (2,600 cm²) of hunter orange above the waist and a hunter-orange hat or cap.

8. We require hunters to park only in the assigned parking area at each hunt unit. They may enter the refuge no earlier than 4:30 a.m. We will allow hunting from ½ hour before legal sunrise to legal sunset only during the days specified on the permit.

9. Hunters may place no more than one temporary stand on the refuge. Hunters may place the stand during the scouting week before the hunt begins and must remove it the day the hunt ends. Hunters must remove all flagging or markers the day the hunt ends. We prohibit the use of paint for marking. Hunters must label blinds with the name of the permit holder. We prohibit hunting or erection of blinds along refuge roads or main trails.

C. Big Game Hunting. * * *

1. We will offer limited (shortened) seasons for big game hunting of deer and feral hog. The limited hunts are during the archery, general, and muzzleloader State seasons. We require refuge permits (signed refuge brochure) and Big Game Harvest Report (FWS Form 3-2359). Hunters must turn in both forms by the date specified on the permit. Failure to submit the Harvest Report will render the hunter ineligible for the next year's limited big game hunt. Drawings are by lottery. We will describe hunt units in maps and provide written directions.

2. Conditions B3 through B9 apply.

* * * * *

31. Amend § 32.64 Utah by revising paragraphs A.10., B., and C. under Ouray National Wildlife Refuge to read as follows:

§ 32.64 Utah.

* * * * *

Ouray National Wildlife Refuge

A. Migratory Game Bird Hunting. * * *

* * * * *

10. Persons possessing, transporting, or carrying firearms on national wildlife refuges must comply with all provisions of State and local law. Persons may only use (discharge) firearms in accordance with refuge regulations (see § 27.42 of this chapter and part 32).

B. Upland Game Hunting. We allow hunting of pheasant and turkey in accordance with State regulations subject to the following conditions:

1. We allow pheasant and turkey hunting within designated areas.

2. We prohibit hunting on the islands and sandbars within the Green River.

3. We allow turkey hunting for youth hunters under age 14 during the general-season, youth-only turkey hunt season.

C. Big Game Hunting. We allow hunting of deer and elk in accordance with State regulations subject to the following conditions:

1. We allow deer and elk hunting within designated areas.

2. We prohibit hunting on the islands and sandbars within the Green River.

3. We allow use of portable tree stands and hunting blinds. Hunters must remove all tree stands and blinds no later than the last day of the hunting season for which they have a permit (see § 27.93 of this chapter).

4. We allow elk hunting for youth hunters under age 14 only prior to October 1.

5. We allow elk hunting during the Uintah Basin Extended Archery Elk Hunt starting on October 1.

6. We prohibit elk hunting during the general season any-legal-weapon (rifle) and muzzleloader- bull-elk hunts.

7. We allow elk hunting during limited late season antlerless elk (after December 1), hunter depredation pool, and other disabled/youth elk hunts in accordance with State and refuge regulations.

* * * * *

32. Amend § 32.67 Washington by:

a. Revising the entry for Columbia National Wildlife Refuge;

b. Revising the entry for Conboy Lake National Wildlife Refuge;

c. Revising the entry for McNary National Wildlife Refuge;

d. Revising the entry for Toppenish National Wildlife Refuge; and

e. Revising the entry for Umatilla National Wildlife Refuge.

The revisions read as follows:

§ 32.67 Washington.

* * * * *

Columbia National Wildlife Refuge

A. Migratory Game Bird Hunting. We allow hunting of goose, duck, coot, and snipe on designated areas of the refuge in accordance with State regulations subject to the following conditions:

1. Except for Soda Lake Campground, we prohibit overnight parking and/or camping.

2. You may possess only approved nontoxic shot for hunting (see § 32.2(k)).

3. We prohibit discharge of any firearm within ¼ mile (396 m) of any maintained building or Federal facility, such as, but not limited to, a structure designed for storage, human occupancy, or shelter for animals.

4. We only allow portable blinds and temporary blinds constructed of nonliving natural materials. Hunters must remove all decoys and other equipment (see § 27.93 of this chapter) at the end of each day.

5. We allow hunting only on Wednesdays, Saturdays, Sundays, and Federal holidays on Marsh Unit 1 and Farm Units 226-227.

6. Prior to entering the Farm Unit 226-227 hunt area, we require you to possess and carry a special refuge permit (name/address/phone number), pay a recreation user fee, and obtain a blind assignment.

B. Upland Game Hunting. We allow hunting of upland game birds on designated areas of the refuge in accordance with State regulations subject to the following conditions:

1. Conditions A1, A2, and A3 apply.

2. We allow hunting of only upland game birds during State upland game seasons that run concurrently with the State waterfowl season.

3. We allow hunting from 12 p.m. (noon) to legal sunset on Wednesdays, Saturdays, Sundays, and Federal holidays in Marsh Unit 1.

C. Big Game Hunting. We allow hunting of deer on designated areas of the refuge in accordance with State regulations subject to the following conditions:

1. Conditions A1, A2, and A3 apply.

2. We allow hunting only during State deer seasons that run concurrently with the State waterfowl season.

3. We allow hunting with shotgun and archery only.

D. Sport Fishing. We allow fishing on designated areas of the refuge in accordance with State regulations subject to the following conditions:

1. Condition A1 applies.

2. On waters open to fishing, we allow fishing only from April 1 to September 30, with the exception of Falcon, Heron, Goldeneye, Corral, Blythe, Chukar, and Scaup Lakes that are open year-round.

3. We allow frogging during periods when we allow fishing on designated waters.

Conboy Lake National Wildlife Refuge

A. Migratory Game Bird Hunting. We allow hunting of goose, duck, coot, and snipe on designated areas of the refuge in accordance with State regulations subject to the following conditions:

1. We prohibit overnight camping and/or parking.

2. You may possess only approved nontoxic shot for hunting (see § 32.2(k)).

3. We prohibit discharge of any firearm within ¼ mile (396 m) of any maintained building or Federal facility, such as, but not limited to, a structure designed for storage, human occupancy, or shelter for animals.

4. We allow only portable blinds and temporary blinds constructed of nonliving natural materials. Hunters must remove all decoys and other equipment at the end of each day (see § 27.93 of this chapter).

B. Upland Game Hunting. [Reserved]

C. Big Game Hunting. We allow hunting of deer on designated areas of the refuge in accordance with State regulations subject to the following conditions: Conditions A1, A2, and A3 apply.

D. Sport Fishing. [Reserved]

* * * * *

McNary National Wildlife Refuge

A. Migratory Game Bird Hunting. We allow hunting of goose, duck, coot, dove, and snipe on designated areas of the refuge in accordance with State regulations subject to the following conditions:

1. We prohibit overnight camping and/or parking.

2. You may possess only approved nontoxic shot for hunting (see § 32.2(k)).

3. We prohibit discharge of any firearm within ¼ mile (396 m) of any maintained building or Federal facility, such as, but not limited to, a structure designed for storage, human occupancy, or shelter for animals.

4. We allow only portable blinds and temporary blinds constructed of nonliving natural materials. Hunters must remove all decoys and other equipment (see § 27.93 of this chapter) at the end of each day.

5. On the McNary Fee Hunt Area (McNary Headquarters Unit), we allow hunting subject to the following conditions:

i. The McNary Fee Hunt Area (McNary Headquarters Unit) is only open on Wednesdays, Saturdays, Sundays, Thanksgiving Day, and New Year's Day.

ii. We require hunters to possess and carry a special refuge permit (name/address/phone number), pay a recreation user fee, and obtain a blind assignment before hunting.

iii. We allow hunting only from assigned blind sites and require hunters to remain within 100 feet (30 m) of marked posts unless retrieving birds or setting decoys.

iv. We prohibit the hunting of dove.

v. Hunters may only possess up to 25 shot shells per hunt day.

6. On the Peninsula Unit, we allow hunting subject to the following conditions:

i. On the east shoreline of the Peninsula Unit, we allow hunting only from established numbered blind sites, assigned on a first-come, first-served basis. We require hunters to remain within 100 feet (30 m) of marked posts unless retrieving birds or setting decoys.

ii. On the west shoreline of the Peninsula Unit, we require hunters to space themselves a minimum of 200 yards (180 m) apart.

7. We close Strawberry Island in the Snake River to all access.

8. We close Badger and Foundation Islands in the Columbia River to all access.

B. Upland Game Hunting. We allow hunting of upland game birds on designated areas of the refuge in accordance with State regulations subject to the following conditions:

1. Conditions A1, A2, A3, A7, and A8 apply.

2. On the McNary Fee Hunt Area (McNary Headquarters Unit), we allow hunting on Wednesdays, Saturdays, Sundays, Thanksgiving Day, and New Year's Day. We prohibit hunting before 12 p.m. (noon) on each hunt day.

3. On the Peninsula Unit, we prohibit hunting before 12 p.m. (noon) on goose hunt days.

C. Big Game Hunting. We allow hunting of deer only on the Stateline, Juniper Canyon, and Wallula Units in accordance with State regulations subject to the following conditions.

1. Conditions A1, A2, A3, A7, and A8 apply.

2. On the Wallula Unit, we allow hunting with shotgun and archery only.

D. Sport Fishing. We allow fishing on designated areas of the refuge in accordance with State regulations subject to the following conditions: Conditions A1, A7, and A8 apply.

* * * * *

Toppenish National Wildlife Refuge

A. Migratory Game Bird Hunting. We allow hunting of goose, duck, coot, dove, and snipe on designated areas of the refuge in accordance with State regulations subject to the following conditions:

1. We prohibit overnight camping and/or parking.

2. You may possess only approved nontoxic shot for hunting (see § 32.2(k)).

3. We prohibit discharge of any firearm within ¼ mile (396 m) of any maintained building or Federal facility, such as, but not limited to, a structure designed for storage, human occupancy, or shelter for animals.

4. We allow only portable blinds and temporary blinds constructed of nonliving natural materials. Hunters must remove all decoys and other equipment (see § 27.93 of this chapter) at the end of each day.

5. We allow dove hunting only on the Chloe, Webb, Petty, Halvorson, Chambers, and Isiri Units.

6. On the Pumphouse and Robbins Road Units, hunters may only possess up to 25 shot shells per hunt day.

7. On the Pumphouse, Petty, Isiri, Chamber, and Chloe Units, we allow hunting 7 days a week subject to the following condition: We require hunting parties to space themselves a minimum of 200 yards (180 m) apart.

8. On the Halvorson and Webb Units, we allow hunting only on Wednesdays, Saturdays, Sundays, Thanksgiving Day, Christmas Day, and New Year's Day.

9. On the Robbins Road Unit, we allow hunting only on Tuesdays, Thursdays, Saturdays, Sundays, Thanksgiving Day, Christmas Day, and New Year's Day.

10. On the Robbins Road and Pumphouse Units, we allow hunting only from numbered field blind sites, and hunters must park their vehicles only at the numbered post corresponding to the numbered field blind site they are using (see § 27.31 of this chapter). Selection of parking sites/numbered posts is on a first-come, first-served basis at the designated parking lot. We prohibit free-roam hunting or jump shooting, and you must remain within 100 feet (30 m) of the numbered field blind post unless retrieving birds or setting decoys. We allow a maximum of four persons per blind site.

B. Upland Game Hunting. We allow hunting of upland game birds on designated areas of the refuge in accordance with State regulations subject to the following conditions:

1. Conditions A1 through A3 apply.

2. We allow hunting of upland game from 12 p.m. (noon) to legal sunset of each hunt day.

3. On the Halvorson and Webb Units, we allow hunting only on Wednesdays, Saturdays, Sundays, Thanksgiving Day, Christmas Day, and New Year's Day.

4. On the Robbins Road Unit, we allow hunting only on Tuesdays, Thursdays, Saturdays, Sundays, Thanksgiving Day, Christmas Day, and New Year's Day.

C. Big Game Hunting. [Reserved]

D. Sport Fishing. [Reserved]

* * * * *

Umatilla National Wildlife Refuge

A. Migratory Game Bird Hunting. We allow hunting of goose, duck, coot, dove, and snipe on designated areas of the refuge in accordance with State regulations subject to the following conditions:

1. We prohibit overnight camping and/or parking.

2. You may possess only approved nontoxic shot for hunting (see § 32.2(k)).

3. We prohibit discharge of any firearms within ¼ mile (396 m) of any maintained building or Federal facility, such as, but not limited to, a structure designed for storage, human occupancy, or shelter for animals.

4. We only allow portable blinds and temporary blinds constructed of nonliving natural materials. You must remove all decoys and other equipment (see § 27.93 of this chapter) at the end of each day.

5. On the Paterson and Whitcomb Units, we allow hunting only on Wednesdays, Saturdays, Sundays, Thanksgiving Day, Christmas Day, and New Year's Day.

6. In the refuge ponds within the Paterson Unit, we allow only nonmotorized boats and boats with electric motors.

7. On the Ridge Unit, we allow only shoreline hunting and prohibit hunting from boats.

8. We require waterfowl hunting parties to space themselves a minimum of 200 yards (180 m) apart.

9. We close all islands within the Columbia River to all access.

B. Upland Game Hunting. We allow hunting of upland game birds on designated areas of the refuge in accordance with State regulations subject to the following conditions:

1. Conditions A1, A2, A3, A5, and A9 apply.

2. We allow hunting of upland game from 12 p.m. (noon) to legal sunset of each hunt day.

C. Big Game Hunting. We allow hunting of deer on designated areas of the refuge in accordance with State regulations subject to the following conditions:

1. Conditions A1, A2, A3, and A9 apply.

2. We allow hunting by special permit only (issued by the State).

D. Sport Fishing. We allow fishing on designated areas of the refuge in accordance with State regulations subject to the following conditions:

1. Conditions A1 and A9 apply.

2. We allow fishing on refuge impoundments and ponds from February 1 through September 30.

* * * * *

33. Amend § 32.68 West Virginia by revising paragraphs A.2. and A.4., adding paragraph A.8., and revising paragraphs B.1., C.1., and C.2. under Canaan Valley National Wildlife Refuge to read as follows:

§ 32.68 West Virginia.

* * * * *

Canaan Valley National Wildlife Refuge

A. Migratory Game Bird Hunting. * * *

* * * * *

2. We allow hunting on most refuge lands with the following exceptions: the area surrounding the refuge headquarters, areas marked as safety zones, areas marked as no hunting zones, areas marked as closed to all public entry, or within 500 feet (150 m) of any dwelling in accordance with State regulations.

* * * * *

4. The refuge opens 1 hour before legal sunrise and closes 1 hour after legal sunset, including parking areas. We prohibit camping. We prohibit overnight parking except by Special Use Permit (FWS Form 3-1383) on Forest Road 80.

* * * * *

8. We prohibit hunters from leaving decoys and other personal property on the refuge (see § 27.93 of this chapter).

B. Upland Game Hunting. * * *

1. Conditions A1 (Upland/Small Game/Furbearer Report; FWS Form 3-2362), A2, A4, A6, and A7 apply.

* * * * *

C. Big Game Hunting.* * *

1. Conditions A1 (Big Game Harvest Report; FWS Form 3-2359), A2, A4, A6, A7, and B4 apply.

2. You may only enter the refuge on foot. You may use hand-powered, wheeled carts for transporting big game.

* * * * *

34. Amend § 32.69 Wisconsin by:

a. Adding paragraph C.6. and revising paragraph D. under Horicon National Wildlife Refuge;

b. Removing paragraph C.2., redesignating paragraphs C.3. through C.11. as paragraphs C.2. through C.10., revising newly redesignated paragraph C.6., adding new paragraph C.11., and revising paragraph D. under Necedah National Wildlife Refuge; and

c. Revising paragraphs B. and D. under Trempealeau National Wildlife Refuge.

The additions and revisions read as follows:

§ 32.69 Wisconsin.

* * * * *

Horicon National Wildlife Refuge

* * * * *

C. Big Game Hunting. * * *

* * * * *

6. Any ground blind used during any gun deer season must display at least 144 square inches (936 cm²) of solid-blaze-orange material visible from all directions.

D. Sport Fishing. We allow fishing on designated areas of the refuge in accordance with State regulations subject to the following conditions:

1. We allow only bank fishing.

2. We prohibit the use of fishing weights or lures containing lead.

* * * * *

Necedah National Wildlife Refuge

* * * * *

C. Big Game Hunting. * * *

* * * * *

6. Refuge Area 2 is open to deer hunting during State archery, gun, and muzzleloader seasons, except for any early antlerless-only hunts.

* * * * *

11. Any ground blind used during any gun deer season must display at least 144 square inches (936 cm²) of solid-blaze-orange material visible from all directions.

D. Sport Fishing. We allow fishing in designated waters of the refuge at designated times subject to the following conditions:

1. We allow use of nonmotorized boats in Sprague-Goose pools only when these pools are open to fishing.

2. We allow motorized boats in Suk Cerney Pool.

3. We allow fishing by hook and line only.

* * * * *

Trempealeau National Wildlife Refuge

* * * * *

B. Upland Game Hunting. [Reserved]

* * * * *

D. Sport Fishing. We allow fishing on designated areas of the refuge from legal sunrise to legal sunset in accordance with State laws for inland waters subject to the following conditions:

1. We allow boats propelled by hand or electric motors only on refuge pools. We do not prohibit the possession of other watercraft motors, only their use. We do not restrict gasoline-powered motors on the navigable channel of the Trempealeau River.

2. We prohibit harvest of turtle, snake, frog, or any other reptile or amphibian (see § 27.21 of this chapter).

3. We prohibit the release of live bait.

4. We prohibit night-lighting, archery, spearing, or netting of fish.

5. We prohibit fishing within 200 feet (60 m) of a water control structure as per State regulation.

6. Anglers must remove ice fishing shelters from the refuge at the end of each day.

* * * * *

Dated: August 29, 2011.
Eileen Sobeck,
Assistant Secretary for Fish and Wildlife and Parks.

[FR Doc. 2011-22752 Filed 9-8-11; 8:45 am]

BILLING CODE 4310-55-P